DEPARTMENT OF THE TREASURY

Privacy Act of 1974; System of Records

AGENCY: Departmental Offices, Treasury.

ACTION: Notice of systems of records.

SUMMARY: In accordance with the requirements of the Privacy Act of 1974, as amended, 5 U.S.C. 552a, the Departmental Offices (DO) is publishing its Privacy Act systems of records.

SUPPLEMENTARY INFORMATION: Pursuant to the Privacy Act of 1974 (5 U.S.C. 552a) and the Office of Management and Budget (OMB) Circular No. A-130, the Department has completed a review of its Privacy Act systems of records notices to identify minor changes that will more accurately describe these records.

The following six systems of records have been added to the Department's inventory of Privacy Act notices since September 30, 1998:

1. DO .006—Treasury Child Care Tuition Assistance Records (Published August 31, 2000, at 65 FR 53083).

2. DO .015—Political Appointee Files. (Published September 8, 2000, at 65 FR 54599).

3. DO .204—Parking and Carpool Program Records (Published December 14, 2000, at 65 FR 78263).

4. DO .003—Law Enforcement Retirement Claims Records (Published January 16, 2001, at 66 FR 3648).

5. DO .195—Treasury Emergency Management System (Published February 6, 2001, at 66 FR 9136).

6. Treasury .011—Treasury Safety Incident Management Information System (Published August 16, 2001 at 66 FR 43041).

During the past three years, the Department has published several new or revised Privacy Act notices pertaining to records maintained by the Department involving two or more bureaus. Originally ten of these systems of records had been designated as a “Treasury/DO” system of records. As part of this republication, the designation of the systems of records that pertain to two or more Treasury bureaus is being changed. Rather than being identified as “DO” systems of records, those systems are being designated as “Treasury” systems and are being renumbered as well. In addition, titles of two Treasury-wide systems of records are being changed. The systems of records which are being designated as Treasury-wide systems of records are:

1. Treasury/DO .002—Treasury Integrated Management Information System (TIMIS), last published in its entirety on December 17, 1998, at 63 FR 69719, is designated as “Treasury .001” and is being renamed as “Treasury Payroll and Personnel System”;

2. Treasury/DO .004—Personnel Security System, last published in its entirety on December 14, 2000, at 65 FR 78261, is designated as “Treasury .007”;

3. Treasury/DO .005—Grievance Records, last published in its entirety August 21, 2000, at 65 FR 53085, is designated as “Treasury .002”;

4. Treasury/DO .006—Treasury Child Care Tuition Assistance Records, published as a new Treasury-wide system of records on August 31, 2000, at 65 FR 53083, is designated as “Treasury .003”;

5. Treasury/DO .150—Freedom of Information Act/Privacy Act Request Records, last published in its entirety on December 3, 1999, at 64 FR 67966, is designated as “Treasury .004”;

6. Treasury/DO .195—Treasury Emergency Management System, published as a new Treasury-wide system of records on February 6, 2001, at 66 FR 9136, is designated as “Treasury .008”;

7. Treasury/DO .203—Public Transportation Incentive Program Records, last published in its entirety on January 16, 2001, at 66 FR 3646, is designated as “Treasury .005”;

8. Treasury/DO .204—Parking and Carpool Program Records, published as a new Treasury-wide system on December 14, 2000, at 65 FR 78263, is designated as “Treasury .006”;

9. Treasury/DO .210—Integrated Financial Management and Revenue System, last published in its entirety on August 31, 2000, at 65 FR 53085, is designated as “Treasury .009” and is being renamed as “Treasury Financial Management Systems”;

10. Treasury/DO .211—Telephone Call Detail Records, last published in its entirety on August 31, 2000, at 65 FR 53085, is designated as “Treasury .010”;

11. Treasury .011—Treasury Safety Incident Management Information System (SIMIS), was published as a new Treasury-wide system on August 16, 2001, at 66 FR 43041.

Other changes throughout the document are editorial in nature and consist principally of changes to system locations and system manager addresses, retention and disposal schedules, revisions to organizational titles and transfers of functions.

On August 31, 2000, the Department changed the title of Treasury/DO .190 from “General Allegations and Investigative Records” to “Investigation Data Management System,” and the title of Treasury/DO .191 was changed from “OIG Management Information System (MIS)” to “Human Resources and Administrative Records System.” In addition, Treasury/DO .068—Time-In-Grade Exception Files was deleted effective August 31, 2000. (65 FR 53085) The following systems of records, “Treasury/DO .206-Office Tracking System,” and “Treasury/DO .156—Tax Court Judge Applicants,” are removed from the Department's inventory of Privacy Act systems of records.

The systems notices are reprinted in their entirety following the Table of Contents.

Systems Covered by This Notice

This notice covers all systems of records adopted up to September 30, 2001.

Dated: February 4, 2002.
W. Earl Wright, Jr.,
Chief Management and Administrative Programs Officer.

Table of Contents

Department of the Treasury

Treasury .001—Treasury Payroll and Personnel System (formerly Treasury/DO .002—Treasury Integrated Management Information System)

Treasury .002—Grievance Records (formerly Treasury/DO .005)

Treasury .003—Treasury Child Care Tuition Assistance Records (formerly Treasury/DO .006)

Treasury .004—Freedom of Information Act/Privacy Act Request Records (formerly Treasury/DO .150)

Treasury .005—Public Transportation Incentive Program Records (formerly Treasury/DO .203)

Treasury .006—Parking and Carpool Program Records (formerly Treasury/DO .204)

Treasury .007—Personnel Security System (formerly Treasury/DO .004)

Treasury .008—Treasury Emergency Management System (formerly Treasury/DO .195)

Treasury .009—Treasury Financial Management Systems (formerly Treasury/DO .210—Integrated Financial Management and Revenue System)

Treasury .010—Telephone Call Detail Records (formerly Treasury/DO .211)

Treasury .011—Treasury Safety Incident Management Information System (SIMIS)

Departmental Offices (DO)

DO .003—Law Enforcement Retirement Claims Records

DO .007—General Correspondence Files

DO .010—Office of Domestic Finance, Actuarial Valuation System

DO .015—Political Appointee Files.

DO .060—Correspondence Files and Records on Employee Complaints and/or Dissatisfaction

DO .111—Office of Foreign Assets Control Census Records

DO .114—Foreign Assets Control Enforcement Records

DO .118—Foreign Assets Control Licensing Records

DO .144—General Counsel Litigation Referral and Reporting System

DO .149—Foreign Assets Control Legal Files

DO .183—Private Relief Tax Bill Files-Office of the Assistant Secretary for Tax Policy

DO .190—Investigation Data Management System (formerly: General Allegations and Investigative Records)

DO .191—Human Resources and Administrative Records System (formerly: OIG Management Information System)

DO .193—Employee Locator and Automated Directory System

DO .194—Circulation System

DO .196—Security Information System

DO .200—FinCEN Data Base

DO .201—Fitness Center Records

DO .202—Drug-Free Workplace Program Records

DO .207—Waco Administrative Review Group Investigation

DO .209—Personal Services Contracts (PSC)

DO .212—Suspicious Activity Reporting System (SARS)

DO .213—Bank Secrecy Act Reports System

TREASURY .001

System name:

Treasury Payroll and Personnel System-Treasury.

System location:

Department of the Treasury, 1500 Pennsylvania Avenue, NW., Washington, DC 20220. The processing site is located at the United States Department of Agriculture National Finance Center, 13800 Old Gentilly Road, New Orleans, LA 70129.

Categories of individuals covered by the system:

Current and historical payroll/personnel data of employees of all Treasury bureaus and organizations, except the Office of Thrift Supervision (OTS).

Categories of records in the system:

Information contained in the records of the system include such data as:

(1) Employee identification and status data such as name, social security number, date of birth, sex, race and national origin designator, awards received, suggestions, work schedule, type of appointment, education, training courses attended, veterans preference, and military service.

(2) Employment data such as service computation for leave, date probationary period began, date of performance rating, and date of within-grade increases.

(3) Position and pay data such as position identification number, pay plan, step, salary and pay basis, occupational series, organization location, and accounting classification codes.

(4) Payroll data such as earnings (overtime and night differential), deductions (Federal, state and local taxes, bonds and allotments), and time and attendance data.

(5) Employee retirement and Thrift Savings Plan data.

(6) Tables of data for editing, reporting and processing personnel and pay actions. These include nature of action codes, civil service authority codes, standard remarks, signature block table, position title table, financial organization table, and salary tables.

Authority for maintenance of the system:

The Office of Personnel Management Manual, 50 U.S.C. App. 1705-1707; 31 U.S.C. and Departmental Circular 145 and 830. The Department of the Treasury Fiscal Requirements Manual; 5 U.S.C. 301; FPM Letter 298-10, Office of Personnel Management; Federal Personnel Manual (Chapter 713 Subchapter 3A).

Purpose(s):

The purposes of the system include, but are not limited to: (1) Maintaining current and historical payroll records which are used to compute and audit pay entitlement; to record history of pay transactions; to record deductions, leave accrued and taken, bonds due and issued, taxes paid; maintaining and distributing Leave and Earnings statements; commence and terminate allotments; answer inquiries and process claims, and (2) maintaining current and historical personnel records and preparing individual administrative transactions relating to education and training, classification; assignment; career development; evaluation; promotion, compensation, separation and retirement; making decisions on the rights, benefits, entitlements and the utilization of individuals; providing a data source for the production of reports, statistical surveys, rosters, documentation, and studies required for the orderly personnel administration within Treasury.

Routine uses of records maintained in the system, including categories of users and the purposes of such uses:

These Records may be used to:

(1) Furnish data to the Department of Agriculture, National Finance Center (which provides payroll/personnel processing services for TIMIS under a cross-servicing agreement) affecting the conversion of Treasury employee payroll and personnel processing services to TIMIS; the issuance of paychecks to employees and distribution of wages; and the distribution of allotments and deductions to financial and other institutions, some through electronic funds transfer;

(2) Furnish the Internal Revenue Service and other jurisdictions which are authorized to tax the employee's compensation with wage and tax information in accordance with a withholding agreement with the Department of the Treasury pursuant to 5 U.S.C. 5516, 5217, and 5520, for the purpose of furnishing employees with Forms W-2 which report such tax distributions;

(3) Provide records to the Office of Personnel Management, Merit Systems Protection Board, Equal Employment Opportunity Commission, and General Accounting Office for the purpose of properly administering Federal personnel systems or other agencies' systems in accordance with applicable laws, Executive Orders, and regulations;

(4) Furnish another Federal agency information to effect interagency salary or administrative offset, except that addresses obtained from the Internal Revenue Service shall not be disclosed to other agencies; to furnish a consumer reporting agency information to obtain commercial credit reports; and to furnish a debt collection agency information for debt collection services. Current mailing addresses acquired from the Internal Revenue Service are routinely released to consumer reporting agencies to obtain credit reports and to debt collection agencies for collection services;

(5) Disclose information to a Federal, state, local or foreign agency maintaining civil, criminal or other relevant enforcement information or other pertinent information which has requested information relevant to or necessary to the requesting agency's hiring or retention of an individual, or issuance of a security clearance, license, contract, grant, or other benefit;

(6) Disclose information to a court, magistrate, or administrative tribunal in the course of presenting evidence, including disclosures to opposing counsel or witnesses in the course of civil discovery, litigation or settlement negotiations in response to a subpoena where relevant or potentially relevant to a proceeding, or in connection with criminal law proceedings;

(7) Disclose information to foreign governments in accordance with formal or informal international agreements;

(8) Provide information to a congressional office in response to an inquiry made at the request of the individual to whom the record pertains;

(9) Provide information to the news media in accordance with guidelines contained in 28 CFR 50.2 which relates to civil and criminal proceedings;

(10) Provide information to third parties during the course of an investigation to the extent necessary to obtain information pertinent to the investigation;

(11) Provide information to unions recognized as exclusive bargaining representatives under the Civil Service Reform Act of 1978, 5 U.S.C. 7111 and 7114;

(12) Provide wage and separation information to another agency, such as the Department of Labor or Social Security Administration, as required by law for payroll purposes;

(13) Provide information to a Federal, state, or local agency so that the agency may adjudicate an individual's eligibility for a benefit, such as a state employment compensation board, housing administration agency and Social Security Administration;

(14) Disclose pertinent information to appropriate Federal, state, local or foreign agencies responsible for investigating or prosecuting the violation of, or for implementing a statute, regulation, order, or license, where the disclosing agency becomes aware of an indication of a violation or potential violation of civil, or criminal law or regulation;

(15) Disclose information about particular Treasury employees to requesting agencies or non-Federal entities under approved computer matching efforts, limited to only those data elements considered relevant to making a determination of eligibility under particular benefit programs administered by those agencies or entities or by the Department of the Treasury or any constituent unit of the Department, to improve program integrity, and to collect debts and other monies owed under those programs (i.e., matching for delinquent loans or other indebtedness to the government);

(16) Disclose to the Office of Child Support Enforcement, Administration for Children and Families, Department of Health and Human Services, the names, social security numbers, home addresses, dates of birth, dates of hire, quarterly earnings, employer identifying information, and State of hire of employees, for the purposes of locating individuals to establish paternity, establishing and modifying orders of child support, identifying sources of income, and for other child support enforcement activities as required by the Personal Responsibility and Work Opportunity Reconciliation Act (Welfare Reform Law, Pub. L. 104-193).

Disclosure to consumer reporting agencies:

Disclosures may be made pursuant to 5 U.S.C. 552a(b)(12) and section 3 of the Debt Collection Act of 1982; debt information concerning a government claim against an individual is also furnished, in accordance with 5 U.S.C. 552a(b)(12) and section 3 of the Debt Collection Act of 1982 (Pub. L. 97-365), to consumer reporting agencies to encourage repayment of an overdue debt. Disclosures may be made to a consumer reporting agency as defined in the Fair Credit Reporting Act, 15 U.S.C. 1681a(f) or the Federal Claims Collection Act of 1966, 31 U.S.C. 701(a)(3).

Policies and practices for storing, retrieving, accessing, retaining, and disposing of records in the system:

Storage:

Magnetic media, microfiche, and hard copy. Disbursement records are stored at the Federal Records Center.

Retrievability:

Records are retrieved generally by social security number, position identification number within a bureau and region, or employee name. Secondary identifiers are used to assure accuracy of data accessed, such as master record number or date of birth.

Safeguards:

Entrance to data centers and support organization offices are restricted to those employees whose work requires them to be there for the system to operate. Identification (ID) cards are verified to ensure that only authorized personnel are present. Disclosure of information through remote terminals is restricted through the use of passwords and sign-on protocols which are periodically changed. Reports produced from the remote printers are in the custody of personnel and financial management officers and are subject to the same privacy controls as other documents of like sensitivity.

Retention and disposal:

The current payroll and personnel system and the Treasury Integrated Management Information Systems (TIMIS) master files are kept on magnetic media. Information rendered to hard copy in the form of reports and payroll information documentation is also retained in automated magnetic format. Employee records are retained in automated form for as long as the employee is active on the system (separated employee records are maintained in an “inactive” status). Files are purged in accordance with Treasury Directives Manual TD 25-02, “Records Disposition Management Program.”

System manager(s) and address:

Director, Treasury Integrated Management Information Systems (System Manager for TIMIS), 740 15th Street NW., Suite 400, Washington, DC 20005.

Notification procedure:

Individuals seeking notification and access to any record contained in the system of records, or seeking to contest its content, may inquire in accordance with instructions pertaining to individual Treasury components appearing at 31 CFR part 1, subpart C, appendices A-M.

Record access procedures:

See “Notification procedure” above.

Contesting record procedures:

See “Notification procedure” above.

Record source categories:

The information contained in these records is provided by or verified by the subject of the record, supervisors, and non-Federal sources such as private employers.

Exemptions claimed for the system:

None.

TREASURY .002

System name:

Grievance Records—Treasury.

System location:

Department of the Treasury, 1500 Pennsylvania Ave., NW., Washington, DC 20220. These records are located in personnel or designated offices in the bureaus in which the grievances were filed. The locations at which the system is maintained are:

(1) a. Departmental Offices (DO): 1500 Pennsylvania Ave., NW., Washington, DC 20220.

b. The Office of Inspector General (OIG): 740 15th Street, NW., Washington, DC 20220.

c. Treasury Inspector General for Tax Administration (TIGTA): 1111 Constitution Ave., NW., Washington, DC 20224.

(2) Bureau of Alcohol, Tobacco and Firearms (ATF): 650 Massachusetts Avenue, NW., Washington, DC 20226.

(3) Office of the Comptroller of the Currency (OCC): 250 E Street, NW., Washington, DC 20219-0001.

(4) United States Customs Service (CUSTOMS): 1301 Constitution Avenue, NW., Washington DC 20229.

(5) Bureau of Engraving and Printing (BEP): 14th & C Streets, SW., Washington, DC 20228.

(6) Federal Law Enforcement Training Center (FLETC): Glynco, Ga 31524.

(7) Financial Management Service (FMS): 401 14th Street, SW., Washington, DC 20227.

(8) Internal Revenue Service (IRS): 1111 Constitution Avenue, NW., Washington, DC 20224.

(9) United States Mint (MINT): 801 9th Street, NW., Washington, DC 20220.

(10) Bureau of the Public Debt (BPD): 200 Third Street, Parkersburg, WV 26101.

(11) United States Secret Service (USSS): 950 H Street, NW., Washington, DC 20001.

(12) Office of Thrift Supervision (OTS): 1700 G Street, NW., Washington, DC 20552.

Categories of individuals covered by the system:

Current or former Federal employees who have submitted grievances with their bureaus in accordance with part 771 of the Office of Personnel Management's (OPM) regulations (5 CFR part 771), the Treasury Employee Grievance System (TPM Chapter 771), or a negotiated procedure.

Categories of records in the system:

The system contains records relating to grievances filed by Treasury employees under part 771 of the OPM's regulations. These case files contain all documents related to the grievance including statements of witnesses, reports of interviews and hearings, examiner's findings and recommendations, a copy of the original and final decision, and related correspondence and exhibits. This system includes files and records of internal grievance and arbitration systems that bureaus and/or the Department may establish through negotiations with recognized labor organizations.

Authority for maintenance of the system:

5 U.S.C. 1302, 3301, 3302; E.O. 10577; 3 CFR 1954-1958 Comp., p. 218; E.O. 10987; 3 CFR 1959-1963 Comp., p. 519; agency employees, for personal relief in a matter of concern or dissatisfaction which is subject to the control of agency management.

Purpose(s):

To adjudicate employee administrative grievances filed under the authority of 5 CFR part 771 and the Department's Administrative Grievance Procedure.

Routine uses of records maintained in the system, including categories of users and the purposes of such uses:

These records may be used:

(1) To disclose pertinent information to the appropriate Federal, state, or local agency responsible for investigating, prosecuting, enforcing, or implementing a statute, rule, regulation, or order, where the disclosing agency becomes aware of an indication of a violation or potential violation of civil or criminal law or regulation;

(2) To disclose information to any source from which additional information is requested in the course of processing in a grievance, to the extent necessary to identify the individual, inform the source of the purpose(s) of the request, and identify the type of information requested;

(3) To disclose information to a Federal agency, in response to its request, in connection with the hiring or retention of an individual, the issuance of a security clearance, the conducting of a security or suitability investigation of an individual, the classifying of jobs, the letting of a contract, or the issuance of a license, grant, or other benefit by the requesting agency, to the extent that the information is relevant and necessary to requesting the agency's decision on the matter;

(4) To provide information to a congressional office in response to an inquiry made at the request of the individual to whom the record pertains;

(5) To disclose information to another Federal agency or to a court when the Government is party to a judicial proceeding before the court;

(6) By the National Archives and Records Administration in records management inspections conducted under authority of 44 U.S.C. 2904 and 2908;

(7) By the bureau maintaining the records of the Department in the production of summary descriptive statistics and analytical studies in support of the function for which the records are collected and maintained, or for related work force studies. While published statistics and studies do not contain individual identifiers, in some instances the selection of elements of data included in the study may be structured in such a way as to make the data individually identifiable by inference;

(8) To disclose information to officials of the Merit Systems Protection Board, the Office of the Special Counsel, the Federal Labor Relations Authority and its General Counsel, the Equal Employment Opportunity Commission, or the Office of Personnel Management when requested in performance of their authorized duties;

(9) To disclose information to a court, magistrate, or administrative tribunal in the course of presenting evidence, including disclosures to opposing Counsel or witnesses in the course of civil discovery, litigation or settlement negotiations in response to a subpoena, or in connection with criminal law proceedings;

(10) To provide information to officials of labor organizations reorganized under the Civil Service Reform Act when relevant and necessary to their duties of exclusive representation concerning personnel policies, practices, and matters affecting work conditions.

Policies and practices for storing, retrieving, accessing, retaining, and disposing of records in the system:

Storage:

File folders.

Retrievability:

By the names of the individuals on whom they are maintained.

Safeguards:

Lockable metal filing cabinets to which only authorized personnel have access.

Retention and disposal:

Disposed of 3 years after closing of the case. Grievances filed against disciplinary adverse actions are retained by the United States Secret Service for 4 years. Disposal is by shredding or burning.

System manager(s) and address:

Records pertaining to administrative grievances filed at the Departmental level: Director, Office of Personnel Policy, 1500 Pennsylvania Ave., NW, Metropolitan Square, Washington, DC 20220. Records pertaining to administrative grievances filed at the bureau level:

(1) a. DO: Chief, Personnel Resources, 1500 Pennsylvania Ave. NW, Metropolitan Square, Washington, DC 20220.

b. OIG: Personnel Officer, 740-15th St. NW, Rm. 510, Washington, DC 20220.

c. TIGTA: National Director, Human Resources, 1111 Constitution Ave. NW, Rm. 6408, TIGTA: MRS, Washington, DC 20224.

(2) ATF: Assistant Director, Office of Management, 650 Massachusetts Avenue, NW, Washington, DC 20226.

(3) OCC: Director, Human Resources, 250 E Street, SW, Washington, DC 20219.

(4) Customs: Assistant Commissioner, Office of Human Resources Management, Ronald Reagan Building, Room 2.4A, 1300 Pennsylvania Avenue, NW, Washington, DC 20229.

(5) BEP: Chief, Office of Human Resources, 14th & C Streets, SW, Room 202-13A, E&P Annex, Washington, DC 20228.

(6) FLETC: Human Resources Officer, Glynco, GA 31524.

(7) FMS: Director, Personnel Management Division, 3700 East West Hwy, Room 115-F, Hyattsville, MD 20782.

(8) IRS: Director, Office of Workforce Relations (M:S:L), 1111 Constitution Ave. NW, Room 1515IR, Washington, DC 20224.

(9) Mint: Assistant Director for Human Resources, 801 9th Street, NW, 6th Floor, Washington, DC 20220.

(10) BPD: Director, Human Resources Division, 200 Third Street, Parkersburg, WV 26106-1328.

(11) USSS: Chief, Personnel Division, 950 H Street, NW, Suite 7000, Washington, DC 20373-5802.

(12) OTS: Director, Human Resources Division, 2nd Floor, 1700 G Street, NW, Washington, DC 20552.

Notification procedure:

It is required that individuals submitting grievances be provided a copy of the record under the grievance process. They may, however, contact the agency personnel or designated office where the action was processed, regarding the existence of such records on them. They must furnish the following information for their records to be located and identified: (1) Name, (2) date of birth, (3) approximate date of closing of the case and kind of action taken, (4) organizational component involved.

Record access procedures:

It is required that individuals submitting grievances be provided a copy of the record under the grievance process. However, after the action has been closed, an individual may request access to the official copy of the grievance file by contacting the bureau personnel or designated office where the action was processed. Individuals must provide the following information for their records to be located and identified: (1) Name, (2) date of birth, (3) approximate date of closing of the case and kind of action taken, (4) organizational component involved.

Contesting record procedures:

Review of requests from individuals seeking amendment of their records which have been the subject of a judicial or quasi-judicial action will be limited in scope. Review of amendment requests of these records will be restricted to determining if the record accurately documents the action of the agency ruling on the case, and will not include a review of the merits of the action, determination, or finding.

Individuals wishing to request amendment to their records to correct factual errors should contact the bureau personnel or designated office where the grievance was processed. Individuals must furnish the following information for their records to be located and identified: (1) Name, (2) date of birth, (3) approximate date of closing of the case and kind of action taken, (4) organizational component involved.

Record source categories:

Information in this system of records is provided: (1) By the individual on whom the record is maintained, (2) by testimony of witnesses, (3) by agency officials, (4) from related correspondence from organizations or persons.

Exemptions claimed for the system:

None.

TREASURY .003

System name:

Treasury Child Care Tuition Assistance Records—Treasury.

System location:

Department of the Treasury,1500 Pennsylvania Ave., NW, Washington, DC 20220. The locations at which the system is maintained by Treasury components are:

1. a. Departmental Offices (DO): 1500 Pennsylvania Ave., NW, Washington, DC 20220.

b. The Office of Inspector General (OIG): 740 15th Street, NW, Washington, DC 20220.

c. Treasury Inspector General for Tax Administration (TIGTA): 1111 Constitution Ave., NW, Washington, DC 20224.

2. Bureau of Alcohol, Tobacco and Firearms (ATF): 650 Massachusetts Avenue, NW, Washington, DC 20226.

3. Office of the Comptroller of the Currency (OCC): 250 E Street, NW, Washington, DC 20219-0001.

4. United States Customs Service (CUSTOMS): 1300 Pennsylvania Avenue, NW, Washington DC 20229.

5. Bureau of Engraving and Printing (BEP): 14th & C Streets, SW, Washington, DC 20228.

6. Federal Law Enforcement Training Center (FLETC): Glynco, Ga. 31524.

7. Financial Management Service (FMS): 401 14th Street, SW, Washington, DC 20227.

8. Internal Revenue Service (IRS): 1111 Constitution Avenue, NW, Washington, DC 20224.

9. United States Mint (MINT): 801 9th Street, NW, Washington, DC 20220.

10. Bureau of the Public Debt (BPD): 200 Third Street, Parkersburg, WV 26101.

11. United States Secret Service (USSS): 950 H Street, NW, Washington, DC 20001.

12. Office of Thrift Supervision (OTS): 1700 G Street, NW, Washington, DC 20552.

Categories of individuals covered by the system:

Employees of the Department of the Treasury who voluntarily apply for child care tuition assistance, the employee's spouse, their children and their child care providers.

Categories of records in the system:

Records may include application forms for child care tuition assistance containing personal information, including employee (parent) name, Social Security Number, pay grade, home and work numbers, addresses, telephone numbers, total family income, names of children on whose behalf the parent is applying for tuition assistance, each child's date of birth, information on child care providers used (including name, address, provider license number and State where issued, tuition cost, and provider tax identification number), and copies of IRS Form 1040 and 1040A for verification purposes. Other records may include the child's social security number, weekly expense, pay statements, records relating to direct deposits, verification of qualification and administration for the child care tuition assistance.

Authority for maintenance of the system:

Pub. L. 106-58, section 643 and E.O. 9397.

Purpose(s):

To establish and verify Department of the Treasury employees' eligibility for child care subsidies in order for the Department of the Treasury to provide monetary assistance to its employees. Records are also maintained so the Department can make payments to child care providers on an employee's behalf.

Routine uses of records maintained in the system, including categories of users and the purposes of such uses:

These records may be used to:

(1) Disclose pertinent information to the appropriate Federal, State, or local agency responsible for investigating, prosecuting, enforcing, or implementing a statute, rule, regulation, or order, where the Department of the Treasury becomes aware of an indication of a violation or potential violation of civil or criminal law or regulation;

(2) Provide information to a congressional office from the record of an individual in response to an inquiry from that congressional office made at the request of that individual;

(3) Disclose information to another Federal agency, to a court, or a party in litigation before a court or in an administrative proceeding being conducted by a Federal agency, when the Government is a party to the judicial or administrative proceeding. In those cases where the Government is not a party to the proceeding, records may be disclosed if a subpoena has been signed by a judge;

(4) Disclose information to the National Archives and Records Administration for use in records management inspections;

(5) Disclose information to the Department of Justice, or in a proceeding before a court, adjudicative body, or other administrative body before which the Department of the Treasury is authorized to appear, when: (a) The Department of the Treasury, or any component thereof; or (b) any employee of the Department of the Treasury in his or her official capacity; or (c) any employee of the Department of the Treasury in his or her individual capacity where the Department of Justice or the Department of the Treasury has agreed to represent the employee; or (d) the United States, when the Department of the Treasury determines that litigation is likely to affect the Department of the Treasury or any of its components; is a party to litigation or has an interest in such litigation, and the use of such records by the Department of Justice or the Department of the Treasury is deemed by the Department of the Treasury to be relevant and necessary to the litigation; provided, however, that the disclosure is compatible with the purpose for which records were collected;

(6) Provide records to the Office of Personnel Management, Merit Systems Protection Board, Equal Employment Opportunity Commission, Federal Labor Relations Authority, the Office of Special Counsel, and General Accounting Office for the purpose of properly administering Federal personnel systems or other agencies' systems in accordance with applicable laws, Executive Orders, and regulations;

(7) Disclose information to contractors, grantees, or volunteers performing or working on a contract, service, grant, or cooperative agreement, or job for the Federal Government;

(8) Disclose information to a court, magistrate, or administrative tribunal when necessary and relevant in the course of presenting evidence, including disclosures to opposing counsel or witnesses in the course of civil discovery, litigation, or settlement negotiations or in connection with criminal law proceedings or in response to a subpoena;

(9) Disclose information to unions recognized as exclusive bargaining representatives under 5 U.S.C. chapter 71, and other parties responsible for the administration of the Federal labor-management program if needed in the performance of their authorized duties.

Policies and practices for storing, retrieving, accessing, retaining, and disposing of records in the system:

Storage:

Information may be collected on paper or electronically and may be stored as paper forms or on computers.

Retrievability:

By name; may also be cross-referenced to Social Security Number.

Safeguards:

When not in use by an authorized person, paper records are stored in lockable file cabinets or secured rooms. Electronic records are protected by the use of passwords.

Retention and disposal:

Disposition of records is according to the National Archives and Records Administration (NARA) guidelines.

System manager(s) and address:

Treasury official prescribing policies and practices: Director, Office of Personnel Policy, Room 6018-Metropolitan Square, Department of the Treasury, Washington, DC 20220. Officials maintaining the system and records for the Treasury components are:

1. DO:

a. Director, Office of Personnel Resources, Department of the Treasury, Room 1462-MT, Washington, DC 20220.

b. Office of General Counsel: Administrative Officer, Department of the Treasury, Room 1417-MT, Washington, DC 20220.

c. OIG: Personnel Officer, 740 15th St., NW, Suite 510, Washington, DC 20220.

d. TIGTA: Director, Management Resources & Support, 1111 Constitution Ave., NW, TIGTA:IG:NS:HR, Room 6402, Washington, DC 20224.

2. ATF: Assistant Director, Office of Management, 650 Massachusetts Ave., NW, Washington, DC 20226.

3. OCC: Director, Human Resources Division Independence Square, 250 E St., SW, 4th Floor, Washington, DC 20219.

4. Customs: Personnel Director, HRM, 1300 Pennsylvania Ave., NW, Room 2.4a, International Trade Center, Washington, DC 20229.

5. BEP: Chief, Office of Human Resources. 14th & C St., SW, Room 202-13a, Washington, DC 20228.

6. FLETC: Human Resources Officer, Bldg 94, Room E-2, Glynco, GA 31524.

7. FMS: Director, Human Resources Division, PG Center II Bldg, Rm. 114f, 3700 East West Highway, Hyattsville, MD 20782.

8. IRS: Director Personnel Policy Division, 1111 Constitution Ave., Building CP6—M:S:P, Washington, DC 20224.

9. MINT: Assistant Director, Human Resources, 801 9th Street, NW, Room 6S34, Washington, DC 20220.

10. BPD: Child Care Assistance Program (CCAP) Coordinator, PO Box 1328, Room 302, Parkersburg, W. VA 26106-1328.

11. USSS: Chief, Personnel Division, 950 H St., NW, 7th Floor, Washington, DC 20223.

12. OTS: Director, Human Resources Division, 1700 G St., NW, 2nd Floor, Washington, DC 20552.

Notification procedure:

Individuals seeking notification and access to any record contained in the system of records, or seeking to contest its content, may inquire in accordance with instructions pertaining to individual Treasury components appearing at 31 CFR part 1, subpart C, appendices A-M.

Record Access procedures:

See “Notification procedure” above.

Contesting Record procedures:

See “Notification procedure” above.

Record source categories:

Information is provided by Department of the Treasury employees who apply for child care tuition assistance.

Exemptions claimed for the system:

None.

TREASURY .004

System name:

Freedom of Information Act/Privacy Act Request Records—Treasury.

System location:

Department of the Treasury, 1500 Pennsylvania Avenue, NW., Washington, DC 20220. The locations at which the system is maintained by Treasury components and their associated field offices are:

(1) Departmental Offices (DO), which includes the Office of Inspector General (OIG), the Treasury Inspector General for Tax Administration (TIGTA), and Financial Crimes Enforcement Network (FinCEN);

(2) Bureau of Alcohol, Tobacco and Firearms (ATF);

(3) Office of the Comptroller of the Currency (OCC);

(4) United States Customs Service (CUSTOMS);

(5) Bureau of Engraving and Printing (BEP);

(6) Federal Law Enforcement Training Center (FLETC);

(7) Financial Management Service (FMS);

(8) United States Mint (MINT);

(9) Bureau of the Public Debt (BPD);

(10) United States Secret Service (USSS):

(11) Office of Thrift Supervision (OTS).

Categories of individuals covered by the system:

Individuals who have: (1) Requested access to records pursuant to the Freedom of Information Act, 5 U.S.C. 552, (FOIA) or who have appealed initial denials of their requests; and/or (2) made a request for access, amendment or other action pursuant to the Privacy Act of 1974, 5 U.S.C. 552a (PA).

Categories of records in the system:

Requests for records or information pursuant to the FOIA and/or PA which includes the names of individuals making written requests for records under the FOIA or the PA, the mailing addresses of such individuals, and the dates of such requests and their receipt. Supporting records include the written correspondence received from requesters and responses made to such requests; internal processing documents and memoranda, referrals and copies of records provided or withheld, and may include legal memoranda and opinions. Comparable records are maintained in this system with respect to any appeals made from initial denials of access, refusal to amend records and lawsuits under the FOIA/PA.

Authority for maintenance of the system:

Freedom of Information Act, 5 U.S.C. 552; Privacy Act of 1974, 5 U.S.C. 552a; and 5 U.S.C. 301.

Purpose(s):

The system is used by officials to administratively control and/or process requests for records to ensure compliance with the FOIA/PA and to collect data for the annual and biennial reporting requirements of the FOIA/PA and other Department management report requirements.

Routine uses of records maintained in the system, including categories of users and the purposes of such uses:

These records may be used to:

(1) Disclose pertinent information to appropriate Federal, foreign, State, local, tribal or other public authorities or self-regulatory organizations responsible for investigating or prosecuting the violations of, or for enforcing or implementing, a statute, rule, regulation, order, or license, where the disclosing agency becomes aware of an indication of a violation or potential violation of civil or criminal law or regulation;

(2) Disclose information to a court, magistrate, or administrative tribunal in the course of presenting evidence, including disclosures to opposing counsel or witnesses in the course of civil discovery, litigation, or settlement negotiations, in response to a subpoena, or in connection with criminal law proceedings;

(3) Provide information to a congressional office in response to an inquiry made at the request of the individual to whom the record pertains;

(4) Disclose information to another Federal agency to (a) permit a decision as to access, amendment or correction of records to be made in consultation with or by that agency, or (b) verify the identity of an individual or the accuracy of information submitted by an individual who has requested access to or amendment or correction of records;

(5) The Department of Justice when seeking legal advice, or when (a) the agency or (b) any component thereof, or (c) any employee of the agency in his or her official capacity, or (d) any employee of the agency in his or her individual capacity where the Department of Justice has agreed to represent the employee, or (e) the United States, where the agency determines that litigation is likely to affect the agency or any of its components, is a party to litigation or has an interest in such litigation, and the use of such records by the Department of Justice is deemed by the agency to be relevant and necessary to the litigation;

(6) Disclose information to the appropriate foreign, State, local, tribal, or other public authority or self-regulatory organization for the purpose of (a) consulting as to the propriety of access to or amendment or correction of information obtained from that authority or organization, or (b) verifying the identity of an individual who has requested access to or amendment or correction of records;

(7) Disclose information to contractors and other agents who have been engaged by the Department or one of its bureaus to provide products or services associated with the Department's or bureau's responsibility arising under the FOIA/PA;

(8) Disclose information to the National Archives and Records Administration for use in records management inspections.

Policies and practices for storing, retrieving, accessing, retaining, and disposing of records in the system:

Storage:

Electronic media, computer paper printout, index file cards, and paper records in file folders.

Retrievability:

Retrieved by name, subject, request file number or other data element as may be permitted by an automated system.

Safeguards:

Protection and control of any sensitive but unclassified (SBU) records are in accordance with TD P 71-10, Department of the Treasury Security Manual, and any supplemental guidance issued by individual bureaus. Access to the records is available only to employees responsible for the management of the system and/or employees of program offices who have a need for such information.

Retention and disposal:

The records pertaining to Freedom of Information Act and Privacy Act requests are retained and disposed of in accordance with the National Archives and Records Administration's General Record Schedule 14—Information Services Records.

System manager(s) and address:

Department of the Treasury: Official prescribing policies and practices—Departmental Disclosure Officer, Department of the Treasury, 1500 Pennsylvania Avenue, NW., Washington, DC 20220.

The system managers for the Treasury components are:

1. DO: Assistant Director, Disclosure Services, Department of the Treasury, Washington, DC 20220.

2. ATF: Assistant Director, Liaison and Public Information, 650 Massachusetts Avenue, NW., Washington, DC 20226.

3. BEP: Disclosure Officer, FOIA Office, 14th & C Streets, SW., Washington, DC 20228.

4. FLETC: FOIA/PA Officer, Department of the Treasury, Building 94, Glynco, GA 31524.

5. FMS: Disclosure Officer, 401 14th Street, SW., Washington, DC 20227.

6. Mint: Disclosure Officer, Judiciary Square Building, 801 9th Street, NW., Washington, DC 20220.

7. OCC: Disclosure Officer, Communications Division, Washington, DC 20219.

8. CUSTOMS: Chief, Disclosure Law Branch, Office of Regulations and Rulings, 1300 Pennsylvania Avenue, NW., Washington, DC 20229.

9. BPD: Information Disclosure Officer, 999 E Street, NW., Washington, DC 20239.

10. USSS: FOIA/PA Officer, FOIA/PA Branch, 950 H Street, NW., Suite 3000, Washington, DC 20001.

11. OTS: Manager, Dissemination Branch, 1700 G Street, NW., Washington, DC 20552.

12. TIGTA: Supervisory Analyst, 1111 Constitution Ave., NW., IC:CC, Room 3039, Washington, DC 20224.

Notification procedure:

Individuals seeking notification and access to any record contained in the system of records, or seeking to contest its content, may inquire in accordance with instructions pertaining to individual Treasury components appearing at 31 CFR part 1, subpart C, appendices A-M.

Record Access procedures:

See “Notification procedure” above.

Contesting Record procedures:

See “Notification procedure” above.

Record source categories:

The information contained in these files originates from individuals who make FOIA/PA requests and agency officials responding to those requests.

Exemptions claimed for the system:

None. The Department has claimed one or more exemptions (see 31 CFR 1.36) for a number of its other systems of records under 5 U.S.C. 552a (j)(2) and (k)(1), (2), (3), (4), (5), and (6). During the course of a FOIA/PA action, exempt materials from those other systems may become a part of the case records in this system. To the extent that copies of exempt records from those other systems have been recompiled and/or entered into these FOIA/PA case records, the Department claims the same exemptions for the records as they have in the original primary systems of records of which they are a part.

TREASURY .005

System name:

Public Transportation Incentive Program Records-Treasury.

System location:

Department of the Treasury, 1500 Pennsylvania Avenue, NW., Washington, DC 20220. The locations at which the system is maintained by Treasury bureaus and their associated field offices are:

1. a. Departmental Offices (DO): 1500 Pennsylvania Ave., NW., Washington, DC 20220.

b. The Office of Inspector General (OIG): 740 15th Street, NW., Washington, DC. 20220.

2. Bureau of Alcohol, Tobacco and Firearms (ATF): 650 Massachusetts Avenue, NW., Washington, DC 20226.

3. Office of the Comptroller of the Currency (OCC): 250 E Street, SW., Washington, DC 20219-0001.

4. United States Customs Service (CUSTOMS): 1300 Pennsylvania Avenue, NW., Washington DC 20229.

5. Bureau of Engraving and Printing (BEP): 14th & C Streets, SW., Washington, DC 20228.

6. Federal Law Enforcement Training Center (FLETC): Glynco, Ga. 31524.

7. Financial Management Service (FMS): 401 14th Street, SW., Washington, DC 20227.

8. Internal Revenue Service (IRS): 1111 Constitution Avenue, NW., Washington, DC 20224.

9. United States Mint (MINT): 801 9th St. NW., Washington, Dc 20220.

10. Bureau of the Public Debt (BPD): 200 Third Street, Parkersburg, WV 26101.

11. United States Secret Service (USSS): 950 H Street, NW., Washington, DC 20001.

12. Office of Thrift Supervision (OTS): 1700 G Street, NW., Washington, DC 20552.

Categories of individuals covered by the system:

Employees who have applied for or who participate in the Public Transportation Incentive Program.

Categories of records in the system:

(1) Public Transportation Incentive Program application form containing the participant's name, last four digits of the social security number, place of residence, office address, office telephone, grade level, duty hours, previous method of transportation, costs of transportation, and the type of fare incentive requested. Incentives authorized under the Federal Workforce Transportation Program may be included in this program.

(2) Reports submitted to the Department of the Treasury in accordance with Treasury Directive 74-10.

Authority for maintenance of the system:

5 U.S.C. 301, 26 U.S.C. 132(f), and Pub. L. 101-509.

Purpose(s):

The records are used to administer the public transportation incentive or subsidy programs provided by Treasury bureaus for eligible employees. The system also enables the Department to compare these records with other Federal agencies to ensure that employee transportation programs benefits are not abused.

Routine uses of records maintained in the system, including categories of users and the purposes of such uses:

These records may be used to disclose information to:

(1) Appropriate Federal, state, local, or foreign agencies responsible for investigating or prosecuting the violations of, or for enforcing or implementing, a statute, rule, regulation, order or license;

(2) A court, magistrate, or administrative tribunal in the course of presenting evidence, including disclosures to opposing counsel or witnesses in the course of civil discovery, litigation, or settlement negotiations, in response to a court-ordered subpoena where relevant or potentially relevant to a proceeding, or in connection with criminal law proceedings;

(3) A congressional office in response to an inquiry made at the request of the individual to whom the record pertains;

(4) Unions recognized as exclusive bargaining representatives under the Civil Service Reform Act of 1978, 5 U.S.C. 7111 and/or 7114;

(5) Agencies, contractors, and others to administer Federal personnel or payroll systems, and for debt collection and employment or security investigations;

(6) Other Federal agencies for matching to ensure that employees receiving PTI Program benefits are not listed as a carpool or vanpool participant, the holder of a parking permit; and to prevent the program from being abused;

(7) The Department of Justice when seeking legal advice, or when (a) the Department of the Treasury (agency) or (b) any component thereof, or (c) any employee of the agency in his or her official capacity, or (d) any employee of the agency in his or her individual capacity where the Department of Justice has agreed to represent the employee, or (e) the United States, where the agency determines that litigation is likely to affect the agency or any of its components, is a party to litigation or has an interest in such litigation, and the use of such records by the Department of Justice is deemed by the agency to be relevant and necessary to the litigation;

(8) The Office of Personnel Management, the Merit Systems Protection Board, the Equal Employment Opportunity Commission, and the Federal Labor Relations Authority or other third parties when mandated or authorized by statute; and

(9) A contractor for the purpose of compiling, organizing, analyzing, programming, or otherwise refining records to accomplish an agency function subject to the same limitations applicable to U.S. Department of Treasury officers and employees under the Privacy Act.

Policies and practices for storing, retrieving, accessing, retaining, and disposing of records in the system:

Storage:

Paper records, file folders and/or electronic media.

Retrievability:

By name of individual, badge number or office.

Safeguards:

Access is limited to authorized employees. Files are maintained in locked safes and/or file cabinets. Electronic records are password-protected. During non-work hours, records are stored in locked safes and/or cabinets in locked room.

Retention and disposal:

Active records are retained indefinitely. Inactive records are held for three years and then destroyed.

System manager(s) and address:

The system managers for the Treasury bureaus are:

(1) Departmental Offices:

a. Director, Occupational Safety and Health Office, Room 6204 Annex, 1500 Pennsylvania Ave., NW., Washington, DC 20220.

b. Office of Inspector General: Office of Assistant Inspector for Management Services, Office of Administrative Services, Suite 510, 740 15th St. NW., Washington, DC 20220.

(2) ATF: Assistant Director, Office of Management, 650 Massachusetts Ave., NW., Washington, DC 20226.

(3) BEP: Chief, Office of Administrative Services, Bureau of Engraving and Printing, 14th and C Streets, SW., Washington, DC 20228.

(4) OCC: Building Manager, Building Services, Office of the Comptroller of the Currency, 250 E Street, SW., Washington, DC 20219-0001.

(5) CUSTOMS: Chief, Headquarters Facilities Service Branch, 1300 Pennsylvania Avenue, NW., Suite 3.2C, Washington, DC 20229.

(6) FLETC: Associate Director for Planning & Resources, Federal Law Enforcement Training Center, Glynco, GA 31524

(7) FMS: Director, Administrative Programs Division, Financial Management Service, 3700 East West Hwy., Room 144, Hyattsville, MD 20782.

(8) IRS: Official prescribing policies and practices—Chief, National Office, Protective Program Staff, Director, Personnel Policy Division, 2221 S. Clark Street-CP6, Arlington, VA 20224. Officials maintaining the system—Supervisor of local offices where the records reside. (See IRS Appendix A for addresses.)

(9) Mint: Office of Business Alignment, 801 9th St. NW., Washington, DC 20220.

(10) BPD: Executive Director, Administrative Resources Center, 200 Third Street, Parkersburg, WV 26106.

(11) USSS: Assistant Director, Office of Administration, 950 H Street, NW., Washington DC 20373-5802.

(12) OTS: Director, Planning, Budget and Finance, Office of Thrift Supervision, Department of the Treasury, 1700 G Street, NW., Washington, DC 20552.

Notification procedure:

Individuals seeking notification and access to any record contained in the system of records, or seeking to contest its content, may inquire in accordance with instructions pertaining to individual Treasury components appearing at 31 CFR part 1, subpart C, appendices A-M.

Record Access procedures:

See “Notification procedure” above.

Contesting Record procedures:

See “Notification procedure” above.

Record source categories:

The source of the data are employees who have applied for the transportation incentive, the incentive program managers and other appropriate agency officials, or other Federal agencies.

Exemptions claimed for the system:

None.

TREASURY .006

System name:

Parking and Carpool Program Records—Treasury.

System location:

Department of the Treasury, 1500 Pennsylvania Avenue, NW, Washington, DC 20220. The locations at which the system is maintained by Treasury bureaus and their associated field offices are:

1. a. Departmental Offices (DO): 1500 Pennsylvania Ave., NW, Washington, DC 20220.

b. The Office of Inspector General (OIG): 740 15th Street, NW, Washington, DC 20220.

c. Treasury Inspector General for Tax Administration (TIGTA): 1111 Constitution Ave., NW, Washington, DC 20224.

2. Bureau of Alcohol, Tobacco and Firearms (ATF): 650 Massachusetts Avenue, NW, Washington, DC 20226.

3. Office of the Comptroller of the Currency (OCC): 250 E Street, SW, Washington, DC 20219-0001.

4. United States Customs Service (CUSTOMS): 1300 Pennsylvania Avenue, NW, Washington DC 20229.

5. Bureau of Engraving and Printing (BEP): 14th & C Streets, SW, Washington, DC 20228.

6. Federal Law Enforcement Training Center (FLETC): Glynco, Ga. 31524.

7. Financial Management Service (FMS): 401 14th Street, SW, Washington, DC 20227.

8. Internal Revenue Service (IRS): 1111 Constitution Avenue, NW, Washington, DC 20224.

9. United States Mint (MINT): 801 9th Street, NW, Washington, DC 20220.

10. Bureau of the Public Debt (BPD): 999 E Street, NW, Washington, DC 20239.

11. United States Secret Service (USSS): 950 H Street, NW, Washington, DC 20001.

12. Office of Thrift Supervision (OTS): 1700 G Street, NW, Washington, DC 20552.

Categories of individuals covered by the system:

Current employees of the Department and individuals from other Government agencies or private sector organizations who may use, or apply to use, parking facilities or spaces controlled by the Department. Individuals utilizing handicapped or temporary guest parking controlled by the Department.

Categories of records in the system:

Records may include the name, position title, manager's name, organization, vehicle identification, arrival and departure time, home addresses, office telephone numbers, social security numbers, badge number, and service computation date or length of service with a component of an individual or principal carpool applicant. Contains name, place of employment, duty telephone, vehicle license number and service computation date of applicants, individuals or carpool members. For parking spaces, permit number, priority group (handicapped, job requirements/executive officials (SES) or carpool/vanpool). Medical information may also be included when necessary to determine disability of applicant when applying for handicapped parking spaces.

Authority for maintenance of the system:

5 U.S.C. 301; 44 U.S.C. 3101; Treasury Department Order No. 165, revised as amended. Federal Property and Administrative Services Act of 1949, as amended.

Purpose(s):

The records are used to administer parking, carpool and vanpool programs within the Department. The system enables the Department to allocate and check parking spaces assigned to government or privately-owned vehicles operated by visitors, handicapped personnel, key personnel, employees eligible to participate in a parking program and carpools or vanpools. The Department is also able to compare these records with other Federal agencies to ensure parking privileges or other employee transportation benefits are not abused.

Routine uses of records maintained in the system, including categories of users and the purposes of such uses:

These records may be used to disclose information to:

(1) Appropriate Federal, State, local, or foreign agencies, or other public authority responsible for investigating or prosecuting the violations of or for enforcing or implementing a statute, rule, regulation, order, or license, where the disclosing agency becomes aware of an indication of a violation or potential violation of civil or criminal law or regulation;

(2) A Congressional office in response to an inquiry made at the request of the individual to whom the record pertains;

(3) A physician for making a determination on a person's eligibility for handicapped parking;

(4) A contractor who needs to have access to this system of records to perform an assigned activity;

(5) Parking coordinators of Government agencies and private sector organizations for verification of employment and participation of pool members;

(6) Unions recognized as exclusive bargaining representatives under the Civil Service Reform Act of 1978, 5 U.S.C. 7111 and 7114;

(7) Department of Justice when seeking legal advice, or when (a) the Department of the Treasury (agency) or (b) any component thereof, or (c) any employee of the agency in his or her official capacity, or (d) any employee of the agency in his or her individual capacity where the Department of Justice has agreed to represent the employee, or (e) the United States, where the agency determines that litigation is likely to affect the agency or any of its components, is a party to litigation or has an interest in such litigation, and the use of such records by the Department of Justice is deemed by the agency to be relevant and necessary to the litigation;

(8) Third parties when mandated or authorized by statute or when necessary to obtain information that is relevant to an inquiry concerned with the possible abuse of parking privileges or other employee transportation benefits;

(9) A court, magistrate, or administrative tribunal in the course of presenting evidence, including disclosures to opposing counsel or witnesses in the course of civil discovery, litigation, or settlement negotiations or in connection with criminal law proceedings or in response to a subpoena where relevant or potentially relevant to a proceeding, and

(10) Officials of the Merit Systems Protection Board, the Federal Labor Relations Authority, the Equal Employment Opportunity Commission or the Office of Personnel Management when requested in the performance of their authorized duties.

Policies and practices for storing, retrieving, accessing, retaining, and disposing of records in the system:

Storage:

Hard copy and/or electronic media.

Retrievability:

Name, address, social security number, badge number, permit number, vehicle tag number, and agency name or organization code on either the applicant or pool members as needed by a bureau. Records are filed alphabetically by location.

Safeguards:

Paper records are maintained in locked file cabinets. Access is limited to personnel whose official duties require such access and who have a need to know the information in a record for a job-related purpose. Access to computerized records is limited, through use of a password, to those whose official duties require access. Protection and control of sensitive but unclassified (SBU) records are in accordance with TD P 71-10, Department of the Treasury Security Manual, and any supplemental guidance issued by individual bureaus. The IRS access controls will not be less than those provided by the Automated Information System Security Handbook, IRM 2(10)00, and the Manager's Security Handbook, IRM 1(16)12.

Retention and disposal:

Generally, record maintenance and disposal is in accordance with NARA General Retention Schedule 11, and any supplemental guidance issued by individual components. Disposal of manual records is by shredding or burning; electronic data is erased. Destroyed upon change in, or revocation of, parking assignment.

For the IRS, records are maintained in accordance with Records Control Schedule 301—General Records Schedule 11, Space and Maintenance Records, Item 4(a), IRM 1(15)59.31.

System manager(s) and address:

The system managers for the Treasury components are:

(1) DO:

a. Director, Occupational Safety and Health Office, Room 6204 Annex, 1500 Pennsylvania Ave., NW, Washington, DC 20220.

b. OIG: Director, Administrative Services Division, Office of Management Services, Room 510, 740 15th Street, NW, Washington, DC 20220.

c. TIGTA: Security Officer, 1111 Constitution Ave., NW, Washington, DC 20224.

(2) ATF: Assistant Director, Office of Management, 650 Massachusetts Ave., NW, Washington, DC 20226.

(3) OCC: Building Manager, Building Services, Office of the Comptroller of the Currency, 250 E Street, SW, Washington, DC 20219;

(4) CUSTOMS: Chief Financial Officer, U.S. Customs Service Headquarters, 1300 Pennsylvania Avenue, NW, Washington, DC 20229.

(5) BEP: Chief, Office of Administrative Services, Bureau of Engraving and Printing, 14th and C Streets, SW, Washington, DC 20228.

(6) FLETC: Associate Director for Planning & Resources, Federal Law Enforcement Training Center, Glynco, GA 31524

(7) FMS: Director, Administrative Programs Division, 3700 East West Highway, Hyattsville, MD 20782.

(8) IRS: Chief, Security and Safety Branch; Regional Commissioners, District Directors, Internal Revenue Service Center Directors, and Computing Center Directors. (See IRS Appendix A for addresses.)

(9) MINT: Associate Director, Protection SBU, 801 9th St. NW, Washington, DC 20220.

(10) BPD: Director, Washington Support Services, Bureau of the Public Debt, 999 E Street, NW, Washington, DC 0239.

(11) USSS: Assistant Director, Office of Administration, 950 H Street, NW, Washington, DC 20373-5802.

(12) OTS: Director, Procurement and Administrative Services, Office of Thrift Supervision, 1700 G Street, NW, Washington, DC 20552.

Notification procedure:

Individuals seeking notification and access to any record contained in the system of records, or seeking to contest its content, may inquire in accordance with instructions pertaining to individual Treasury components appearing at 31 CFR part 1, subpart C, appendices A-M.

Record Access procedures:

See “Notification procedure” above.

Contesting Record procedures:

See “Notification procedure” above.

Record source categories:

Parking permit applicants, members of carpools or vanpools, other Federal agencies, medical doctor if disability determination is requested.

Exemptions claimed for the system:

None.

TREASURY .007

System name:

Personnel Security System-Treasury.

System location:

Department of the Treasury, 1500 Pennsylvania Avenue NW, Room 3180 Annex, Washington, DC 20220. Other locations at which the system is maintained by Treasury bureaus and their associated offices are:

(1) Departmental Offices (DO):

a. 1500 Pennsylvania Ave., NW, Washington, DC 20220.

b. Financial Crimes Enforcement Network (FinCEN), Vienna, VA 22182.

c. The Office of Inspector General (OIG): 740 15th Street, NW, Washington, DC 20220.

d. Treasury Inspector General for Tax Administration (TIGTA): 1111 Constitution Ave., NW, Washington, DC 20224.

(2) Bureau of Alcohol, Tobacco and Firearms (ATF): 650 Massachusetts Avenue, NW, Washington, DC 20226.

(3) Office of the Comptroller of the Currency (OCC): 250 E Street, SW, Washington, DC 20219-0001.

(4) United States Customs Service (CUSTOMS): 1300 Pennsylvania Avenue, NW, Washington DC 20229

(5) Bureau of Engraving and Printing (BEP): 14th & C Streets, SW, Washington, DC 20228.

(6) Federal Law Enforcement Training Center (FLETC): Glynco, Ga. 31524.

(7) Financial Management Service (FMS): 401 14th Street, SW, Washington, DC 20227.

(8) United States Mint (MINT): 801 9th Street, NW, Washington, DC 20220.

(9) Bureau of the Public Debt (BPD): 200 Third Street, Parkersburg, WV 26101.

(10) Office of Thrift Supervision (OTS): 1700 G Street, NW, Washington, DC 20552.

Categories of individuals covered by the system:

(1) Current and former government employees, applicants and contractor employees occupying or applying for sensitive positions in the Department, (2) current and former senior officials of the Department and Treasury bureaus, and those within the Department who are involved in personnel security matters, and (3) current employees, applicants and contractor employees who are appealing a denial or a revocation of a security clearance.

Categories of records in the system:

(1) Background investigations, (2) FBI and other agency name checks, (3) investigative information relating to personnel investigations conducted by the Department of the Treasury and other Federal agencies and departments on a pre-placement and post-placement basis to make suitability and employability determinations and for granting security clearances, (4) card records comprised of Notice of Personnel Security Investigation (TD F 67-32.2) or similar previously used card indexes, and (5) an automated data system reflecting identification data on applicants, incumbents and former employees, disclosure and authorization forms, and record of investigations, level and date of security clearance, if any, as well as status of investigations, and (6) records pertaining to the appeal of a denial or a revocation of a security clearance.

Authority for maintenance of the system:

Executive Order 10450, sections 2 and 3, Executive Order 12958, and Executive Order 12968.

Purpose(s):

This system is used to maintain records that assure the Department is upholding the highest standards of integrity, loyalty, conduct, and security among its personnel and contract employees.

Routine uses of records maintained in the system, including categories of users and the purposes of such uses:

These records may be used to disclose information to:

(1) Appropriate Federal, state, local and foreign agencies for the purpose of enforcing and investigating administrative, civil or criminal law relating to the hiring or retention of an employee; issuance of a security clearance, license, contract, grant or other benefit;

(2) A court, magistrate, or administrative tribunal in the course of presenting evidence, including disclosures to opposing counsel or witnesses in the course of or in preparation for civil discovery, litigation, or settlement negotiations, in response to a subpoena where relevant or potentially relevant to a proceeding, or in connection with criminal law proceedings;

(3) The Department of Justice, or in a proceeding before a court, adjudicative body, or other administrative body before which the Department of the Treasury is authorized to appear, when: (a) The Department of the Treasury, or any component thereof; or (b) any employee of the Department of the Treasury in his or her official capacity; or (c) any employee of the Department of the Treasury in his or her individual capacity where the Department of Justice or the Department of the Treasury has agreed to represent the employee; or (d) the United States, when the Department of the Treasury determines that litigation is likely to affect the Department of the Treasury or any of its components; is a party to litigation or has an interest in such litigation, and the use of such records by the Department of Justice or the Department of the Treasury is deemed by the Department of the Treasury to be relevant and necessary to the litigation; provided, however, that the disclosure is compatible with the purpose for which records were collected;

(4) A congressional office in response to an inquiry made at the request of the individual to whom the record pertains;

(5) Third parties during the course of an investigation to the extent necessary to obtain information pertinent to the investigation;

(6) The Office of Personnel Management, Merit Systems Protection Board, Equal Employment Opportunity Commission, Federal Labor Relations Authority, and the Office of Special Counsel for the purpose of properly administering Federal personnel systems or other agencies' systems in accordance with applicable laws, Executive Orders, and regulations; and

(7) Unions recognized as exclusive bargaining representatives under 5 U.S.C. chapter 71, and other parties responsible for the administration of the Federal labor-management program if needed in the performance of their authorized duties.

Policies and practices for storing, retrieving, accessing, retaining, and disposing of records in the system:

Storage:

File folders, index cards, and magnetic media.

Retrievability:

Records are retrieved by name.

Safeguards:

Paper records are stored in locked metal containers and in locked rooms. Electronic records are password protected. Access is limited to officials who have a need to know in the performance of their official duties and whose background investigations have been favorably adjudicated.

Retention and disposal:

The records on government employees and contractor employees are retained for the duration of their employment at the Treasury Department. The records on applicants not selected and separated employees are destroyed or sent to the Federal Records Center in accordance with General Records Schedule 18.

System manager(s) and address:

Department of the Treasury: Official prescribing policies and practices: Director of Security, 1500 Pennsylvania Avenue, NW., Room 3180 Annex, Washington, DC 20220.

The system managers for the Treasury components are:

(1) DO:

a. Director of Security, 1500 Pennsylvania Avenue, NW., Washington, DC 20220.

b. OIG: Personnel Officer, 740 15th St., NW., Suite 510, Washington, DC 20220.

c. TIGTA: Security Officer, 1111 Constitution Ave., NW., Washington, DC 20224.

d. FinCEN: Security Director, Vienna, VA 22182.

(2) ATF: Assistant Directors, Office of Management, and Office of Inspection, 650 Massachusetts Avenue, NW., Washington, DC 20226.

(3) BPD: Director, Division of Administrative Services, 200 Third Street, P.O. Box 1328, Parkersburg, WV 26106-1318.

(4) CUSTOMS: Chief, Security Management Branch, 1300 Pennsylvania Avenue, NW., Washington, DC 20229.

(5) FLETC: Associate Director for Planning & Resources, Glynco, GA 31524.

(6) OCC: Director, Administrative Services Division, 250 E Street, SW., Washington, DC 20219.

(7) BEP: Chief, Office of Security, 14th & C Streets, NW., Room 113M, Washington, DC 20228.

(8) FMS: Director, Administrative Programs Division, 3700 East West Highway, Hyattsville, MD 20782.

(9) Mint: Associate Director, Protection SBU, 801 9th Street, NW., Washington, DC 20220.

(10) OTS: Director, Procurement and Administrative Services, 1700 G Street, NW., Washington, DC 20552.

Notification procedure:

Individuals seeking notification and access to any record contained in the system of records, or seeking to contest its content, may inquire in accordance with instructions pertaining to individual Treasury components appearing at 31 CFR part 1, subpart C, appendices A-M.

Record Access procedures:

See “Notification procedure” above.

Contesting Record procedures:

See “Notification procedure” above.

Record source categories:

The information provided or verified by applicants or employees whose files are on record as authorized by those concerned, information obtained from current and former employers, co-workers, neighbors, acquaintances, educational records and instructors, and police and credit record checks.

Exemptions claimed for the system:

This system is exempt from 5 U.S.C. 552a (c)(3), (d)(1), (2), (3), and (4), (e)(1), (e)(4)(G), (H), and (I), and (f) of the Privacy Act pursuant to 5 U.S.C. 552a(k)(5). (See 31 CFR 1.36)

TREASURY .008

System Name:

Treasury Emergency Management System.

System Location:

Department of the Treasury, Annex Building, Room 3180, 1500 Pennsylvania Avenue, NW., Washington, DC 20220. Other locations at which the system is maintained by Treasury components and their associated field offices are:

(1) Departmental Offices (DO):

a. 1500 Pennsylvania Ave., NW., Washington, DC 20220.

b. The Office of Inspector General (OIG): 740 15th Street, NW., Washington, DC 20220.

c. Treasury Inspector General for Tax Administration (TIGTA): 1111 Constitution Ave., NW., Washington, DC 20224.

d. Financial Crimes Enforcement Network (FinCEN): Vienna, VA 22182.

(2) Bureau of Alcohol, Tobacco and Firearms (ATF): 650 Massachusetts Avenue, NW., Washington, DC 20226.

(3) Office of the Comptroller of the Currency (OCC): 250 E Street, SW., Washington, DC 20219-0001.

(4) United States Customs Service (CUSTOMS): 1300 Pennsylvania Avenue, NW., Washington DC 20229.

(5) Bureau of Engraving and Printing (BEP): 14th & C Streets, SW., Washington, DC 20228.

(6) Federal Law Enforcement Training Center (FLETC): Glynco, GA. 31524.

(7) Financial Management Service (FMS): 401 14th Street, SW., Washington, DC 20227.

(8) Internal Revenue Service (IRS): 1111 Constitution Avenue, NW., Washington, DC 20224.

(9) United States Mint (MINT): 801 9th Street, NW., Washington, DC 20220.

(10) Bureau of the Public Debt (BPD): 200 Third Street, Parkersburg, WV 26101.

(11) United States Secret Service (USSS): 950 H Street, NW., Washington, DC 20001.

(12) Office of Thrift Supervision (OTS): 1700 G Street, NW., Washington, DC 20552.

Categories of individuals covered by the system:

Current Treasury employees, contractors, and Treasury Emergency Executive Reservists.

Categories of records in the system:

Treasury employees, contractors, or Treasury Emergency Executive Reservists identification number, social security number, first name and middle initial, last name, job title, government and home addresses (city, state, zip code, zip code extension), home telephone number, work telephone number, alternate telephone number (e.g., pager, cellular phone), work shift, email addresses, office code, office name, gender and other employee attributes, date of birth, place of birth, and related personnel security clearance information, emergency team assignment and emergency team location.

Authority for maintenance of the system:

5 U.S.C. 301, Executive Order 12656, section 201 and part 15, Executive Order 12472, Presidential Decision Directive 67.

Purposes(s):

The purpose of this system of records is to support the development of and maintain a continuity of operations plans (COOP) for the Department and its component bureaus. COOP activities involve ensuring the continuity of minimum essential Department of the Treasury functions through plans and procedures governing succession to office and the emergency delegation of authority (where permissible). Vital records and critical information pertaining to all current employees, contractors, and Treasury Emergency Executive Reservists will be gathered and stored in an emergency employee locator system. This data will be used for alert and notification purposes, determining team and task assignments, developing and maintaining an emergency contact system for general emergency preparedness programs and specific situations.

Routine uses of records maintained in the system, including categories of users and the purposes of such uses:

These records may be used to:

(1) Disclose pertinent information to appropriate Federal, State, local, or foreign agencies, or other public authority responsible for investigating or prosecuting the violations of, or for enforcing or implementing a statute, rule, regulation, order, or license, where the disclosing agency becomes aware of an indication of a violation or potential violation of civil or criminal law or regulation;

(2) Disclose pertinent information to the Department of Justice for the purpose of litigating an action or seeking legal advice;

(3) Disclose information to the Federal Emergency Management Agency (FEMA) or other agency with national security and emergency preparedness responsibilities in order to carry out continuity of government activities;

(4) Disclose information to a Federal, State, local, or other public authority maintaining civil, criminal or other relevant enforcement information or other pertinent information, which has requested information relevant to or necessary to the requesting agency's, bureau's, or authority's hiring or retention of an individual, or issuance of a security clearance, license, contract, grant, or other benefit;

(5) Disclose information in a proceeding before a court, adjudicative body, or other administrative body before which the Department of the Treasury (agency) is authorized to appear when: (a) The agency, or (b) any employee of the agency in his or her official capacity, or (c) any employee of the agency in his or her individual capacity where the Department of Justice or the agency has agreed to represent the employee; or (d) the United States, when the agency determines that litigation is likely to affect the agency, is a party to litigation or has an interest in such litigation, and the use of such records by the agency is deemed to be relevant and necessary to the litigation or administrative proceeding and not otherwise privileged;

(6) Disclose information to a Congressional office in response to an inquiry made at the request of the individual to whom the record pertains;

(7) Disclose information to a contractor for the purpose of processing administrative records and/or compiling, organizing, analyzing, programming, or otherwise refining records subject to the same limitations applicable to U. S. Department of the Treasury officers and employees under the Privacy Act;

(8) Disclose information to a court, magistrate, or administrative tribunal in the course of presenting evidence, including disclosures to opposing counsel or witnesses in the course of civil discovery, litigation, or settlement negotiations or in connection with criminal law proceedings or in response to a subpoena where relevant or potentially relevant to a proceeding;

(9) Disclose information to unions recognized as exclusive bargaining representatives under the Civil Service Reform Act of 1978, 5 U.S.C. 7111 and 7114, the Merit Systems Protection Board, arbitrators, the Federal Labor Relations Authority, and other parties responsible for the administration of the Federal labor management program for the purpose of processing any corrective actions or grievances, or conducting administrative hearings or appeals, or if needed in the performance of other authorized duties;

(10) Disclose information to a telecommunications company providing telecommunications support to permit servicing the account;

(11) Disclose information to representatives of the General Services Administration (GSA) or the National Archives and Records Administration (NARA) who are conducting records management inspections under authority of 44 U.S.C. 2904 and 2906.

Policies and practices for storing, retrieving, accessing, retaining, and disposing of records in the system:

Storage:

Maintained in hardcopy and electronic media.

Retrievability:

Records can be retrieved by name, or by the categories listed above under “Categories of records in the system.”

Safeguards:

Protection and control of any sensitive but unclassified (SBU) records are in accordance with TD P 71-10, Department of the Treasury Security Manual. The files and magnetic media are secured in locked rooms. Access to the records is available only to employees responsible for the management of the system and/or employees of program offices who have a need for such information and have been subject to a background check and/or have a security clearance.

Retention and disposal:

Records are retained and disposed of in accordance with the appropriate National Archives and Records Administration General Records Schedules.

System manager(s) and address:

Department of the Treasury: Official prescribing policies and practices: Director, Office of Security, Department of the Treasury, Washington, DC 20220.

The system managers for the Treasury components are:

1. a. DO: Director of Security, 1500 Pennsylvania Avenue, NW., Washington, DC 20220.

b. OIG: Personnel Officer, 740 15th St., NW., Suite 510, Washington, DC 20220.

c. TIGTA: Security Officer, 1111 Constitution Ave., NW., Washington, DC 20224.

2. ATF: Assistant Director, Office of Management, 650 Massachusetts Avenue, NW., Washington, DC 20226.

3. CC: Director, Administrative Services Division, 250 E Street, SW., Washington, DC 20219.

4. CUSTOMS: Chief, Security Management Branch, 1300 Pennsylvania Avenue, NW., Washington, DC 20229.

5. BEP: Director of Security, 14th & C Streets, NW., Room 113M, Washington, DC 20228.

6. FLETC: Director, Glynco Facility, Glynco, GA 31524.

7. FMS: Director, Administrative Programs Division, 3700 East West Highway, Hyattsville, MD 20782.

8. IRS: Director, Security Standards and Evaluation, 5000 Ellin Road, Lanham, MD 20706.

9. BPD: Director, Division of Administration, 200 Third Street, P.O. Box 1328, Parkersburg, WV 26106-1328.

10. Mint: Associate Director, Protection SBU, 801 9th Street, NW., Washington, DC 20220.

11. USSS: Deputy Assistant Director, Office of Administration, 950 H Street NW., Washington, DC 20001.

12. OTS: Director, Procurement and Administrative Services, 1700 G Street, NW., Washington, DC 20552.

Notification procedure:

Individuals seeking notification and access to any record contained in the system of records, or seeking to contest its content, may inquire in accordance with instructions pertaining to individual Treasury components appearing at 31 CFR part 1, subpart C, appendices A—M.

Record Access procedures:

See “Notification procedures” above.

Contesting Record procedures:

See “Notification procedures” above.

Record source categories:

Information is obtained from current Treasury employees, contractors, Treasury Emergency Executive Reservists, and Management.

Exemptions claimed for the system:

None.

TREASURY .009

System name:

Treasury Financial Management Systems—Treasury.

System location:

Department of the Treasury, 1500 Pennsylvania Ave., NW, Washington, DC 20220. The locations at which the system is maintained by Treasury components and their associated field offices are:

(1) Departmental Offices (DO):

a. Financial Management Division, 1500 Pennsylvania Avenue, NW, Washington, DC 20220.

b. The Office of Inspector General (OIG): 740 15th Street, NW., Washington, DC 20220.

c. Treasury Inspector General for Tax Administration (TIGTA): 1111 Constitution Ave., NW., Washington, DC 20224.

d. Community Development Financial Institutions Fund (CDFI): 601 13th Street, NW., Suite 200 South, Washington, DC 20005.

e. Federal Financing Bank (FFB): 1500 Pennsylvania Avenue, NW., South Court One, Washington, DC 20220.

f. Financial Crimes Enforcement Network (FinCEN): Vienna, VA 22182.

g. Office of the Assistant Secretary for International Affairs (OASIA): 1500 Pennsylvania Avenue, NW., Room 5441D, Washington, DC 20220.

h. Treasury Forfeiture Fund: 740 15th Street, NW., Suite 700, Washington, DC 20220.

i. Treasury Franchise Fund: 1500 Pennsylvania Avenue, NW., Washington, DC 20220.

(2) Bureau of Alcohol, Tobacco and Firearms (ATF): 650 Massachusetts Avenue, NW., Washington, DC 20226.

(3) Office of the Comptroller of the Currency (OCC): 250 E Street, NW., Washington, DC 20219-0001.

(4) United States Customs Service (CUSTOMS): 1301 Constitution Avenue, NW., Washington DC 20229.

(5) Bureau of Engraving and Printing (BEP): 14th & C Streets, SW, Washington, DC 20228.

(6) Federal Law Enforcement Training Center (FLETC): Glynco, Ga. 31524.

(7) Financial Management Service (FMS): 401 14th Street, SW, Washington, DC 20227.

(8) Internal Revenue Service (IRS): 1111 Constitution Avenue, NW., Washington, DC 20224.

(9) United States Mint (MINT): 801 9th Street, NW., Washington, DC 20220.

(10) Bureau of the Public Debt (BPD): 200 Third Street, Parkersburg, WV 26101.

(11) United States Secret Service (USSS): 950 H Street, NW., Washington, DC 20001.

(12) Office of Thrift Supervision (OTS): 1700 G Street, NW., Washington, DC 20552.

Categories of individuals covered by the system:

(1) Current and former Treasury employees, non-Treasury personnel on detail to the Department, current and former vendors, all debtors including employees or former employees; (2) persons paying for goods or services, returning overpayment or otherwise delivering cash; (3) individuals, private institutions and business entities who are currently doing business with, or who have previously conducted business with the Department of the Treasury to provide various goods and services; (4) individuals who are now or were previously involved in tort claims with Treasury; (5) individuals who are now or have previously been involved in payments (accounts receivable/revenue) with Treasury; and (6) individuals who have been recipients of awards. Only records reflecting personal information are subject to the Privacy Act. The system also contains records concerning corporations, other business entities, and organizations whose records are not subject to the Privacy Act.

Categories of records in the system:

The financial systems used by the Treasury components to collect, maintain and disseminate information include the following types of records: Routine billing, payment, property accountability, and travel information used in accounting and financial processing; administrative claims by employees for lost or damaged property; administrative accounting documents, such as relocation documents, purchase orders, vendor invoices, checks, reimbursement documents, transaction amounts, goods and services descriptions, returned overpayments, or otherwise delivering cash, reasons for payment and debt, travel-related documents, training records, uniform allowances, payroll information, student intern documents, etc., which reflect amount owed by or to an individual for payments to or receipt from business firms, private citizens and or institutions. Typically, these documents include the individual's name, social security number, address, and taxpayer identification number. Records in the system also include employment data, payroll data, position and pay data.

Authority for maintenance of the system:

31 U.S.C. 3512, 31 U.S.C. 3711, 31 U.S.C. 3721, 5 U.S.C. 5701 et seq., 5 U.S.C. 4111(b), Pub. L. 97-365, 26 U.S.C. 6103(m)(2), 5 U.S.C. 5514, 31 U.S.C. 3716, 31 U.S.C. 321, 5 U.S.C. 301, 5 U.S.C. 4101 et seq., 41 CFR parts 301-304, EO 11348, and Treasury Order 140-01.

Purpose(s):

The Treasury Integrated Financial Management and Revenue System is to account for and control appropriated resources; maintain accounting and financial information associated with the normal operations of government organizations such as billing and follow-up, for paying creditors, to account for goods and services provided and received, to account for monies paid and received, process travel authorizations and claims, process training claims, and process employee claims for lost or damaged property. The records management and statistical analysis subsystems provide a data source for the production of reports, statistical surveys, documentation and studies required for integrated internal management reporting of costs associated with the Department's operation.

Routine uses of records maintained in the system, including categories of users and the purposes of such uses:

These records may be used to disclose information: (1) To appropriate Federal, State, local, or foreign agencies, or other public authority responsible for investigating or prosecuting the violations of or for enforcing or implementing a statute, rule, regulation, order, or license, where the disclosing agency becomes aware of an indication of a violation or potential violation of civil or criminal law or regulation;

(2) To the Department of Justice when seeking legal advice, or when (a) the agency or (b) any component thereof, or (c) any employee of the agency in his or her official capacity, or (d) any employee of the agency in his or her individual capacity where the Department of Justice has agreed to represent the employee, or (e) the United States, where the agency determines that litigation is likely to affect the agency or any of its components, is a party to litigation or has an interest in such litigation, and the use of such records by the Department of Justice is deemed by the agency to be relevant and necessary to the litigation and the use of such records by the Department of Justice is therefore deemed by the agency to be for a purpose that is compatible with the purpose for which the agency collected the records;

(3) To a Federal, State, local, or other public authority maintaining civil, criminal or other relevant enforcement information or other pertinent information, which has requested information relevant to or necessary to the requesting agency's, bureau's, or authority's hiring or retention of an individual, or issuance of a security clearance, license, contract, grant, or other benefit; (4) in a proceeding before a court, adjudicative body, or other administrative body before which the agency is authorized to appear when: (a) The agency, or (b) or any component thereof, or (c) any employee of the agency in his or her official capacity, or (d) any employee of the agency in his or her individual capacity where the Department of Justice or the agency has agreed to represent the employee; or (e) the United States, when the agency determines that litigation is likely to affect the agency, is a party to litigation or has an interest in such litigation, and the use of such records by the agency is deemed to be relevant and necessary to the litigation or administrative proceeding and not otherwise privileged;

(5) To a Congressional office in response to an inquiry made at the request of the individual to whom the record pertains;

(6) To the news media in accordance with guidelines contained in 28 CFR 50.2 which pertain to an agency's functions relating to civil and criminal proceedings;

(7) To third parties during the course of an investigation to the extent necessary to obtain information pertinent to the investigation;

(8) To a public or professional licensing organization when such information indicates, either by itself or in combination with other information, a violation or potential violation of professional standards, or reflects on the moral, educational, or professional qualifications of an individual who is licensed or who is seeking to become licensed;

(9) To a contractor for the purpose of compiling, organizing, analyzing, programming, processing, or otherwise refining records subject to the same limitations applicable to U.S. Department of the Treasury officers and employees under the Privacy Act;

(10) To a court, magistrate, or administrative tribunal in the course of presenting evidence, including disclosures to opposing counsel or witnesses in the course of civil discovery, litigation, or settlement negotiations or in connection with criminal law proceedings or in response to a subpoena;

(11) Through a computer matching program, information on individuals owing debts to the Department of the Treasury, or any of its components, to other Federal agencies for the purpose of determining whether the debtor is a Federal employee or retiree receiving payments which may be used to collect the debt through administrative or salary offset;

(12) To other federal agencies to effect salary or administrative offset for the purpose of collecting debts, except that addresses obtained from the IRS shall not be disclosed to other agencies;

(13) To disclose information to a consumer reporting agency, including mailing addresses obtained from the Internal Revenue Service, to obtain credit reports;

(14) To a debt collection agency, including mailing addresses obtained from the Internal Revenue Service, for debt collection services;

(15) To unions recognized as exclusive bargaining representatives under the Civil Service Reform Act of 1978, 5 U.S.C. 7111 and 7114, the Merit Systems Protection Board, arbitrators, the Federal Labor Relations Authority, and other parties responsible for the administration of the Federal labor-management program for the purpose of processing any corrective actions, or grievances, or conducting administrative hearings or appeals, or if needed in the performance of other authorized duties;

(16) To a public or professional auditing organization for the purpose of conducting financial audit and/or compliance audits;

(17) To a student participating in a Treasury student volunteer program, where such disclosure is necessary to support program functions of Treasury, and

(18) To insurance companies or other appropriate third parties, including common carriers and warehousemen, in the course of settling an employee's claim for lost or damaged property filed with the Department.

Disclosure to consumer reporting agencies:

Disclosures made pursuant to 5 U.S.C. 552a(b)(12): Debt information concerning a government claim against an individual may be furnished in accordance with 5 U.S.C. 552a(b)(12) and section 3 of the Debt Collection Act of 1982 (Pub. L. 97-365) to consumer reporting agencies to encourage repayment of an overdue debt.

Policies and practices for storing, retrieving, accessing, retaining, and disposing of records in the system:

Storage:

Paper, microform and electronic media.

Retrievability:

Name, social security number, vendor ID number, and document number (travel form, training form, purchase order, check, invoice, etc.).

Safeguards:

Protection and control of sensitive but unclassified (SBU) records in this system is in accordance with TD P 71-10, Department of the Treasury Security Manual, and any supplemental guidance issued by individual components.

Retention and disposal:

Record maintenance and disposal is in accordance with National Archives and Records Administration retention schedules, and any supplemental guidance issued by individual components.

System manager(s) and address:

(1) DO: a. Director, Financial Management Division, 1500 Pennsylvania Avenue, NW., Attn: 1310 G Street, 2nd floor, Washington, DC 20220.

b. OIG: Assistant Inspector General for Management Services, 740 15th St. NW., Suite 510, Washington, DC 20220.

c. FinCEN: Chief Financial Officer, Vienna, VA 22182.

d. CDFI Fund: Deputy Director for Management/CFO, 601 13th Street, NW., Suite 200 South, Washington, DC 20005.

e. FFB: Chief Financial Officer, 1500 Pennsylvania Avenue, NW., South Court One, Washington, DC 20220.

f. FinCEN: Associate Director, Office of Resource Management/CFO, Vienna, VA 22182.

g. OASIA: Financial Manager, 1500 Pennsylvania Avenue, NW., Room 5441D, Washington, DC 20220.

h. Treasury Forfeiture Fund: Assistant Director for Financial Management/CFO, 740 15th Street, NW., Suite 700, Washington, DC 20220.

i. Treasury Franchise Fund: Director, Office of Financial Management, 1500 Pennsylvania Avenue, NW. Attention: 1310 G Street, NW, 2nd Floor, Washington, DC 20220.

(2) ATF: Assistant Director, Office of Management, 650 Massachusetts Avenue, NW., Washington, DC 20226.

(3) IRS: Chief Financial Officer, Internal Revenue Service, 1111 Constitution Avenue, NW., Room 3013, Washington, DC 20224.

(4) BPD: Director, Division of Financial Management, Bureau of Public Debt, 200 Third Street, P.O. Box 1328, Parkersburg, WV 26106-1328.

(5) CUSTOMS: Chief Financial Officer, U.S. Customs Service, 1300 Pennsylvania Avenue, NW., Room 4.5-D, Washington, DC 20229.

(6) FLETC: Comptroller, Budget and Finance Division, Federal Law Enforcement Training Center, Glynco Facility, Bldg. 94, Glynco, GA 31524.

(7) CC: Chief Financial Officer, Comptroller of the Currency, 250 E Street, SW., Washington, DC 20219.

(8) BEP: Chief Financial Officer, Bureau of Engraving and Printing, 14th and C Streets, NW., Room 113M, Washington, DC 20228.

(9) FMS: Chief Financial Officer, Financial Management Service, 3700 East West Highway, Room 106A, Hyattsville, MD 20782.

(10) Mint: Chief Financial Officer, U.S. Mint, 633 3rd Street, NW., Room 625, Washington, DC 20220.

(11) USSS: Financial Management Division, U.S. Secret Service, 1800 G Street, NW., Room 748, Washington, DC 20226.

(12) OTS: Controller, Office of Thrift Supervision, 1700 G Street, NW., Third Floor, Washington, DC 20552.

Notification procedure:

Individuals seeking notification and access to any record contained in the system of records, or seeking to contest its content, may inquire in accordance with instructions pertaining to individual Treasury components appearing at 31 CFR part 1, subpart C, appendices A—M.

Record Access procedures:

See “Notification procedure” above.

Contesting Record procedures:

See “Notification procedure” above.

Record source categories:

Individuals, private firms, other government agencies, contractors, documents submitted to or received from a budget, accounting, travel, training or other office maintaining the records in the performance of their duties.

Exemptions claimed for the system:

None.

TREASURY .010

System name:

Telephone Call Detail Records-Treasury.

System location:

Department of the Treasury, 1500 Pennsylvania Ave., NW., Washington, DC 20220. The locations at which the system is maintained by Treasury components and their associated field offices are:

(1) Departmental Offices (DO):

a. 1500 Pennsylvania Ave., NW., Washington, DC 20220.

b. The Office of Inspector General (OIG): 740 15th Street, NW., Washington, DC 20220.

c. Treasury Inspector General for Tax Administration TIGTA): 1111 Constitution Ave., NW., Washington, DC 20224.

(2) Bureau of Alcohol, Tobacco and Firearms (ATF): 650 Massachusetts Avenue, NW., Washington, DC 20226.

(3) Office of the Comptroller of the Currency (OCC): 250 E Street, NW., Washington, DC 20219-0001.

(4) United States Customs Service (CUSTOMS): 1301 Constitution Avenue, NW., Washington DC 20229.

(5) Bureau of Engraving and Printing (BEP): 14th & C Streets, SW., Washington, DC 20228.

(6) Federal Law Enforcement Training Center (FLETC): Glynco, Ga. 31524.

(7) Financial Crimes Enforcement Network (FinCEN) Vienna, Virginia 22182.

(8) Financial Management Service (FMS): 401 14th Street, SW., Washington, DC 20227.

(9) Internal Revenue Service (IRS): 1111 Constitution Avenue, NW., Washington, DC 20224.

(10) United States Mint (MINT): 801 9th Street, NW., Washington, DC 20220.

(11) Bureau of the Public Debt (BPD): 200 Third Street, Parkersburg, WV 26101.

(12) United States Secret Service (USSS): 950 H Street, NW., Washington, DC 20001.

(13) Office of Thrift Supervision (OTS): 1700 G Street, NW., Washington, DC 20552.

Categories of individuals covered by the system:

Individuals (generally agency employees and contractor personnel) who make local and/or long distance calls, individuals who received telephone calls placed from or charged to agency telephones.

Categories of records in the system:

Records relating to the use of Department telephones to place local and/or long distance calls, whether through the Federal Telecommunications System (FTS), commercial systems, or similar systems; including voice, data, and videoconference usage; telephone calling card numbers assigned to employees; records of any charges billed to Department telephones; records relating to location of Department telephones; and the results of administrative inquiries to determine responsibility for the placement of specific local or long distance calls. Telephone calls made to any Treasury Office of Inspector General Hotline numbers are excluded from the records maintained in this system pursuant to the provisions of 5 U.S.C., Appendix 3, Section 7(b) (Inspector General Act of 1978).

Authority for maintenance of the system:

12 U.S.C. 1, 12 U.S.C. 93a, 12 U.S.C. 481, 5 U.S.C. 301 and 41 CFR 201-21.6.

Purpose(s):

The Department, in accordance with 41 CFR 201-21.6, Use of Government Telephone Systems, established the Telephone Call Detail program to enable it to analyze call detail information for verifying call usage, to determine responsibility for placement of specific long distance calls, and for detecting possible abuse of the government-provided long distance network.

Routine uses of records maintained in the system, including categories of users and the purposes of such uses:

These records and information from these records may be disclosed:

(1) To representatives of the General Services Administration or the National Archives and Records Administration who are conducting records management inspections under authority of 44 U.S.C. 2904 and 2906;

(2) To employees or contractors of the agency to determine individual responsibility for telephone calls;

(3) To appropriate Federal, State, local, or foreign agencies responsible for investigating or prosecuting the violations of, or for enforcing or implementing a statute, rule, regulation, order, or license, or where the disclosing agency becomes aware of an indication of a violation or potential violation of civil or criminal law or regulation;

(4) To a court, magistrate, or administrative tribunal in the course of presenting evidence, including disclosures to opposing counsel or witnesses in the course of civil discovery, litigation, or settlement negotiations, in response to a subpoena, or in connection with criminal law proceedings where relevant and necessary;

(5) To a telecommunications company providing telecommunication support to permit servicing the account;

(6) To another Federal agency to effect an interagency salary offset, or an interagency administrative offset, or to a debt collection agency for debt collection services. Mailing addresses acquired from the Internal Revenue Service may be released to debt collection agencies for collection services, but shall not be disclosed to other government agencies;

(7) To the Department of Justice for the purpose of litigating an action or seeking legal advice;

(8) In a proceeding before a court, adjudicative body, or other administrative body, before which the agency is authorized to appear when: (a) The agency, or (b) any employee of the agency in his or her official capacity, or (c) any employee of the agency in his or her individual capacity where the Department of Justice has agreed to represent the employee; or (d) the United States, when the agency determines that litigation is likely to affect the agency, is a party to the litigation or has an interest in such litigation, and the use of such records by the agency is deemed relevant and necessary to the litigation or administrative proceeding and not otherwise privileged;

(9) To a congressional office in response to an inquiry made at the request of the individual to whom the record pertains;

(10) To unions recognized as exclusive bargaining representatives under the Civil Service Reform Act of 1978, 5 U.S.C. 7111 and 7114, the Merit Systems Protection Board, arbitrators, the Federal Labor Relations Authority, and other parties responsible for the administration of the Federal labor-management program for the purpose of processing any corrective actions or grievances or conducting administrative hearings or appeals or if needed in the performance of other authorized duties;

(11) To the Defense Manpower Data Center (DMDC), Department of Defense, the U.S. Postal Service, and other Federal agencies through authorized computer matching programs to identify and locate individuals who are delinquent in their repayment of debts owed to the Department, or one of its components, in order to collect a debt through salary or administrative offsets;

(12) In response to a Federal agency's request made in connection with the hiring or retention of an individual, issuance of a security clearance, license, contract, grant, or other benefit by the requesting agency, but only to the extent that the information disclosed is relevant and necessary to the requesting agency's decision on the matter.

Disclosure to consumer reporting agencies:

Disclosures pursuant to 5 U.S.C. 522a(b)(12): Disclosures may be made from this system to “consumer reporting agencies” as defined in the Fair Credit Reporting Act (15 U.S.C. 1681(f)) or the Federal Claims Collections Act of 1966 (31 U.S.C. 3701(a)(3)).

Policies and practices for storing, retrieving, accessing, retaining, and disposing of records in the system:

Storage:

Microform, electronic media, and/or hard copy media.

Retrievability:

Records may be retrieved by: Individual name; component headquarters and field offices; by originating or terminating telephone number; telephone calling card numbers; time of day; identification number, or assigned telephone number.

Safeguards:

Protection and control of any sensitive but unclassified (SBU) records are in accordance with TD P 71-10, Department of the Treasury Security Manual, and any supplemental guidance issued by individual components.

Retention and disposal:

Records are maintained in accordance with National Archives and Records Administration General Records Schedule 3. Hard copy and microform media disposed by shredding or incineration. Electronic media erased electronically.

System manager(s) and address:

Department of the Treasury: Official prescribing policies and practices—Director, Customer Services Infrastructure and Operations, Department of the Treasury, Room 2150, 1425 New York Avenue, NW, Washington, DC 20220. The system managers for the Treasury components are:

(1) a. DO: Chief, Telecommunications Branch, Automated Systems Division, Room 1121, 1500 Pennsylvania Avenue, NW, Washington, DC 20220.

b. OIG: Assistant Inspector General for Management Services, 740 15th St. NW, Suite 510, Washington, DC 20220.

c. FinCEN: Deputy Director, Vienna, Virginia 22182.

(2) ATF: Assistant Director, Office of Science and Technology, 650 Massachusetts Avenue, NW, Washington, DC 20226.

(3) CC: Associate Director, Telecommunications, Systems Support Division, Office of the Comptroller of the Currency, 835 Brightseat Road, Landover, MD 20785.

(4) CUSTOMS: Chief, Voice Communications, Office of Systems Engineering and Operations, Field Office Division, 7681 Boston Boulevard, Springfield, VA 22153.

(5) BEP: Deputy Associate Director (Chief Information Officer), Office of Information Systems, Bureau of Engraving and Printing, Room 711A, 14th and C Street, SW., Washington, DC 20228.

(6) FLETC: Information Systems Officer, Information Systems Division, ISD-Building 94, Glynco, GA 31524.

(7) FMS: Director, Platform and Support Management, Room 424E, 3700 East West Highway, Hyattsville, MD 20782.

(8) IRS: Official prescribing policies and practices: National Director, Operations and Customer Support, Internal Revenue Service, 1111 Constitution Avenue, NW, Washington, DC 20224. Office maintaining the system: Director, Detroit Computing Center, (DCC), 1300 John C. Lodge Drive, Detroit, MI 48226.

(9) Mint: Assistant Director for Information Resources Management, 633 3rd Street, NW, Washington, DC 20220.

(10) BPD: Official prescribing policies and practices: Assistant Commissioner (Office of Automated Information Systems), 200 Third Street, Room 202, Parkersburg, WV 26106-1328. Office maintaining the system: Division of Communication, 200 Third Street, Room 107, Parkersburg, WV 26106-1328.

(11) USSS: Chief, Information Resources Management Division, 950 H Street, NW, Washington, DC 20001.

(12) OTS: Director, Office of Information Systems, 1700 G Street, NW, 2nd Floor, Washington, DC 20552.

Notification procedure:

Individuals seeking notification and access to any record contained in the system of records, or seeking to contest its content, may inquire in accordance with instructions pertaining to individual Treasury components appearing at 31 CFR part 1, subpart C, appendices A-M.

Record Access procedures:

Individuals seeking notification and access to any record contained in this system of records, or seeking to contest its content, may inquire in accordance with instructions pertaining to individual Treasury components appearing at 31 CFR part 1, subpart C, appendices A-M.

Contesting Record procedures:

See “Notification procedure” above.

Record source categories:

Telephone assignment records, call detail listings, results of administrative inquiries to individual employees, contractors or offices relating to assignment of responsibility for placement of specific long distance or local calls.

Exemptions claimed for the system:

None.

TREASURY .011

System name:

Treasury Safety Incident Management Information System (SIMIS)—Treasury.

System location:

Department of the Treasury, 1500 Pennsylvania Ave., NW, Washington, DC 20220. Other locations at which the system is maintained by Treasury components and their associated field offices are:

(1) Departmental Offices (DO):

a. 1500 Pennsylvania Ave., NW, Washington, DC 20220.

b. The Office of Inspector General (OIG): 740 15th Street, NW, Washington, DC 20220.

c. Treasury Inspector General for Tax Administration (TIGTA): 1111 Constitution Ave., NW, Washington, DC 20224.

d. Community Development Financial Institutions Fund (CDFI): 601 13th Street, NW, Washington, DC 20005.

e. Financial Crimes Enforcement Network (FinCEN): Vienna, VA 22182.

(2) Bureau of Alcohol, Tobacco and Firearms (ATF): 650 Massachusetts Avenue, NW, Washington, DC 20226.

(3) Office of the Comptroller of the currency (OCC): 250 E Street, SW, Washington, DC 20219-0001.

(4) United States Customs Service (CUSTOMS): 1300 Pennsylvania Avenue, NW, Washington, DC 20229.

(5) Bureau of Engraving and Printing (BEP): 14th & C Streets, SW, Washington, DC 20228.

(6) Federal Law Enforcement Training Center (FLETC): Glynco, GA 31524.

(7) Financial Management Service (FMS): 401 14th Street, SW, Washington, DC 20227.

(8) Internal Revenue Service (IRS): 1111 Constitution Avenue, NW, Washington, DC 20224.

(9) United States Mint (MINT): 801 9th Street, NW, Washington, DC 20220.

(10) Bureau of the Public Debt (BPD): 200 Third Street, Parkersburg, WV 26101.

(11) United States Secret Service (USSS): 950 H Street, NW, Washington, DC 20001.

(12) Office of Thrift Supervision (OTS): 1700 G Street, NW, Washington, DC 20552.

Categories of individuals covered by the system:

Current and past Treasury employees and contractors who are injured on Department of the Treasury property or while in the performance of their duties offsite. Members of the public who are injured on Department of the Treasury property are also included in the system.

Categories of records in the system:

Records in this system pertain to medical injuries and occupational illnesses of employees which include social security numbers, full names, job titles, government and home addresses (city, state, zip code), home telephone numbers, work telephone numbers, work shifts, location codes, and gender. Mishap information on environmental incidents, vehicle accidents, property losses and tort claims will be included also. In addition, there will be records such as results of investigations, corrective actions, supervisory information, safety representatives names, data as to chemicals used, processes affected, causes of losses, etc. Records relating to contractors include full name, job title, work addresses (city, state, zip code), work telephone number, location codes, and gender. Records pertaining to a member of the public include full name, home address (city, state, zip code), home telephone number, location codes and gender. (Official compensation claim file, maintained by the Department of Labor's Office of Workers' Compensation Programs (OWCP) is part of that agency's system of records and not covered by this notice.)

Authority for maintenance of the system:

5 U.S.C. 301, Executive Order 12196, section 1-2.

Purpose(s):

This system of records supports the development and maintenance of a Treasury-wide incident tracking and reporting system and will make it possible to streamline a cumbersome paper process. Current web technology will be employed and facilitate obtaining real-time data and reports related to injuries and illnesses. As an enterprise system for the Department and its component bureaus, incidents analyses can be performed instantly to affect a more immediate implementation of corrective actions and to prevent future occurrences. Information pertaining to past and all current employees and contractors injured on Treasury property or while in the performance of their duties offsite, as well as members of the public injured while on Federal property, will be gathered and stored in SIMIS. This data will be used for analytical purposes such as trend analysis, and the forecasting/projecting of incidents. The data will be used to generate graphical reports resulting from the analyses.

Routine uses of records maintained in the system, including categories of users and the purposes of such uses:

These records may be used to:

(1) Disclose pertinent information to appropriate Federal, State, local, or foreign agencies, or other public authority responsible for investigating or prosecuting the violations of, or for enforcing or implementing a statute, rule, regulation, order, or license, where the disclosing agency becomes aware of an indication of a violation or potential violation of civil or criminal law or regulation;

(2) Disclose pertinent information to the Department of Justice for the purpose of litigating an action or seeking legal advice;

(3) Disclose information to the Office of Workers' Compensation Programs, Department of Labor, which is responsible for the administration of the Federal Employees' Worker Compensation Act (FECA);

(4) Disclose information to a Federal, State, local, or other public authority maintaining civil, criminal or other relevant enforcement information or other pertinent information, which has requested information relevant to or necessary to the requesting agency's, bureau's, or authority's hiring or retention of an individual, or issuance of a security clearance, license, contract, grant, or other benefit;

(5) Disclose information in a proceeding before a court, adjudicative body, or other administrative body before which the Department of the Treasury (agency) is authorized to appear when: (a) The agency, or (b) any employee of the agency in his or her official capacity, or (c) any employee of the agency in his or her individual capacity where the Department of Justice or the agency has agreed to represent the employee; or (d) the United States, when the agency determines that litigation is likely to affect the agency, is a party to litigation or has an interest in such litigation, and the use of such records by the agency is deemed to be relevant and necessary to the litigation or administrative proceeding and not otherwise privileged;

(6) Disclose information to a congressional office in response to an inquiry made at the request of the individual to whom the record pertains;

(7) Disclose information to a contractor for the purpose of processing administrative records and/or compiling, organizing, analyzing, programming, or otherwise refining records subject to the same limitations applicable to U.S. Department of the Treasury officers and employees under the Privacy Act;

(8) Disclose information to a court, magistrate, or administrative tribunal in the course of presenting evidence, including disclosures to opposing counsel or witnesses in the course of civil discovery, litigation, or settlement negotiations or in connection with criminal law proceedings or in response to a subpoena where relevant or potentially relevant to a proceeding;

(9) Disclose information to unions recognized as exclusive bargaining representatives under 5 U.S.C. chapter 71, arbitrators, and other parties responsible for the administration of the Federal labor-management program if needed in the performance of their authorized duties;

(10) Disclose information to the Equal Employment Opportunity Commission, Merit Systems Protection Board, arbitrators, the Federal Labor Relations Authority, and other parties responsible for the administration of the Federal labor management program for the purpose of processing any corrective actions or grievances or conducting administrative hearings or appeals, or if needed in the performance of other authorized duties;

(11) Disclose information to a Federal, State, or local public health service agency as required by applicable law, concerning individuals who have contracted or who have been exposed to certain communicable diseases or conditions. Such information is used to prevent further outbreak of the disease or condition;

(12) Disclose information to representatives of the General Services Administration (GSA) or the National Archives and Records Administration (NARA) who are conducting records management inspections under authority of 44 U.S.C. 2904 and 2906.

Policies and practices for storing, retrieving, accessing, retaining, and disposing of records in the system:

Storage:

Maintained in hardcopy and electronic media.

Retrievability:

Records can be retrieved by name, or by categories listed above under “Categories of records in the system.”

Safeguards:

Protection and control of any sensitive but unclassified (SBU) records are in accordance with TD P 7110, Department of the Treasury Security Manual. The hardcopy files and electronic media are secured in locked rooms. Access to the records is available only to employees responsible for the management of the system and/or employees of program offices who have a need for such information and have been subject to a background check and/or security clearance.

Retention and disposal:

Records are retained and disposed of in accordance with the appropriate National Archives and Records Administration General Records Schedule No. 1.

System manager(s) and address:

Department of the Treasury official prescribing policies and practices: Director, Office of Safety, Health and Environment, Department of the Treasury, Washington, DC 20220. The system managers for the Treasury components are:

1. DO:

(a) Director, Occupational Safety and Health Office, Room 6204 Annex, 1500 Pennsylvania Ave., NW., Washington, DC 20220.

(b) OIG: Safety and Occupational Health Manager, 740 15th Street, NW., Washington, DC 20220.

(c) TIGTA: Safety and Occupational Health Manager, 1111 Constitution Ave., NW., Washington, DC 20224

(d) CDFI: Safety and Occupational Health Manager, 601 13th Street, NW., Washington, DC 20005.

(e) FinCEN: Safety and Occupational Health Manager, Vienna, VA 22182.

2. ATF: Assistant Director, Office of Management, 650 Massachusetts Avenue, NW., Washington, DC 20226.

3. OCC: Safety and Occupational Health Manager, 250 E Street, SW, Washington, DC 20219-0001.

4. CUSTOMS: Safety and Occupational Health Manager, 1300 Pennsylvania Avenue, NW., Washington, DC 20229.

5. BEP: Safety and Occupational Health Manager, 14th & C Streets, SW, Washington, DC 20228.

6. FLETC: Safety and Occupational Health Manager, Glynco, GA. 31524.

7. FMS: Safety and Occupational Health Manager, PG 3700 East-West Highway, Hyattsville, MD 20782.

8. IRS: Safety and Occupational Health Manager, 1111 Constitution Avenue, NW., Washington, DC 20224.

9. MINT: Safety and Occupational Health Manager, 801 9th Street, NW., Washington, DC 20220.

10. BPD: Safety and Occupational Health Manager, 200 Third Street, Parkersburg, WV 26101.

11. USSS: Safety and Occupational Health Manager, 950 H Street, NW., Washington, DC 20001.

12. OTS: Safety and Occupational Health Manager, 1700 G Street, NW., Washington, DC 20552.

Notification procedure:

Individuals seeking notification and access to any record contained in the system of records, or seeking to contest its content, may inquire in accordance with instructions pertaining to individual Treasury components appearing at 31 CFR part 1, subpart C, appendices, A-L.

Record access procedures:

See “Notification procedures” above.

Contesting record procedures: See “Notification procedures” above.

Record source categories:

Information is obtained from current Treasury employees, contractors, members of the public, witnesses, medical providers, and relevant industry experts.

Exemptions claimed for the system:

None.

Departmental Offices

TREASURY/DO. 003

System name:

Law Enforcement Retirement Claims Records—Treasury/DO.

System location:

These records are located in the Office of Personnel Policy, Department of the Treasury, Washington, DC 20220.

Categories of individuals covered by the system:

Current or former Federal employees who have submitted claims for law enforcement retirement coverage (claims) with their bureaus in accordance with 5 U.S.C. 8336(c)(1) and 5 U.S.C. 8412(d).

Categories of records in the system:

The system contains records relating to claims filed by current and former Treasury employees under 5 U.S.C. 8336(c)(1) and 5 U.S.C. 8412(d). These case files contain all documents related to the claim including statements of witnesses, reports of interviews and hearings, examiner's findings and recommendations, a copy of the original and final decision, and related correspondence and exhibits.

Authority for maintenance of the system:

5 U.S.C. 8336(c)(1), 8412(d), 1302, 3301, and 3302; E.O. 10577; 3 CFR 1954-1958 Comp., p. 218 and 1959-1963 Comp., p. 519; and E.O. 10987.

Purpose(s):

The purpose of the system is to make determinations concerning requests by Treasury employees that the position he or she holds qualifies as a law enforcement position for the purpose of administering employment and retirement benefits.

Routine uses of records maintained in the system, including categories of users and the purposes of such uses:

These records may be used:

(1) To Disclose pertinent information to the appropriate Federal, state, or local agency responsible for investigating, prosecuting, enforcing, or implementing a statute, rule, regulation, or order, where the disclosing agency becomes aware of an indication of a violation or potential violation of civil or criminal law or regulation;

(2) To disclose information to any source from which additional information is requested in the course of processing a claim, to the extent necessary to identify the individual whose claim is being adjudicated, inform the source of the purpose(s) of the request, and identify the type of information requested;

(3) To disclose information to a Federal agency, in response to its request, in connection with the hiring or retention of an individual, the issuance of a security clearance, the conducting of a security or suitability investigation of an individual, the classifying of jobs, the letting of a contract, or the issuance of a license, grant, or other benefit by the requesting agency, to the extent that the information is relevant and necessary to requesting the agency's decision on the matter;

(4) To provide information to a congressional office in response to an inquiry made at the request of the individual to whom the record pertains;

(5) To Disclose information which is necessary and relevant to the Department of Justice or to a court when the Government is party to a judicial proceeding before the court;

(6) To provide information to the National Archives and Records Administration for use in records management inspections conducted under authority of 44 U.S.C. 2904 and 2908;

(7) To disclose information to officials of the Merit Systems Protection Board, the Office of the Special Counsel, the Federal Labor Relations Authority, the Equal Employment Opportunity Commission, or the Office of Personnel Management when requested in performance of their authorized duties;

(8) To disclose information to a court, magistrate, or administrative tribunal in the course of presenting evidence, including disclosures to opposing Counsel or witnesses in the course of civil discovery, litigation or settlement negotiations in response to a subpoena where relevant or potentially relevant to a proceeding, or in connection with criminal law proceedings; and

(9) To provide information to officials of labor organizations recognized under the Civil Service Reform Act when relevant and necessary to their duties of exclusive representation concerning personnel policies, practices, and matters affecting work conditions.

Policies and practices for storing, retrieving, accessing, retaining, and disposing of records in the system:

Storage:

File folders and electronic media.

Retrievability:

By the names of the individuals on whom they are maintained.

Safeguards:

Lockable metal filing cabinets to which only authorized personnel have access. Automated databases are password protected.

Retention and disposal:

Disposed of after closing of the case in accordance with General Records Schedule 1, Civilian Personnel Records, Category 7d.

System manager(s) and addresses:

Director, Office of Personnel Policy, Room 6018-Metropolitan Square, Department of the Treasury, Washington, DC 20220.

Notification procedure:

It is required that individuals submitting claims be provided a copy of the record under the claims process. They may, however, contact the agency personnel or designated office where the action was processed, regarding the existence of such records on them. They must furnish the following information for their records to be located and identified: (1) Name, (2) date of birth, (3) approximate date of closing of the case and kind of action taken, (4) organizational component involved.

Record access procedures:

It is required that individuals submitting claims be provided a copy of the record under the claims process. However, after the action has been closed, an individual may request access to the official copy of the claim file by contacting the system manager. Individuals must provide the following information for their records to be located and identified: (1) Name, (2) date of birth, (3) approximate date of closing of the case and kind of action taken, (4) organizational component involved.

Contesting record procedures:

Review of requests from individuals seeking amendment of their records which have been the subject of a judicial or quasi-judicial action will be limited in scope. Review of amendment requests of these records will be restricted to determining if the record accurately documents the action of the agency ruling on the case, and will not include a review of the merits of the action, determination, or finding. Individuals wishing to request amendment to their records to correct factual errors should contact the system manager. Individuals must furnish the following information for their records to be located and identified: (1) Name, (2) date of birth, (3) approximate date of closing of the case and kind of action taken, (4) organizational component involved.

Record source categories:

Information in this system of records is provided: (1) By the individual on whom the record is maintained, (2) by testimony of witnesses, (3) by agency officials, (4) from related correspondence from organizations or persons.

Exemptions claimed for the system:

None.

TREASURY/DO. 007

System name:

General Correspondence Files—Treasury/DO.

System location:

Departmental Offices, Department of the Treasury, 1500 Pennsylvania Ave., NW, Washington, DC 20220. Components of this record system are in the following offices within the Departmental Offices:

1. Office of Foreign Assets Control

2. Office of Tax Policy

3. Office of the Assistant Secretary for International Affairs

4. Office of the Executive Secretariat

5. Office of Public Correspondence

6. Office of Legislative Affairs

Categories of individuals covered by the system:

Members of Congress, U.S. Foreign Service officials, officials and employees of the Treasury Department, officials of municipalities and state governments, and the general public, foreign nationals, members of the news media, businesses, officials and employees of other Federal Departments and agencies.

Categories of records in the system:

Incoming correspondence and replies pertaining to the mission, function, and operation of the Department, tasking sheets, and internal Treasury memorandum.

Authority for maintenance of the system:

5 U.S.C. 301.

Purpose(s):

The manual systems and/or electronic databases (e.g., Treasury Automated Document System (TADS)) used by the system managers are to manage the high volume of correspondence received by the Departmental Offices and to accurately respond to inquiries, suggestions, views and concerns expressed by the writers of the correspondence. It also provides the Secretary of the Treasury with sentiments and statistics on various topics and issues of interest to the Department.

Routine uses of records maintained in the system including categories of users and the purposes of such uses:

These records may be used to:

(1) Provide information to a congressional office in response to an inquiry made at the request of the individual to whom the record pertains;

(2) Provide information to the news media in accordance with guidelines contained in 28 CFR 50.2 which relate to an agency's functions relating to civil and criminal proceedings;

(3) Provide information to unions recognized as exclusive bargaining representatives under the Civil Service Reform Act of 1978, 5 U.S.C. 7111 and 7114;

(4) Provide information to third parties during the course of an investigation to the extent necessary to obtain information pertinent to the investigation;

(5) Provide information to appropriate Federal, State, local, or foreign agencies responsible for investigating or prosecuting the violations of, or for enforcing or implementing, a statute, rule, regulation, order, or license;

(6) Provide information to a court, magistrate, or administrative tribunal in the course of presenting evidence, including disclosures to opposing counsel or witnesses in the course of civil discovery, litigation, or settlement negotiations or in connection with criminal law proceedings.

Policies and practices for storing, retrieving, accessing, retaining and disposing of records in the system:

Storage:

Paper records, file folders and magnetic media.

Retrievability:

By name of individual or letter number, address, assignment control number, or organizational relationship.

Safeguards:

Access is limited to authorized personnel with a direct need to know. Rooms containing the records are locked after business hours. Some folders are stored in locked file cabinets in areas of limited accessibility except to employees. Others are stored in electronically secured areas and vaults. Access to electronic records is by password.

Retention and disposal:

Some records are maintained for three years, then destroyed by burning. Other records are updated periodically and maintained as long as needed. Some electronic records are periodically updated and maintained for two years after date of response; hard copies of those records are disposed of after three months in accordance with the NARA schedule. Paper records of the Office of the Executive Secretary are stored indefinitely at the Federal Records Center.

System manager(s) and addresses:

1. Director, Office of Foreign Assets Control, U.S. Treasury Department, Room 2233, Treasury Annex, 1500 Pennsylvania Ave., NW., Washington, DC 20220.

2. Freedom of Information Act Officer, Office of Tax Policy, U.S. Treasury Department, Room 1041-MT, 1500 Pennsylvania Ave., NW., Washington, DC 20220.

3. Director, OASIA Secretariat, U.S. Treasury Department, Room 5422-MT, 1500 Pennsylvania Ave., NW., Washington, DC 20220.

4. Director, VIP Correspondence, Office of the Executive Secretariat, U.S. Treasury Department, Room 3419-MT, Washington, DC 20220.

5. Office of Public Correspondence, U.S. Treasury Department, Washington, DC 20220.

6. Deputy to the Assistant Secretary, Office of Legislative Affairs, U.S. Treasury Department, Room 3025-MT, Washington, DC 20220.

NOTIFICATION PROCEDURE:

Individuals wishing to be notified if they are named in this system of records, or to gain access to records maintained in this system may inquire in accordance with instructions appearing at 31 CFR part 1, subpart C, appendix A. Individuals must submit a written request containing the following elements: (1) Identify the record system; (2) identify the category and type of records sought; and (3) provide at least two items of secondary identification (date of birth, employee identification number, dates of employment or similar information). Address inquiries to Assistant Director, Disclosure Services (see “Record access procedures” below).

Record Access procedures:

Assistant Director, Disclosure Services, Department of the Treasury, 1500 Pennsylvania Ave., NW., Washington, DC 20220.

Contesting Record procedures:

See “Record access procedures” above.

Record source categories:

Members of Congress or other individuals who have corresponded with the Departmental Offices, other governmental agencies (Federal, state and local), foreign individuals and official sources.

Exemptions claimed for the system:

None.

TREASURY/DO .010

System name:

Office of Domestic Finance, Actuarial Valuation System—Treasury/DO.

System location:

Departmental Offices, Office of Government Financing, Office of the Government Actuary, 1500 Pennsylvania Avenue, NW, Washington, DC 20220.

Categories of individuals covered by the system:

Participants and beneficiaries of the Foreign Service Retirement and Disability System and the Foreign Service Pension System. Covered employees are located in the following agencies: Department of State, Department of Agriculture, Agency for International Development, Peace Corps, and the Department of Commerce.

Categories of records in the system:

Information in the system is as follows: Active Records: Name; social security number; salary; category-grade; year of entry into system; service computation date; year of birth; year of resignation or year of death, and refund if any; indication of LWOP status (if any); Retired Records: same as actives; annuity; year of separation; cause of separation (optional, disability, deferred, etc.); years and months of service by type of service; single or married; spouse's year of birth; principal's year of death; number of children on annuity roll; children's years of birth and annuities.

Authority for maintenance of the system:

22 U.S.C. 1101.

Purpose(s):

Public Law 95-595 requires that annual actuarial valuations be conducted for Federal retirement systems. In order to satisfy this requirement, participant data must be collected so that liabilities for the Foreign Service Retirement and Disability System and the Foreign Service Pension System can be actuarially determined.

Routine uses of records maintained in the system, including categories of users and the purposes of such uses:

Data regarding specific individuals is released only to the contributing agency for purposes of verification.

Policies and practices for storing, retrieving, accessing, retaining, and disposing of records in the system:

Storage:

Data is stored electronically.

Retrievability:

Alphabetically.

Safeguards:

Access is restricted to employees of the Office of the Government Actuary. Passwords are required to access the data.

Retention and disposal:

Records are retained on a year-to-year basis. When agencies whose pension funds are valued forward new records for valuation, older records are discarded.

System manager(s) and address:

The Government Actuary, Departmental Offices, 1500 Pennsylvania Ave., NW, Washington, DC 20220.

Notification procedure:

Individuals wishing to be notified if they are named in this system of records, or gain access to records maintained in this system must submit a written request containing the following elements: (1) Identify the record system; (2) identify the category and type of records sought; and (3) provide at least two items of secondary identification (date of birth, employee identification number, dates of employment or similar information). Address inquiries to Assistant Director, Disclosure Services (see “Record access procedures” below).

Record Access procedures:

Assistant Director, Disclosure Services, Department of the Treasury, 1500 Pennsylvania Ave., NW, Washington, DC 20220.

Contesting Record procedures:

See “Record access procedures” above.

Record source categories:

Data for actuarial valuation are provided by organizations responsible for pension funds listed under “category of individual,” namely the Department of State, Department of Agriculture, United States Information Agency, Agency for International Development, Peace Corps, and the Department of Commerce.

Exemptions claimed for the system:

None.

TREASURY/DO .015

System name:

Political Appointee Files—Treasury/DO.

System location:

Department of the Treasury, Departmental Offices, 1500 Pennsylvania Avenue, NW, Washington, DC 20220.

Categories of individuals covered by the system:

Individuals who may possibly be appointed to political positions in the Department of the Treasury, consisting of Presidential appointees requiring Senate confirmation; non-career Senior Executive Service appointees; and Schedule C appointees.

Categories of records in the system:

Files may consist of the following: Referral letters; White House clearance letters; information about an individual's professional licenses (if applicable); IRS results of inquiries; notation of National Agency Check (NAC) results (favorable or otherwise); internal memoranda concerning an individual; Financial Disclosure Statements (Standard Form 278); results of inquiries about the individual; Questionnaire for National Security Positions Standard Form 86; Personal Data Statement and General Counsel Interview sheets; published works including books, newspaper and magazine articles, and treatises by the individual; newspaper and magazine articles written about or referring to the individual; and or articles containing quotes by the individual, and other correspondence relating to the selection and appointment of political appointees.

Authority for maintenance of the system:

5 U.S.C. 3301, 3302 and E.O. 10577.

Purpose(s):

These records are used by authorized personnel within the Department to determine a potential candidate's suitability for appointment to non-career positions within the Department of the Treasury.

Routine uses of records maintained in the system, including categories of users and the purposes of such uses:

These records may be disclosed to:

(1) The Office of Personnel Management, Merit Systems Protection Board, Equal Employment Opportunity Commission, and General Accounting Office for the purpose of properly administering Federal personnel systems or other agencies' systems in accordance with applicable laws, Executive Orders, and regulations;

(2) A Federal, state, local or foreign agency maintaining civil, criminal or other relevant enforcement information or other pertinent information which has requested information relevant to or necessary to the requesting agency's hiring or retention of an individual, or issuance of a security clearance, license, contract, grant, or other benefit;

(3) A court, magistrate, or administrative tribunal in the course of presenting evidence, including disclosures to opposing counsel or witnesses in the course of civil discovery, litigation or settlement negotiations in response to a subpoena where relevant or potentially relevant to a proceeding, or in connection with criminal law proceedings;

(4) A congressional office in response to an inquiry made at the request of the individual to whom the record pertains;

(5) Third parties during the course of an investigation to the extent necessary to obtain information pertinent to the investigation; and

(6) Appropriate Federal, state, local or foreign agencies responsible for investigating or prosecuting the violation of, or for implementing a statute, regulation, order, or license, where the disclosing agency becomes aware of an indication of a violation or potential violation of civil or criminal law or regulation.

Policies and practices for storing, retrieving, accessing, retaining, and disposing of records in the system:

Storage:

Correspondence and forms in file folders. Records are also maintained in electronic media.

Retrievability:

Information accessed by last name of individual and Social Security Number.

Safeguards:

Building employs security guards. Data is kept in locked file cabinets and is accessible to authorized personnel only. Electronic media is password protected.

Retention and disposal:

Records are destroyed at the end of the Presidential administration during which the individual is hired. For non-selectees, records of individuals who are not hired are destroyed one year after the file is closed, but not later than the end of the Presidential administration during which the individual is considered.

System manager(s) and address:

Chief of Staff, Department of the Treasury, Rm 3420, 1500 Pennsylvania Avenue, NW., Washington, DC 20220.

Notification procedure:

Individuals wishing to be informed if they are named in this system or gain access to records maintained in the system must submit a written, signed request containing the following elements: (1) Identify the record system; (2) identify the category and type of records sought; and (3) provide at least two items of secondary identification (date of birth, employee identification number, dates of employment, or similar information). Address inquiries to Assistant Director, Disclosure Services, Department of the Treasury, 1500 Pennsylvania Avenue, NW., Washington, DC 20220.

Record access procedures:

See “Record Notification procedure” above.

Contesting record procedures:

See “Record Notification procedure” above.

Record source categories:

Records are submitted by the individuals and compiled from interviews with those individuals seeking non-career positions. Additional sources may include The White House, Office of Personnel Management, Internal Revenue Service, Department of Justice and international, state, and local jurisdiction law enforcement components for clearance documents, and other correspondence and public record sources.

Exemptions claimed for the system:

None.

TREASURY/DO .060

System name:

Correspondence Files And Records On Employee Complaints and/or Dissatisfaction-Treasury/DO.

System location:

Office of Personnel Policy, Room 4150-Annex, Pennsylvania Avenue at Madison Place, NW., Washington, DC 20220.

Categories of individuals covered by the system:

Former and current Department employees who have submitted complaints to the Office of Personnel or whose correspondence concerning a matter of dissatisfaction has been referred to the Office of Personnel.

Categories of records in the system:

Correspondence dealing with former and current employee complaints.

Authority for maintenance of the system:

5 U.S.C. 301.

Purpose(s):

To maintain a record of correspondence related to employee complaints filed with the Departmental Office of Personnel Policy.

Routine uses of records maintained in the system, including categories of users and the purposes of such uses:

These records may be used to:

(1) Disclose pertinent information to appropriate Federal, state, and local, or foreign agencies responsible for investigating or prosecuting the violations of, or for enforcing or implementing, a statute, rule, regulation, order, or license, where the disclosing agency becomes aware of an indication of a violation or potential civil or criminal law or regulation;

(2) Provide information to a congressional office in response to an inquiry made at the request of the individual to whom the record pertains;

(3) Provide information to unions recognized as exclusive bargaining representatives under the Civil Service Reform Act of 1978, 5 U.S.C. 7111 and 7114;

(4) Provide information to third parties during the course of an investigation to the extent necessary to obtain information pertinent to the investigation.

Policies and practices for storing, retrieving, accessing, retaining, and disposing of records in the system:

Storage:

File folders, file cabinets.

Retrievability:

By bureau and employee name.

Safeguards:

Maintained in filing cabinet and released only to Office of Personnel staff or other Treasury officials on a need-to-know basis.

Retention and disposal:

Records are maintained and disposed of in accordance with Department of the Treasury Directive 25-02, “Records Disposition Management Program” and the General Records Schedule.

System manager(s) and address:

Director, Office of Personnel Policy, Department of the Treasury, Washington, DC 20220.

Notification procedure:

Persons inquiring as to the existence of a record on themselves may contact: Assistant Director, (Human Relations) Department of the Treasury, Room 4150-Annex, Pennsylvania Avenue at Madison Place, NW., Washington, DC 20220. The inquiry must include the individual's name and employing bureau.

Record access procedures:

Persons seeking access to records concerning themselves may contact: The Director, Office of Personnel Policy, Department of the Treasury, Room 4150-Annex, Pennsylvania Avenue at Madison Place, NW., Washington, DC 20220. The inquiry must include the individual's name and employing bureau.

Contesting record procedures:

Individuals wishing to request amendment to their records to correct factual error should contact the Director of Personnel at the address shown in Access, above. They must furnish the following information: (a) Name; (b) employing bureau; (c) the information being contested; (d) the reason why they believe information is untimely, inaccurate, incomplete, irrelevant, or unnecessary.

Record source categories:

Current and former employees, and/or representatives, employees' relatives, Congressmen, the White House, management officials.

Exemptions claimed for the system:

None.

TREASURY/DO .111

System name:

Office of Foreign Assets Control Census Records-Treasury/DO.

System location:

Office of Foreign Assets Control Treasury Annex, Washington, DC 20220.

Categories of individuals covered by the system:

Although most reporters in the Census in this system of records are not individuals, such censuses reflect some small number of U.S. individuals as holders of assets subject to U.S. jurisdiction which are blocked under the various sets of Treasury Department regulations involved.

Categories of records in the system:

Reports of several censuses of U.S.-based, foreign-owned assets which have been blocked at any time since 1940 under Treasury Department regulations found under 31 CFR part 1, subpart B, Chapter V.

Authority for maintenance of the system:

50 U.S.C., App. 5(b); 22 U.S.C. 2370(a); 50 U.S.C. 1701 et seq.; and 31 CFR Ch. V.

Purpose(s):

This system of records is used to identify and administer assets of blocked foreign governments, groups or persons. Censuses are undertaken at various times for specific sanction programs to identify the location, type, and value of property frozen under OFAC administered programs. The information is obtained by requiring reports from all U.S. holders of blocked property subject to the reporting requirements. The reports normally contain information such as the name of the U.S. holder, the foreign account party, location of the property and a description of the type and value of the asset. In some instances, adverse claims by U.S. persons against the blocked property are also reported.

Routine uses of records maintained in the system, including categories of users and the purposes of such uses:

These records may be used to:

(1) Disclose information to appropriate state agencies which are concerned with or responsible for abandoned property;

(2) Disclose information to foreign governments in accordance with formal or informal international agreements;

(3) Provide information to a Congressional office in response to an inquiry made at the request of the individual to whom the record pertains;

(4) Provide information to third parties during the course of an investigation to the extent necessary to obtain information pertinent to the investigation;

(5) Provide certain information to appropriate senior foreign-policy-making officials in the Department of State.

Policies and practices for storing, retrieving, accessing, retaining, and disposing of records in the system:

Storage:

Records stored on magnetic media and/or as hard copy documents.

Retrievability:

By name of holder or custodian or owner of blocked property.

Safeguards:

Locked room, or in locked file cabinets located in areas in which access is limited to Foreign Assets Control employees. Computerized records are password-protected.

Retention and disposal:

Records are periodically updated and maintained as long as needed. When no longer needed, records are retired to Federal Records Center or destroyed in accordance with established procedures.

System Manager and address:

Director, Office of Foreign Assets Control, Room 2233-Annex, Department of the Treasury, NW, Washington, DC 20220.

Notification procedure:

Individuals wishing to be notified if they are named in this system of records, or to gain access to records maintained in the system, must submit a written request containing the following elements: (1) Identify the record system; (2) Identify the category and type of record sought; and (3) Provide at least two items of secondary identification (date of birth, employee identification number, dates of employment or similar information). Address inquiries to Assistant Director, Disclosure Services (See “Record access procedures” below.)

Record access procedures:

Assistant Director, Disclosure Services, Department of the Treasury, Room 1054, 1500 Pennsylvania Ave., NW, Washington, DC 20220.

Contesting Record procedures:

See “Record access procedures” above.

Record source categories:

Custodians or other holders of blocked assets.

Exemptions claimed for the system:

None.

TREASURY/DO .114

System name:

Foreign Assets Control Enforcement Records-Treasury/DO.

System location:

Office of Foreign Assets Control, Treasury Annex, Washington, DC 20220.

Categories of individuals covered by the system:

Individuals who have engaged in or who are suspected of having engaged in transactions and activities prohibited by Treasury Department regulations found at 31 CFR Part 1, subpart B, Chapter V.

Categories of records in the system:

Documents related to suspected or actual violations of relevant statutes and regulations administered by the Office of Foreign Assets Control.

Authority for maintenance of the system:

50 U.S.C., App. 5(b); 50 U.S.C. 1701 et. seq.; 22 U.S.C. 287(c); 22 U.S.C. 2370(a); and 31, CFR, Chapter V; 100 Stat. 1086, as amended by H.J. Res. 756, Pub. L. 99-631.

Purpose(s):

This system of records is used to document investigation and administrative action taken with respect to individuals and organizations suspected of violating statutes and regulations administered and enforced by the Office of Foreign Assets Control. Possible violations may relate to financial, commercial or other transactions with foreign governments, entities or special designated nationals. Suspected criminal violations are investigated primarily by the U.S. Customs Service. Non-criminal cases are pursued administratively for civil penalty consideration. This system is also used to generate statistical information on the number of investigative, criminal and civil cases upon which action has been taken.

Routine uses of records maintained in the system, including categories of users and the purposes of such uses:

These records may be used to:

(1) Disclose information to appropriate Federal agencies responsible for investigating or prosecuting the violations of, or for enforcing or implementing, a statute, rule, regulation, order or license;

(2) Disclose information to a Federal, state, or local agency, maintaining civil, criminal or other relevant enforcement or other pertinent information, which has requested information relevant to or necessary to the requesting agency's official functions;

(3) Disclose information to a court, magistrate, or administrative tribunal in the course of presenting evidence, including disclosure to opposing counsel or witnesses in the course of civil discovery, litigation, or settlement negotiations or in response to a subpoena or in connection with criminal law proceedings;

(4) Disclose information to foreign governments in accordance with formal or informal international agreements;

(5) Provide information to a Congressional office in response to an inquiry made at the request of the individual to whom the record pertains;

(6) Provide information to third parties during the course of an investigation to the extent necessary to obtain information pertinent to the investigation.

Policies and practices for storing, retrieving, accessing, retaining, and disposing of records in the system:

Storage:

File folders and magnetic media.

Retrievability:

By name of individual.

Safeguards:

Folders in locked file cabinets are located in areas of limited accessibility. Computerized records are password-protected.

Retention and disposal:

Records are periodically updated and are maintained as long as necessary. When no longer needed, records are retired to Federal Records Center or destroyed in accordance with established procedures.

System manager(s) and address:

Director, Office of Foreign Assets Control, Room 2233-Annex, U.S. Treasury Department, Washington, DC 20220.

Notification procedure:

This system of records may not be accessed for purposes of determining if the system contains a record pertaining to a particular individual.

Record Access procedures:

This system of records may not be accessed for purposes of inspection or for contest of content of records.

Contesting Record procedures:

See “Record access procedures” above.

Record source categories:

From the individual, from the Office of Foreign Assets Control investigations, and from other federal, state or local agencies.

Exemptions claimed for the system:

This system is exempt from 5 U.S.C. 552a(c)(3), (d), (e)(1), (e)(4), (G), (H), (I), and (f) of the Privacy Act pursuant to 5 U.S.C. 552a(k)(2).

TREASURY/DO .118

System name:

Foreign Assets Control Licensing Records-Treasury/DO.

System location:

Office of Foreign Assets Control, Treasury Annex, Washington, DC 20220.

Categories of individuals covered by the system:

Applicants for permissive and authorizing licenses under Treasury Department regulations found at 31 CFR part 1 subpart B, Chapter V.

Categories of records in the system:

Applications for Treasury licenses-together with related and supporting documentary material and copies of licenses issued.

Authority for maintenance of the system:

50 U.S.C., App. 5(b); 22 U.S.C. 2370(a); 22 U.S.C. 287(c); 50 U.S.C. 1701 et seq. 31 CFR, Chapter V; 100 Stat. 1086, as amended by H.J. Res. 756, Pub. L. 99-631.

Purpose(s):

This system of records contains requests from U.S. and foreign persons or entities for licenses to engage in commercial transactions, travel to foreign countries, to unblock property and bank accounts or to engage in other activities otherwise prohibited under economic sanctions administered by the Office of Foreign Assets Control. This system is also used during enforcement investigations, when applicable, and to generate information used in required reports to the Congress by the President on the number and types of licenses granted or denied under particular sanction programs.

Routine uses of records maintained in the system, including categories of users and the purposes of such uses:

These records may be used to:

(1) Disclose information to appropriate Federal, state, local, or foreign agencies responsible for investigating or prosecuting the violation of, or for enforcing or implementing, a statute, rule, regulation, order, or license;

(2) Disclose information to the Department of State, Commerce, Defense or other federal agencies, in connection with Treasury licensing policy or other matters of mutual interest or concern;

(3) Disclose information to a Federal, State, or local agency, maintaining civil, criminal or other relevant enforcement or other pertinent information, which has requested information relevant to or necessary to the requesting agency's official functions;

(4) Disclose information to a court, magistrate, or administrative tribunal in the course of presenting evidence, including disclosure to opposing counsel or witnesses, in the course of civil discovery, litigation, or settlement negotiations in response to a subpoena or in connection with criminal law proceedings;

(5) Disclose information to foreign governments in accordance with formal or informal international agreements;

(6) Provide information to a Congressional office in response to an inquiry made at the request of the individual to whom the record pertains.

Policies and practices for storing, retrieving, accessing, retaining, and disposing of records in the system:

Storage:

File folders and magnetic media.

Retrievability:

The records are retrieved by license or letter number.

Safeguards:

Folders in locked filed cabinets are located in areas of limited accessibility. Computerized records are password-protected.

Retention and disposal:

Records are periodically updated to reflect changes and maintained as long as needed. When no longer needed, records are retired to Federal Records Center or destroyed in accordance with established procedures.

System manager(s) and addresses:

Director, Office of Foreign Assets Control, Room 2233-Annex, Department of the Treasury, Washington, DC 20220.

Notification procedure:

Individuals wishing to be notified if they are named in this system of records, or to gain access to records maintained in the system of records, must submit a written request containing the following elements: (1) Identify the record system; (2) identify the category and type of records sought; and (3) provide at least two items of secondary identification (date of birth, employee identification number, dates of employment or similar information). Address inquiries to Assistant Director, Disclosure Services (See “Record access procedures” below).

Record access procedures:

Assistant Director, Disclosure Services, Department of the Treasury, Room 1054, 1500 Pennsylvania Ave., NW, Washington, DC 20220.

Contesting record procedures:

See “Record access procedures” above.

Record source categories:

Applicants for Treasury Department licenses under regulations administered by the Office of Foreign Assets Control.

Exemptions claimed for the system:

None.

TREASURY/DO .144

System name:

General Counsel Litigation Referral and Reporting System-Treasury/DO.

System location:

U.S. Department of the Treasury, Office of the General Counsel, 1500 Pennsylvania Avenue NW, Washington, DC 20220.

Categories of individuals covered by the system:

Persons who are parties, plaintiff or defendant, in civil litigation or administrative proceedings involving or concerning the Department of the Treasury or its officers or employees. The system does not include information on every civil litigation or administrative proceeding involving the Department of the Treasury or its officers and employees.

Categories of records in the system:

This system of records consists of a computer data base containing information related to litigation or administrative proceedings involving or concerning the Department of the Treasury or its officers or employees.

Authority for maintenance of the system:

5 U.S.C. 301; 31 U.S.C. 301.

Purpose(s):

The purposes of this system are: (1) To record service of process and the receipt of other documents relating to litigation or administrative proceedings involving or concerning the Department of the Treasury or its officers or employees, and (2) to respond to inquiries from Treasury personnel, personnel from the Justice Department and other agencies, and other persons concerning whether service of process or other documents have been received by the Department in a particular litigation or proceeding.

Routine uses of records maintained in the system, including categories of users and the purposes of such uses:

These records may be used to:

(1) Disclose pertinent information to appropriate Federal, State, or foreign agencies responsible for investigating or prosecuting the violations of, or for implementing, a statute, rule, regulation, order, or license, where the disclosing agency becomes aware of an indication of a violation or potential violation of civil or criminal law or regulation;

(2) Disclose information to a Federal, State, or local agency, maintaining civil, criminal or other relevant enforcement information or other pertinent information, which has requested information relevant to or necessary to the requesting agency's or the bureau's hiring or retention of an individual, or issuance of a security clearance, license, contract, grant, or other benefit;

(3) Disclose information to a court, magistrate, or administrative tribunal in the course of presenting evidence, including disclosures to opposing counsel or witnesses in the course of civil discovery, litigation, or settlement negotiations in response to a subpoena or in connection with criminal law proceedings;

(4) Disclose information to foreign governments in accordance with formal or informal international agreements;

(5) Provide information to a congressional office in response to an inquiry made at the request of the individual to whom the record pertains;

(6) Provide information to the news media in accordance with guidelines contained in 28 CFR 50.2 which relate to an agency's functions relating to civil and criminal proceedings;

(7) Provide information to third parties during the course of an investigation to the extent necessary to obtain information pertinent to the investigation.

Policies and practices for storing, retrieving, accessing, retaining, and disposing of records in the system:

Storage:

The computerized records are maintained in computer data banks. Printouts of the data may be made.

Retrievability:

The computer information is accessible by the name of the non-government party involved in the case, and case number and docket number (when available).

Safeguards:

Access is limited to employees who have a need for such records in the course of their work. Background checks are made on employees. All facilities where records are stored have access limited to authorized personnel.

Retention and disposal:

The computer information is maintained for up to ten years or more after a record is created.

System manager(s) and address:

Counselor to the General Counsel, Office of the General Counsel, Department of the Treasury, 1500 Pennsylvania Ave., NW., Washington, DC 20220.

Notification procedure:

Individuals wishing to be notified if they are named in this system of records, or gain access to records maintained in this system must submit a written request containing the following elements: (1) An identification of the record system; and (2) an identification of the category and type of records sought. This system contains records that are exempt under 31 CFR l.36; 5 U.S.C. 552a(j)(2); and (k)(2). Address inquiries to Assistant Director, Disclosure Services, Department of the Treasury, 1500 Pennsylvania Ave., NW, Washington, DC 20220.

Record access procedures:

Assistant Director, Disclosure Services, Department of the Treasury, Room 1054, 1500 Pennsylvania Ave., NW, Washington, DC 20220.

Contesting record procedures:

See “Record access procedures” above.

Record source categories:

Treasury Department Legal Division, Department of Justice Legal Division.

Exemptions claimed for the system:

This system is exempt from 5 U.S.C. 552a(d), (e)(1), (e)(3), (e)(4)(G),(H), (I), and (f) of the Privacy Act pursuant to 5 U.S.C. 552a(k)(2).

TREASURY/DO .149

System name:

Foreign Assets Control Legal Files-Treasury/DO

System location:

U.S. Department of the Treasury, Room 3133-Annex, Washington, DC 20220.

Categories of individuals covered by the system:

Persons who are or who have been parties in litigation or other matters involving the Office of Foreign Assets Control or involving statutes and regulations administered by the agency found at 31 CFR part 1 subpart B, chapter V.

Categories of records in the system:

Information and documents relating to litigation and other matters involving the Office of Foreign Assets Control or statutes and regulations administered by the agency.

Authority for maintenance of the system:

31 U.S.C. 301; 50 U.S.C. App. 5(b); 50 U.S.C. 1701 et seq; 22 U.S.C. 278(c); and other statutes relied upon by the President to impose economic sanctions.

Purpose(s):

These records are maintained to assist in providing legal advice to the Office of Foreign Assets Control and the agency regarding issues of compliance, enforcement, investigation, and implementation of matters related to the Office of Foreign Assets Control and the statutes and regulations administered by the agency. These records are also maintained to assist in litigation related to the Office of Foreign Assets Control and the statutes and regulations administered by the agency.

Routine uses of records maintained in the system, including categories of users and the purposes of such uses:

These records may be used to:

(1) Prosecute, defend, or intervene in litigation related to the Office of Foreign Assets Control and statutes and regulations administered by the agency, (2) Disclose pertinent information to appropriate Federal, State, local, or foreign agencies responsible for investigating or prosecuting the violations of, or for enforcing or implementing, a statute, rule, regulation, order or license;

(3) Disclose information to a Federal, State, or local agency, maintaining civil, criminal, or other relevant enforcement information or other pertinent information, which has requested information relevant to or necessary to the requesting agency's official functions;

(4) Disclose information to a court, magistrate, or administrative tribunal in the course of presenting evidence, including disclosures to opposing counsel or witnesses in the course of civil discovery, litigation, or settlement negotiations or in connection with criminal law proceedings;

(5) Provide information to a congressional office in response to an inquiry made at the request of the individual to whom the record pertains.

Policies and practices for storing, retrieving, accessing, retaining, and disposing of records in the system:

Storage:

Folders in file cabinets and magnetic media.

Retrievability:

By name of private plaintiff or defendant.

Safeguards:

Folders are in lockable file cabinets located in areas of limited public accessibility. Where records are maintained on computer hard drives, access to the files is password-protected.

Retention and disposal:

Records are periodically updated and maintained as long as needed.

System manager(s) and address:

Chief Counsel, Foreign Assets Control, U.S. Treasury Department, 1500 Pennsylvania Ave., Washington, DC 20220.

Notification procedure:

Individuals wishing to be notified if they are named in this system of records, or gain access to records maintained in this system must submit a written request containing the following elements: (1) Identify the record system; (2) identify the category and type of records sought; and (3) provide at least two items of secondary identification (date of birth, employee identification number, dates of employment or similar information).

Record access procedures:

Address inquiries to Assistant Director, Disclosure Services, Department of the Treasury, Room 1054, 1500 Pennsylvania Ave., NW, Washington, DC 20220.

Contesting record procedures:

See “Record access procedures” above.

Record source categories:

Pleadings and other materials filed during course of a legal proceeding, discovery obtained pursuant to applicable court rules; materials obtained by Office of Foreign Assets Control investigation; material obtained pursuant to requests made to other Federal agencies; orders, opinions, and decisions of courts.

Exemptions claimed for the system:

None.

TREASURY/DO .183

System name:

Private Relief Tax Bill Files—Office of the Assistant Secretary for Tax Policy—Treasury/DO.

System location:

Room 4040-MT, 1500 Pennsylvania Ave., NW, Washington, DC 20220.

Categories of individuals covered by the system:

Individuals who have had private relief tax bills introduced in Congress on their behalf.

Categories of records in the system:

Congressional Committee or OMB request for Treasury views on proposed legislation, plus comments on proposal from offices or bureaus of Treasury, plus the Internal Revenue Service data concerning the issues involved and that unit's recommendation, and the report of the Treasury on the Bill.

Authority for maintenance of the system:

5 U.S.C. 301.

Purpose(s):

The files of private relief tax bills contain records of policy positions and issues involved in Congressional private relief tax bills.

Routine uses of records maintained in the system, including categories of users and the purposes of such uses:

Information from this system may be disclosed to OMB and Congress.

Policies and practices for storing, retrieving, accessing, retaining, and disposing of records in the system:

Storage:

File Folders.

Retrievability:

By bill numbers or name of person for whom relief is sought.

Safeguards:

Access limited to Tax Policy personnel.

Retention and disposal:

Records are periodically updated to reflect changes and maintained as long as needed until shipped to National Archives and Records Administration.

System manager(s) and address:

Management Services, Office of Tax Policy, Room 1041-MT, 1500 Pennsylvania Ave., NW, Washington, DC 20220.

Notification procedure:

Individuals wishing to be notified if they are named in this system of records, or gain access to records maintained in this system must submit a written request containing the following elements: (1) Identify the record system; (2) identify the category and type of records sought; and (3) provide at least two items of secondary identification (date of birth, employee identification number, dates of employment or similar information). Address inquiries to Assistant Director, Disclosure Services (See “Record access procedures” below).

Record access procedures:

Assistant Director, Disclosure Services, Department of the Treasury, 1500 Pennsylvania Ave., NW, Washington, DC 20220.

Contesting record procedures:

See “Record access procedures” above.

Record source categories:

Principally the Congress and the Internal Revenue Service.

Exemptions claimed for the system:

None.

TREASURY/DO .190

System name:

Investigation Data Management System—Treasury/DO.

System location:

Office of Inspector General (OIG), Assistant Inspector General for Investigations, 740 15th St., NW, Suite 500, Washington, DC 20220; Field Offices in Alexandria, VA; Marlton, NJ; Houston, TX; Los Angeles, CA; San Francisco, CA; Miramar, FL, and Chicago, IL. Addresses may be obtained from the system manager.

Categories of individuals covered by the system:

(A) Current and former employees of the Department of the Treasury and persons whose association with current and former employees relate to the alleged violations of the rules of ethical conduct for employees of the Executive Branch, the Department's supplemental standards of ethical conduct, the Department's rules of conduct, merit system principles, or any other criminal or civil misconduct, which affects the integrity or facilities of the Department of Treasury. The names of individuals and the files in their names may be: (1) Received by referral; or (2) initiated at the discretion of the Office of the Inspector General in the conduct of assigned duties.

(B) Individuals who are: Witnesses; complainants; confidential or non-confidential informants; suspects; defendants; parties who have been identified by the Office of the Inspector General, constituent units of the Department of Treasury, other agencies, or members of the general public in connection with the authorized functions of the Inspector General.

(C) Current and former senior Treasury and bureau officials who are the subject of investigations initiated and conducted by the Office of the Inspector General.

Categories of records in the system:

(A) Letters, memoranda, and other documents citing complaints of alleged criminal or administrative misconduct.

(B) Investigative files which include: (1) Reports of investigations to resolve allegations of misconduct or violations of law with related exhibits, statements, affidavits, records or other pertinent documents obtained during investigations; (2) transcripts and documentation concerning requests and approval for consensual (telephone and consensual non-telephone) monitoring; (3) reports from or to other law enforcement bodies; (4) prior criminal or noncriminal records of individuals as they relate to the investigations; and (5) reports of actions taken by management personnel regarding misconduct and reports of legal actions resulting from violations of statutes referred to the Department of Justice for prosecution.

Authority for maintenance of the system:

The Inspector General Act of 1978, as Amended, 5 U.S.C.A. App.3; 5 U.S.C. 301; 31 U.S.C. 321.

Purpose(s):

The records and information collected and maintained in this system are used to (a) receive allegations of violations of the standards of ethical conduct for employees of the Executive Branch (5 CFR part 2635), the Treasury Department's supplemental standards of ethical conduct (5 CFR part 3101), the Treasury Department's rules of conduct (31 CFR part 0), the Office of Personnel Management merit system principles, or any other criminal or civil law; and to (b) prove or disprove allegations which the OIG receives that are made against Department of the Treasury employees, contractors and other individuals associated with the Department of the Treasury.

Routine uses of records maintained in the system, including categories of users and the purposes of such uses:

These records may be used to:

(1) Disclose information to the Department of Justice in connection with actual or potential criminal prosecution or civil litigation;

(2) Disclose pertinent information to appropriate Federal, State, local, or foreign agencies responsible for investigating or prosecuting the violations of, or for enforcing or implementing a statute, rule, regulation, order, or license, or where the disclosing agency becomes aware of an indication of a violation or potential violation of civil or criminal law or regulation;

(3) Disclose information to a Federal, State, or local agency, maintaining civil, criminal or other relevant enforcement information or other pertinent information, which has requested information relevant to or necessary to the requesting agency's or the bureau's hiring or retention of an employee, or the issuance of a security clearance, license, contract, grant, or other benefit;

(4) Disclose information to a court, magistrate, or administrative tribunal in the course of presenting evidence, including disclosures to opposing counsel or witnesses in the course of civil discovery, litigation, or settlement negotiations in response to a subpoena or in connection with criminal law proceedings;

(5) Provide information to a congressional office in response to an inquiry made at the request of the individual to whom the record pertains;

(6) Provide information to the news media in accordance with guidelines contained in 28 CFR 50.2 which relate to an agency's functions relating to civil and criminal proceedings;

(7) Provide information to third parties during the course of an investigation to the extent necessary to obtain information pertinent to the investigation.

Policies and practices for storing, retrieving, accessing, retaining, and disposing of records in the system:

Storage:

Paper records in file jackets are maintained in a secured locked room. Electronic records are password protected; backup media are maintained in a locked room.

Retrievability:

Paper: Alphabetically by name of subject or complainant, by case number, and by special agent name and/or employee identifying number. Electronic: by complainant, subject, victim, or witness case number, and by special agent name.

Safeguards:

Paper records and word processing disks are maintained in locked safes and all access doors are locked when offices are vacant. Automated records are controlled by computer security programs which limit access to authorized personnel who have a need for such information in the course of their duties. The records are available to Office of Inspector General personnel who have an appropriate security clearance on a need-to-know basis.

Retention and disposal:

Investigative files are stored on-site for 3 years at which time they retired to the Federal Records Center, Suitland, Maryland, for temporary storage. In most instances, the files are destroyed when 10 years old. However, if the files have significant or historical value, they are retained on-site for 3 years, then retired to the Federal Records Center for 22 years, at which time they are transferred to the National Archives and Records Administration for permanent retention. In addition, an automated investigative case tracking system is maintained on-site; the case information deleted 15 years after the case is closed, or when no longer needed, whichever is later.

System manager(s) and address:

Assistant Inspector General for Investigations, 740 15th St., NW, Suite 500, Washington, DC 20220.

Notification procedure:

Pursuant to 5 U.S.C. 552a(j)(2) and (k)(2), this system of records may not be accessed for purposes of determining if the system contains a record pertaining to a particular individual, or for contesting the contents of a record.

Record Access procedures:

See “Notification procedure” above.

Contesting Record procedures:

See “Notification procedure” above.

Record source categories:

See “Categories of individuals” above. This system contains investigatory material for which sources need not be reported.

Exemptions claimed for the system:

This system is exempt from 5 U.S.C. 552a(c)(3), (c)(4), (d)(1), (d)(2), (d)(3), (d)(4), (e)(1), (e)(2), (e)(3), (e)(4)(G), (e)(4)(H), (e)(4)(I), (e)(5), (e)(8), (f), and (g) of the Privacy Act pursuant to 5 U.S.C. 552a(j)(2) and (k)(2). See 31 CFR 1.36.

TREASURY/DO .191

System name:

Human Resources and Administrative Records System.

System location:

Office of Inspector General (OIG), all headquarters, regional and field offices. (See appendix A.)

Categories of individuals covered by the system:

Current and former employees of the Office of Inspector General.

Categories of records in the system:

(1) Personnel system records contain OIG employee name, office, start of employment, series/grade, title, separation date; (2) Tracking records contain status information on audits, investigations and other projects from point of request or annual planning through follow-up and closure; (3) Timekeeping records contain assigned projects and distribution of time; (4) Equipment inventory records contain assigned equipment; (5) Travel records contain dates, type of travel and costs; (6) Training records contain dates, title of training, and costs.

Authority for maintenance of the system:

Inspector General Act of 1978, as amended; (5 U.S.C. Appendix 3) 5 U.S.C. 301; and 31 U.S.C. 321.

Purpose(s):

The purpose of the system is to: (1) Manage effectively OIG resources and projects; (2) capture accurate statistical data for mandated reports to the Secretary of the Treasury, the Congress, the Office of Management and Budget, the General Accounting Office, the President's Council on Integrity and Efficiency and other Federal agencies; and (3) provide accurate information critical to the OIG's daily operation, including employee performance and conduct.

Routine uses of records maintained in the system, including categories of users and the purposes of such uses:

(1) A record from the system of records, which indicates, either by itself or in combination with other information, a violation or potential violation of law, whether civil or criminal, and whether arising by statute, regulation, rule or order issued pursuant thereto, may be disclosed to a Federal, State, local, or foreign agency or other public authority that investigates or prosecutes or assists in investigation or prosecution of such violation, or enforces or implements or assists in enforcement or implementation of the statute, rule, regulation or order.

(2) A record from the system of records may be disclosed to a Federal, State, local, or foreign agency or other public authority, or to private sector (i.e., non-Federal, State, or local government) agencies, organizations, boards, bureaus, or commissions, which maintain civil, criminal, or other relevant enforcement records or other pertinent records, such as current licenses in order to obtain information relevant to an agency investigation, audit, or other inquiry, or relevant to a decision concerning the hiring or retention of an employee or other personnel action, the issuance of a security clearance, the letting of a contract, the issuance of a license, grant or other benefit, the establishment of a claim, or the initiation of administrative, civil, or criminal action. Disclosure to the private sector may be made only when the records are properly constituted in accordance with agency requirements; are accurate, relevant, timely and complete; and the disclosure is in the best interest of the Government.

(3) A record from the system of records may be disclosed to a Federal, State, local, or foreign agency or other public authority, or private sector (i.e., non-Federal, State, or local government) agencies, organizations, boards, bureaus, or commissions, if relevant to the recipient's hiring or retention of an employee or other personnel action, the issuance of a security clearance, the letting of a contract, the issuance of a license, grant or other benefit, the establishment of a claim, or the initiation of administrative, civil, or criminal action. Disclosure to the private sector may be made only when the records are properly constituted in accordance with agency requirements; are accurate, relevant, timely and complete; and the disclosure is in the best interest of the Government.

(4) A record from the system of records may be disclosed to any source, private or public, to the extent necessary to secure from such source information relevant to a legitimate agency investigation, audit, or other inquiry.

(5) A record from the system of records may be disclosed to the Department of Justice when the agency or any component thereof, or any employee of the agency in his or her official capacity, or any employee of the agency in his or her individual capacity where the Department of Justice has agreed to represent the employee, or the United States, where the agency determines that litigation is likely to affect the agency or any of its components, is a party to litigation or has an interest in such litigation, and the use of such records by the Department of Justice is deemed by the agency to be relevant and necessary to the litigation and the use of such records by the Department of Justice is therefore deemed by the agency to be for a purpose that is compatible with the purpose for which the agency collected the records.

(6) A record from the system of records may be disclosed in a proceeding before a court or adjudicative body, when the agency, or any component thereof, or any employee of the agency in his or her official capacity, or any employee of the agency in his or her individual capacity where the agency has agreed to represent the employee, or the United States, where the agency determines that litigation is likely to affect the agency or any of its components, is a party to litigation or has an interest in such litigation, and the agency determines that use of such records is relevant and necessary to the litigation and the use of such records is therefore deemed by the agency to be for a purpose that is compatible with the purpose for which the agency collected the records.

(7) A record from the system of records may be disclosed to a Member of Congress from the record of an individual in response to an inquiry from the Member of Congress made at the request of that individual.

(8) A record from the system of records may be disclosed to the Department of Justice and the Office of Government Ethics for the purpose of obtaining advice regarding a violation or possible violation of statute, regulation, rule or order or professional ethical standards.

(9) A record from the system of records may be disclosed to the Office of Management and Budget for the purpose of obtaining its advice regarding agency obligations under the Privacy Act, or in connection with the review of private relief legislation.

(10) A record from the system of records may be disclosed in response to a subpoena issued by a Federal agency having the power to subpoena records of other Federal agencies if, after careful review, the OIG determines that the records are both relevant and necessary to the requesting agency's needs and the purpose for which the records will be used is compatible with the purpose for which the records were collected.

(11) A record from the system of records may be disclosed to a private contractor for the purpose of compiling, organizing, analyzing, programming, or otherwise refining records subject to the same limitations applicable to U.S. Department of Treasury officers and employees under the Privacy Act.

(12) A record from the system of records may be disclosed to a grand jury agent pursuant either to a Federal or State grand jury subpoena, or to a prosecution request that such record be released for the purpose of its introduction to a grand jury provided that the Grand Jury channels its request through the cognizant U.S. Attorney, that the U.S. Attorney has been delegated the authority to make such requests by the Attorney General, that she or he actually signs the letter specifying both the information sought and the law enforcement purpose served. In the case of a State Grand Jury subpoena, the State equivalent of the U.S. Attorney and Attorney General shall be substituted.

(13) A record from the system of records may be disclosed to a Federal agency responsible for considering suspension or debarment action where such record would be relevant to such action.

(14) A record from the system of records may be disclosed to an entity or person, public or private, where disclosure of the record is needed to enable the recipient of the record to take action to recover money or property of the United States Department of the Treasury, where such recovery will accrue to the benefit of the United States, or where disclosure of the record is needed to enable the recipient of the record to take appropriate disciplinary action to maintain the integrity of the programs or operations of the Department of the Treasury.

(15) A record from the system of records may be disclosed to a Federal, state, local or foreign agency, or other public authority, for use in computer matching programs to prevent and detect fraud and abuse in benefit programs administered by an agency, to support civil and criminal law enforcement activities of any agency and its components, and to collect debts and over payments owed to any agency and its components.

(16) A record from the system of records may be disclosed to a public or professional licensing organization when such record indicates, either by itself or in combination with other information, a violation or potential violation of professional standards, or reflects on the moral, educational, or professional qualifications of an individual who is licensed or who is seeking to become licensed.

(17) A record from the system of records may be disclosed to the Office of Management and Budget, the General Accounting Office, the President's Council on Integrity and Efficiency and other Federal agencies for mandated reports.

Disclosure to consumer reporting agencies:

Debtor information may also be furnished, in accordance with 5 U.S.C. 552a(b)(12) and 31 U.S.C. 3711(e) to consumer reporting agencies to encourage repayment of an overdue debt.

Policies and practices for storing, retrieving, accessing, retaining, and disposing of records in the system:

Storage:

Paper records and electronic media.

Retrievability:

Most files are accessed by OIG employee name, employee identifying number, office, or cost center. Some records may be accessed by entering equipment or project information.

Safeguards:

Access is limited to OIG employees who have a need for such information in the course of their work. A central network server is password protected by account name and user password. Access to records on electronic media is controlled by computer passwords. Access to specific system records is further limited and controlled by computer security programs limiting access to authorized personnel.

Retention and disposal:

Records are periodically updated to reflect changes and are retained as long as necessary.

System manager(s) and address:

Assistant Inspector General for Management Services, 740 15th St. NW, Suite 510, Washington, DC 20220.

Notification procedure:

Individuals wishing to be notified if they are named in this system of records, or to gain access to records maintained in this system may inquire in accordance with instructions appearing in 31 CFR part 1, subpart C, appendix A. Individuals must submit a written request containing the following elements: (1) Identify the record system; (2) identify the category and type of records sought; and (3) provide at least two items of secondary identification (date of birth, employee identifying number, dates of employment or similar information). Address inquiries to Assistant Director, Disclosure Services (see “Record access procedures” below).

Record access procedures:

Assistant Director, Disclosure Services, Department of the Treasury, 1500 Pennsylvania Avenue, NW, Washington, DC 20220.

Contesting records Procedures:

See “Record access procedures” above.

Record source categories:

Current and former employees of the OIG.

Exemptions claimed for the system:

None.

Appendix A—Addresses of OIG Offices

HEADQUARTERS:

Department of the Treasury, Office of Inspector General, Office of the Assistant Inspector General for Management Services, 740 15th Street, NW, Suite 510, Washington, DC 20220.

FIELD LOCATIONS:

Contact System Manager for addresses.

Department of the Treasury, Office of Inspector General, Offices of Audit and Investigations, El Segundo, CA 90245-4341.

Department of the Treasury, Office of Inspector General, Offices of Audit and Investigations, San Francisco, CA 94105.

Department of the Treasury, Office of Inspector General, Offices of Audit and Investigations, Miramar, FL 33027.

Department of the Treasury, Offices of Audit and Investigations, Chicago, IL 60603.

Department of the Treasury, Office of Inspector General, Office of Audit, Indianapolis, IN 46278.

Department of the Treasury, Office of Inspector General, Office of Audit, Boston, MA 02110-3350.

Department of the Treasury, Office of Inspector General, Offices of Audit and Investigations, Marlton, NJ 08053.

Department of the Treasury, Office of Inspector General, Offices of Audit and Investigations, Houston, TX 77057.

Department of the Treasury, Office of Inspector General, Office of Investigations, Alexandria, VA 22314.

TREASURY/DO .193

System name:

Employee Locator and Automated Directory System-Treasury/DO.

System location:

Main Treasury Building, 1500 Pennsylvania Ave., NW, Washington, DC 20220.

Categories of individuals covered by the system:

Information on all employees of the Department is maintained in the system if the proper locator card is provided.

Categories of records in the system:

Name, office telephone number, bureau, office symbol, building, room number, home address and phone number, and person to be notified in case of emergency.

Authority for maintenance of the system:

5 U.S.C. 301.

Purpose(s):

The Employee Locator and Automated Directory System is maintained for the purpose of providing current locator and emergency information on all DO employees.

Routine uses of records maintained in the system, including categories of users and the purposes of such uses:

Disclosures are not made outside of the Department.

Policies and practices for storing, retrieving, accessing, retaining, and disposing of records in the system:

Storage:

Hard copy and magnetic media.

Retrievability:

Indexed by name.

Safeguards:

All records, including computer system and all terminals are located within secure space. Only authorized personnel have access.

Retention and disposal:

Records are kept as long as needed, updated periodically and destroyed by burning.

System manager(s) and address:

Manager, Telephone Operator Services Branch, 1500 Pennsylvania Ave., NW, Washington, DC 20220.

Notification procedure:

See “System manager” above.

Record Access procedures:

See “System manager” above.

Contesting Record procedures:

See “System manager” above.

Record source categories:

Information is provided by individual employees. Necessary changes made if requested.

Exemptions claimed for the system:

None.

TREASURY/DO .194

System name:

Circulation System—Treasury.

System location:

Department of the Treasury, Library and Information Services Division, Room 1428-MT, 1500 Pennsylvania Avenue, NW, Washington, DC 20220.

Categories of individuals covered by the system:

Employees who borrow library materials or receive library materials on distribution. The system also contains records concerning interlibrary loans to local libraries which are not subject to the Privacy Act.

Categories of records in the system:

Records of items borrowed from the Treasury Library collection and patron records are maintained on central computer. Records are maintained by name of borrower, office locator information, and title of publication.

Authority for maintenance of the system:

5 U.S.C. 301.

Purpose(s):

Track circulation of library materials and their borrowers.

Routine uses of records maintained in the system, including categories of users and the purposes of such uses:

These records may be used to disclose information to a congressional office in response to an inquiry made at the request of the individual to whom the record pertains.

Policies and practices for storing, retrieving, accessing, retaining, and disposing of records in the system:

Storage:

Electronic media.

Retrievability:

Data can be retrieved from the system by borrower name or bar code number and publication title or its associated bar code number.

Safeguards:

Access to the system requires knowledge of password identification codes and protocols for calling up the data files. Access to the records is limited to staff of the Readers Services Branch who have a need-to-know the information for the performance of their duties.

Retention and disposal:

Only current data are maintained on-line. Records for borrowers are deleted when employee leaves Treasury.

System manager(s) and address:

Assistant Director, Library and Information Services, Department of the Treasury, Room 1428-MT, 1500 Pennsylvania Ave., NW., Washington, DC 20220.

Notification procedure:

Inquiries should be addressed to Assistant Director, Disclosure Services, Department of the Treasury, 1500 Pennsylvania Ave., NW., Washington DC 20220.

Record Access procedures:

See “Notification procedure” above.

Contesting Record procedures:

See “Notification procedure” above.

Record source categories:

Patron information records are completed by borrowers and library staff.

Exemptions claimed for the system:

None.

TREASURY/DO .196

System name:

Security Information System-Treasury/DO.

System location:

Components of this system are located in the following offices within the Departmental Offices: Office of Security, Room 3180 Treasury Annex, 1500 Pennsylvania Avenue, NW., Washington, DC 20220, and Room 3170 Treasury Annex, 1500 Pennsylvania Avenue, NW, Washington, DC 20220.

Categories of individuals covered by the system:

(1) Department of the Treasury officials who classify documents with a national security classification, i.e., Top Secret, Secret, or Confidential.

(2) Each Department of the Treasury official, by name and position title, who has been delegated the authority to downgrade and declassify national security information and who is not otherwise authorized to classify a document at its present classification level.

(3) Each Department of the Treasury official, by name and position title, who has been delegated the authority for original classification of national security information, exclusive of officials specifically authorized original classification authority by Treasury Order 102-10.

(4) Each Department of the Treasury office by name and position title delegated the authority to derivatively classify national security information in accordance with an approved classification guide or on the basis of source documents.

(5) Each Department of the Treasury official who does not have original classification authority for national security information and who is not authorized to downgrade and declassify national security information, but who may control and/or decontrol limited official use information.

(6) An alphabetical listing of Department of the Treasury employees who have valid security violations as a result of the improper handling, safeguarding, or storage of classified national security and sensitive but unclassified information.

(7) Department of the Treasury personnel concerned with classified national security and sensitive but unclassified use information who have participated in a security orientation program regarding the salient features of the security requirements and procedures for the handling and safeguarding of such information.

Categories of records in the system:

The following records are maintained by the Director of Security: (1) Report of Authorized Downgrading and Declassification Officials, (2) Report of Authorized Classifiers, (3) Report of Authorized Derivative Classifiers, (4) Designation of Controlling/Decontrolling Officials, (5) Record of Security Violation, and (6) the Security Orientation Acknowledgment.

Authority for maintenance of the system:

Executive Order No. 12958, dated April 17, 1995, as amended, and Office of Security Manual, TDP 71-10.

Purpose(s):

The system is designed to (1) oversee compliance with Executive Order No. 12958 and Departmental programming and implementation, (2) ensure proper classification of national security information, (3) record details of valid security violations and (4) assist in determining the effectiveness of information security programs affecting classified and sensitive but unclassified information.

Routine uses of records maintained in the system, including categories of users and the purpose of such uses:

These records may be used to disclose information to appropriate Federal agencies and for enforcing or implementing a statute, rule, regulation or order.

Policies and practices for storing, retrieving, accessing, retaining, and disposing of records in the system:

Storage:

Hard Copy paper files.

Retrievability:

Manually filed and indexed by office or bureau, date, name of official and position title, where appropriate.

Safeguards:

Secured in security equipment to which access is limited to personnel with the need to know.

Retention and disposal:

With the exception of the Record of Security Violation, which is maintained for a period of two years, and the Security Orientation Acknowledgment, the remaining records are destroyed and/or updated on an annual basis. Destruction is effected by shredding or other comparable means.

System manager(s) and address:

Director of Security, 3180 Treasury Annex, 1500 Pennsylvania Avenue NW., Washington, DC 20220.

Notification procedure:

Individuals wishing to be notified if they are named in this system of records, or to gain access to records maintained in this system, must submit a written request containing the following elements: (1) Identify the record system; (2) Identify the category and types of records sought; and (3) provide at least two items of secondary identification (date of birth, employee identification number, dates of employment or similar information) to the Assistant Director, Disclosure Services. (See “Record access procedures” below).

Record access procedures:

Assistant Director, Disclosure Services, Department of the Treasury, 1500 Pennsylvania Ave., NW, Washington, DC 20220.

Contesting record procedures:

See “Record access procedures” above.

Record source categories:

The sources of the information are office and bureau employees of the Department of the Treasury. The information concerning any security violation is reported by Department of the Treasury security officials and Department of State security officials as concerns Treasury personnel attached to U.S. diplomatic posts or missions.

Exemptions claimed for the system:

None.

TREASURY/DO .200

System name:

FinCEN Data Base-Treasury/DO.

System location:

The Financial Crimes Enforcement Network, Vienna, VA 22182.

Categories of individuals covered by the system:

(1) Individuals who relate in any manner to official FinCEN efforts in support of the enforcement of the Bank Secrecy Act and money-laundering and other financial crimes. Such individuals may include, but are not limited to, subjects of investigations and prosecutions; suspects in investigations; victims of such crimes; witnesses in such investigations and prosecutions; and close relatives and associates of any of these individuals who may be relevant to an investigation; (2) current and former FinCEN personnel whom FinCEN considers relevant to an investigation or inquiry; (3) individuals who are the subject of unsolicited information possibly relevant to violations of law or regulations, who offer unsolicited information relating to such violations, who request assistance from FinCEN, and who make inquiries of FinCEN.

Categories of records in the system:

Every possible type of information that contributes to effective law enforcement may be maintained in this system of records, including, but not limited to, subject files on individuals, corporations, and other legal entities; information provided pursuant to the Bank Secrecy Act; information gathered pursuant to search warrants; statements of witnesses; information relating to past queries of the FinCEN Data Base; criminal referral information; complaint information; identifying information regarding witnesses, relatives, and associates; investigative reports; and intelligence reports.

Authority for maintenance of the system:

5 U.S.C. 301, 31 U.S.C. 5311 et seq.; 31 CFR part 103; Treasury Department Order No. 105-08 (April 25, 1990).

Purpose(s):

The purpose of this system of records is to support FinCEN's efforts to provide a government-wide, multi-source intelligence and analytical network to support the detection, investigation, and prosecution of domestic and international money laundering and other financial crimes, and other domestic and international criminal, tax, and regulatory matters.

Routine uses of records maintained in the system including categories of users and the purposes of such uses:

Records in this system may be used to:

(1) Provide responses to queries from Federal, State, territorial, and local law enforcement and regulatory agencies, both foreign and domestic, regarding Bank Secrecy Act and other financial crime enforcement;

(2) Furnish information to other Federal, State, local, territorial, and foreign law enforcement and regulatory agencies responsible for investigating or prosecuting the violations of, or for enforcing or implementing a statute, rule, regulation, order, or license, where FinCEN becomes aware of an indication of a violation or potential violation of civil or criminal law or regulation;

(3) Furnish information to the Department of Defense, to support its role in the detection and monitoring of aerial and maritime transit of illegal drugs into the United States and any other role in support of law enforcement that the law may mandate;

(4) Respond to queries from INTERPOL in accordance with agreed coordination procedures between FinCEN and INTERPOL;

(5) Furnish information to individuals and organizations, in the course of enforcement efforts, to the extent necessary to elicit information pertinent to financial law enforcement;

(6) Furnish information to a court, magistrate, or administrative tribunal in the course of presenting evidence, including disclosures to opposing counsel or witnesses in the course of civil discovery, litigation, or settlement negotiations, in response to a subpoena, or in connection with civil or criminal law proceedings;

(7) Furnish information to the news media in accordance with the guidelines contained in 28 CFR 50.2, which relate to civil and criminal proceedings; and

(8) Furnish information to the Department of State and the Intelligence Community to further those agencies' efforts with respect to national security and the foreign aspects of international narcotics trafficking.

Policies and practices for storing, retrieving, accessing, retaining, and disposing of records in the system:

Storage:

Magnetic media and hard copy.

Retrievability:

By name, address, or unique identifying number.

Safeguards:

All FinCEN personnel accessing the system will have successfully passed a background investigation. FinCEN will furnish information from the system of records to approved personnel only on a “need to know” basis using passwords and access control. Procedural and physical safeguards to be utilized include the logging of all queries and periodic review of such query logs; compartmentalization of information to restrict access to authorized personnel; physical protection of sensitive hard copy information; encryption of electronic communications; intruder alarms; and 24-hour building guards.

Retention and disposal:

FinCEN personnel will review records each time a record is retrieved and on a periodic basis to see whether it should be retained or modified. FinCEN will dispose of all records after twenty years. Records will be disposed of by erasure of magnetic media and by shredding and/or burning of hard copy documents.

System manager(s) and addresses:

Deputy Director, Financial Crimes Enforcement Network, Vienna, VA 22182.

Notification procedure:

Pursuant to 5 U.S.C. 552a(j)(2), (k)(1), and (k)(2), this system of records may not be accessed for purposes of determining if the system contains a record pertaining to a particular individual.

Record Access procedures:

See “Notification procedure” above.

Contesting Record procedures:

See “Notification procedure” above.

Record source categories:

See “Categories of individuals covered by the system” above. The system contains material for which sources need not be reported.

Exemptions claimed for the system:

This system is exempt from 5 U.S.C. 552a(c)(3), (c)(4), (d)(1), (d)(2), (d)(3), (e)(1), (e)(2), (e)(3), (e)(4)(G), (H), and (I), (e)(5), (e)(8), (f), and (g) of the Privacy Act pursuant to 5 U.S.C. 552a(j)(2), (k)(1), and (k)(2).

TREASURY/DO .201

System name:

Fitness Center Records—Treasury/DO.

System location:

Department of the Treasury, 1500 Pennsylvania Avenue, NW., Washington, DC 22020.

Categories of individuals covered by the system:

Treasury Department employees who have applied for membership and participate in the Treasury fitness program.

Categories of records in the system:

Name, job title, addresses, date of birth, age, sex; name, address, and telephone number of personal physician; name, and address and telephone number of emergency contact; health and exercise history; physician's clearance; informed consent form, waiver and release form, program interest survey form; fitness assessment results; and results of health tests taken by the Fitness Center members.

Authority for the maintenance of the system:

5 U.S.C. 301.

Purpose(s):

The records are collected and maintained to provide the Fitness Center contractor with written documentation of user's membership status. The records enable the contractor to identify the current fitness level and potential health risks faced by each user. The collection of these records provides essential baseline information allowing the contractor to prescribe the appropriate exercise program to each user.

Routine uses of records maintained in the system, including categories of users and the purposes of such uses:

No disclosures will be made outside the Departmental Offices.

Policies and practices for storing, retrieving, accessing, retaining, and disposing of records in the system:

Storage:

Paper records and magnetic media.

Retrievability:

By name and membership number.

Safeguards:

Records are stored in locked cabinets in a locked room. Access is limited to authorized employees of the contractor responsible for servicing the records in the performance of their duties.

Retention and disposal:

Active records are retained indefinitely. Inactive records are held for three years, then are destroyed by shredding.

System managers and address:

Director, Administrative Operations, Department of the Treasury, Room 1212-MT, 1500 Pennsylvania Ave., NW., Washington, DC 20220. Name of the contractor will be provided by the system manager upon request.

Notification procedure:

Individuals seeking access to any record contained in the system of records, or seeking to contest its content, may inquire in accordance with instructions appearing at 31 CFR part 1, subpart C, appendix A. Inquiries should be addressed to Assistant Director, Disclosure Services, Departmental Offices, 1500 Pennsylvania Avenue, NW., Washington, DC 20220.

Record Access procedures:

Inquiries should be addressed to the Assistant Director, Disclosure Services, Departmental Offices, 1500 Pennsylvania Avenue, NW., Washington, DC 20220.

Contesting Record procedures:

See “Notification procedures” above.

Record source categories:

The source of the data is the Treasury Department employee who has applied for membership, contractor personnel and the employee's personal physician.

Exemptions claimed for the system:

None.

TREASURY/DO .202

System name:

Drug-Free Workplace Program Records—Treasury/DO.

System location:

Records are located within Personnel Resources, Workforce Effectiveness, Room 1450-MT, Department of the Treasury, Departmental Offices, 1500 Pennsylvania Ave., NW, Washington, DC 20220

Categories of individuals covered by the system:

Employees of Departmental Offices.

Categories of records in the system:

Records related to selection, notification, testing of employees, drug test results, and related documentation concerning the administration of the Drug-Free Workplace Program within Departmental Offices.

Authority for maintenance of the system:

Pub. L. 100-71; 5 U.S.C. 7301 and 7361; 21 U.S.C. 812; Executive Order 12564, “Drug-Free Federal Workplace”.

Purpose(s):

The system will be established to maintain records relating to the selection, notification, and testing of Departmental Offices' employees for use of illegal drugs and drugs identified in Schedules I and II of 21 U.S.C. 812.

Routine uses of records maintained in the system, including categories of users and the purpose of such uses:

These records may be disclosed to a court of competent jurisdiction where required by the United States Government to defend against any challenge against any adverse personnel action.

Policies and practices for storing, retrieving, accessing, retaining and disposing of records in the system:

Storage:

Records consist of paper records maintained in file folders and magnetic media.

Retrievability:

Records are retrieved by name of employee, position, title, social security number, I.D. number (if assigned), or any combination of these.

Safeguards:

Records will be stored in secure containers, e.g., safes, locked filing cabinets, etc. Access to such records is restricted to individuals having direct responsibility for the administration of the agency's Drug-Free Workplace Program. Procedural and documentary requirements of Pub. L. 100-71 and the Department of Health and Human Services Guidelines will be followed.

Retention and disposal:

Records are retained for two years and then destroyed by shredding, burning, or, in case of magnetic media, erasure. Written records and test results may be retained up to five years or longer when necessary due to challenges or appeals of adverse action by the employee.

System manager(s) and address:

Departmental Offices, Office of Personnel Resources, Department of the Treasury, 1500 Pennsylvania Ave., Room 1450-MT, Washington, DC 20220.

Notification procedure:

Individuals seeking to determine whether this system of records contains information about themselves should address written inquiries to the attention of the Assistant Director, Disclosure Services, Departmental Offices, 1500 Pennsylvania Ave., Washington, DC 20220. Individuals must furnish their full name, Social Security Number, the title, series, and grade of the position they occupied, the month and year of any drug test(s) taken, and verification of identity as required by 31 CFR part 1, subpart C, appendix A.

Record Access procedures:

Individuals seeking to determine whether this system of records contains information about themselves should address written inquiries to the attention of the Assistant Director, Disclosure Services, Departmental Offices, 1500 Pennsylvania Ave., Washington, DC 20220. Individuals must furnish their full name, Social Security Number, the title, series, and grade of the position they occupied, the month and year of any drug test(s) taken, and verification of identity as required by 31 CFR part 1, subpart C, appendix A.

Contesting Record procedures:

The Department of the Treasury rules for accessing records, for contesting contents, and appealing initial determinations by the individual concerned are published in 31 CFR part 1, subpart A, appendix A.

Record source categories:

Records are obtained from the individual to whom the record pertains; Departmental Offices employees involved in the selection and notification of individuals to be tested; contractor laboratories that test urine samples for the presence of illegal drugs; Medical Review Officers; supervisors and managers and other Departmental Offices official engaged in administering the Drug-Free Workplace Program; the Employee Assistance Program, and processing adverse actions based on drug test results.

Exemptions claimed for the system:

None.

TREASURY/DO .207

System name:

Waco Administrative Review Group Investigation-Treasury/DO.

System location:

(a) Department of the Treasury, 1500 Pennsylvania Ave., NW Washington, DC 20220.

(b) Bureau of Alcohol, tobacco and Firearms (ATF), 650 Massachusetts Avenue, NW, Washington, DC 20226.

Categories of individuals covered by the system:

(A) Current and former employees of the Department of the Treasury and its bureaus and persons whose associations with current and former employees relate to the Bureau of Alcohol, Tobacco & Firearms execution of search and arrest warrants at the Branch Davidian compound, near Waco, Texas on February 28, 1993, or any other criminal or civil misconduct, which affects the integrity or facilities of the Department of the Treasury. The names of individuals and the files in their names may be: (1) Received by referral; or (2) developed in the course of the investigation.

(B) Individuals who are: Witnesses; complainants; confidential or non-confidential informants; suspects; defendants who have been identified by the Office of Enforcement, constituent units of the Department of the Treasury, other agencies, or members of the general public in connection with the authorized functions of the Office of Enforcement.

(C) Members of the general public who provide information pertinent to the investigation.

Categories of records in the system:

(A) Letters, memoranda, and other documents citing complaints of alleged criminal misconduct pertinent to the events leading to the Bureau of Alcohol, Tobacco & Firearms execution of search and arrest warrants at the Branch Davidian compound, near Waco, Texas, on February 28, 1993.

(B) Investigative files which include:

(1) Reports of investigations to resolve allegations of misconduct or violations of law and to comply with the President's specific directive for a fact finding report on the events leading to the Bureau of Alcohol, Tobacco & Firearms execution of search and arrest warrants at the Branch Davidian compound, near Waco, Texas, on February 28, 1993, with related exhibits, statements, affidavits, records or other pertinent documents obtained during investigation;

(2) Transcripts and documentation concerning requests and approval for consensual telephone and consensual nontelephone monitoring;

(3) Reports from or to other law enforcement bodies;

(4) Prior criminal or noncriminal records of individuals as they relate to the investigations; and

(5) Reports of actions taken by management personnel regarding misconduct and reports of legal actions resulting from violations of statutes referred to the Department of Justice for prosecution;

(6) Videotapes of events pertinent to the events leading to the Bureau of Alcohol, Tobacco & Firearms execution of search and arrest warrants at the Branch Davidian compound, near Waco, Texas, on February 28, 1993, or to the Department of Justice criminal prosecutions;

(7) Audiotapes with transcripts of events pertinent to the events leading to the Bureau of Alcohol, Tobacco & Firearms execution of search and arrest warrants at the Branch Davidian compound, near Waco, Texas, on February 28, 1993, or to the Department of Justice criminal prosecutions;

(8) Photographs and blueprints pertinent to the events leading to the Bureau of Alcohol, Tobacco & Firearms execution of search and arrest warrants at the Branch Davidian compound, near Waco, Texas, on February 28, 1993, or to the Department of Justice criminal prosecutions; and

(9) Drawings, sketches, models portraying events pertinent to the events leading to the Bureau of Alcohol, Tobacco & Firearms execution of search and arrest warrants at the Branch Davidian compound, near Waco, Texas, on February 28, 1993, or to the Department of Justice criminal prosecutions.

Purpose(s):

The purpose of the system of records is to implement a data base containing records of investigation conducted by the Waco Administrative Review Group, and other relevant information with regard to the events leading to the Bureau of Alcohol, Tobacco & Firearms execution of search and arrest warrants at the Branch Davidian compound, near Waco, Texas, on February 28, 1993, and, where appropriate, to disclose to other law enforcement agencies which have an interest in the information.

Authority for maintenance of the system:

5 U.S.C. 301; 31 U.S.C. 321.

Routine uses of records maintained in the system, including categories of users and the purposes of such uses:

These records may be used to:

(1) Disclose information to the Department of Justice in connection with actual or potential criminal prosecution or civil litigation;

(2) Disclose pertinent information to appropriate Federal, State, local, or foreign agencies responsible for investigating or prosecuting the violations of, or for enforcing or implementing a statute, rule, regulation, order, or license, or where the disclosing agency becomes aware of an indication of a violation or potential violation of civil or criminal law or regulation;

(3) Disclose information to a Federal, State, or local agency maintaining civil, criminal or other relevant enforcement information or other pertinent information, which has requested information relevant to or necessary to the requesting agency's hiring or retention of an employee, or the issuance of a security clearance, license, contract, grant, or other benefit;

(4) Disclose information to a court, magistrate, or administrative tribunal in the course of presenting evidence, including disclosures to opposing counsel or witnesses in the course of civil discovery, litigation, or settlement negotiations in response to a subpoena, where relevant and necessary, or in connection with criminal law proceedings;

(5) Provide information to third parties during the course of an investigation to the extent necessary to obtain information pertinent to the investigation; and

(6) Provide a report to the President and the Secretary of the Treasury detailing the investigation and findings concerning the events leading to the Bureau of Alcohol, Tobacco & Firearms' execution of search and arrest warrants at the Branch Davidian compound, near Waco, Texas, on February 28, 1993.

Policies and practices for storing, retrieving, accessing, retaining and disposing of records in the system:

Storage:

Paper records in binders and file jackets and all multi-source media information are maintained in locked offices with access, through the administrative documents and records control personnel for the Department, available to personnel with a need to know. Records will be maintained in locked offices during non-business hours. Records will be maintained in the Departmental Offices, in the main Treasury building and ATF Headquarters which are subject to 24-hour security.

Retrievability:

Alphabetically by name, and or by number, or other alpha-numeric identifiers.

Safeguards:

Records and word processing disks are maintained by administrative documents and records control personnel of the Department. All access doors are locked when office is vacant. The records are available on a need-to-know basis to the Office of Enforcement personnel and the ATF Office of Chief Counsel personnel upon verification of the substance and propriety of the request.

Retention and disposal:

Investigative files are stored on-site for six years and indices to those files are stored on-site for ten years. The word processing disks will be retained indefinitely, and to the extent required they will be updated periodically to reflect changes and will be purged when the information is no longer required. Upon expiration of their respective retention periods, the investigative files and their indices are transferred to the Federal Records Center, Suitland, Maryland, for Storage and in most instances destroyed by burning, maceration or pulping when 20 years old.

System manager(s) and address:

(a) Department of the Treasury official prescribing policies and practices: Office of Enforcement, Room 4312-MT, 1500 Pennsylvania Ave. NW., Washington, DC 20220.

(b) Official maintaining records at the ATF: Chief Counsel, Bureau of Alcohol, tobacco and Firearms, 650 Massachusetts Ave., NW., Washington, DC 20226.

Notification procedure:

Individuals seeking access to any record contained in the system of records, or seeking to contest its content, may inquire in accordance with instructions appearing at 31 CFR part 1, subpart c, appendix A. Inquiries should be directed to the Assistant Director, Disclosure Services, Department of the Treasury, Washington, DC 20220.

Record access procedures:

See “Notification procedure” above.

Contesting record procedures:

See “Notification procedure” above.

Record source categories:

Individuals who were witnesses; complainants; confidential or non-confidential informants; suspects; defendants, constituents of the Department of the Treasury, other Federal, State or local agencies and members of the public.

Exemptions claimed for the system:

None.

TREASURY/DO .209

System name:

Personal Services Contracts (PCSs)—Treasury/DO.

System location:

(1) Office of Technical Assistance, Department of the Treasury, 1730 K Street, NW., Suite 204, Washington, DC 20006.

(2) Procurement Services Division, Departmental Offices, Department of the Treasury, 1310 G St. NW., Suite 400 East, Washington, DC 20005.

Categories of individuals covered by the system:

Individuals who have been candidates or who have been awarded a personal services contract (PSC) with the Department of the Treasury.

Categories of records in the system:

Name, address, telephone number, demographic data, education, contracts, supervisory notes, personnel related information, financial, payroll and medical data and documents pertaining to the individual contractors.

Authority for maintenance of the system:

Support for Eastern European Democracy (SEED) Act of 1989 (Pub L. 101-179), Freedom Support Act (Pub L. 102-511), Executive Order 12703.

Purpose(s):

To maintain records pertaining to the awarding of personal services contracts to individuals for the provision of technical services in support of the SEED Act and the FSA, and which establish an employer/employee relationship with the individual.

Routine uses of records maintained in the system, including categories of users and the purposes of such uses:

These records may be used to disclose:

(1) Pertinent information to appropriate Federal, State, local, or foreign agencies, or other public authority, responsible for investigating or prosecuting the violations of, or for enforcing or implementing a statute, rule, regulation, order, or license, where the disclosing agency becomes aware of an indication of a violation or potential violation of civil or criminal law or regulation;

(2) Information to the Department of Justice for the purpose of litigating an action or seeking legal advice;

(3) Information to a Federal, State, local, or other public authority maintaining civil, criminal or other relevant enforcement information or other pertinent information, which has requested information relevant to or necessary to the requesting agency's, bureau's, or authority's hiring or retention of an individual, or issuance of a security clearance, license, contract, grant, or other benefit;

(4) Information in a proceeding before a court, adjudicative body, or other administrative body before which the agency is authorized to appear when: (a) The agency, or (b) any employee of the agency in his or her official capacity, or (c) any employee of the agency in his or her individual capacity where the Department of Justice or the agency has agreed to represent the employee; or (d) the United States, when the agency determines that litigation is likely to affect the agency, is party to litigation or has an interest in such litigation, and the use of such records by the agency is deemed to be relevant and necessary to the litigation or administrative proceeding and not otherwise privileged, and

(5) Information to a Congressional office in response to an inquiry made at the request of the individual to whom the record pertains.

Policies and practices for storing, retrieving, accessing, retaining, and disposing of records in the system:

Storage:

Maintained in file folders and on electronic media.

Retrievability:

Retrieved by name of the individual contractor and contract number.

Safeguards:

Records are maintained in a secured vault with locked file cabinets with access limited to authorized personnel. Offices are locked during non-working hours with security provided on a 24-hour basis. Electronic media is password protected.

Retention and disposal:

Records are periodically updated when a contract is modified. Contract records, including all biographical or other personal data, are retained for the contract period, with disposal after contract completion in accordance with the Federal Acquisition Regulation 4.805. Other records are retained for two years then are destroyed when no longer needed.

System manager(s) and address:

(1) Director, Office of Technical Assistance, Department of the Treasury, 1730 K Street, NW, Suite 204, Washington, DC 20006.

(2) Director, Procurement Services Division, Departmental Offices, Department of the Treasury, 1310 G St. NW., Suite 400 East, Washington, DC 20005.

Notification procedure:

Individuals wishing to be notified if they are named in this system of records, or to gain access or seek to contest its contents, may inquire in accordance with instructions appearing at 31 CFR part 1, subpart C, appendix A. Inquiries should be addressed to Assistant Director, Disclosure Services, Departmental Offices, 1500 Pennsylvania Avenue, NW., Washington, DC 20220.

Record access procedures:

See “Notification procedure” above

Contesting record procedures:

See “Notification procedures” above.

Record source categories:

Information is provided by the candidate, individual Personal Services Contractor, and Treasury employees.

Exemptions claimed for the system:

None.

TREASURY/DO .212

System name:

Suspicious Activity Reporting System (SARS).

System location:

The SAR System is housed at the Internal Revenue Service Computing Center (“DCC”) in Detroit, Michigan, and is managed by the Financial Crimes Enforcement Network (“FinCEN”), Vienna, VA 22182, with the assistance of the staff of DCC.

Categories of individuals covered by the system:

The SAR System contains information about:

(1) Individuals or entities that are known perpetrators or suspected perpetrators of a known or suspected federal criminal violation, or pattern of criminal violations, committed or attempted against a financial institution, or participants in a transaction or transactions conducted through the financial institution, that has been reported by the financial institution, either voluntarily or because such a report is required under the rules of FinCEN, one or more of the Federal Supervisory Agencies (the Board of Governors of the Federal Reserve System (“the Board”), the Office of the Comptroller of the Currency (“OCC”), the Federal Deposit Insurance Corporation (“FDIC”), the Office of Thrift Supervision (“OTS”), and the National Credit Union Administration (“NCUA”) (collectively, the “Federal Supervisory Agencies”)), or both.

(2) Individuals or entities that are participants in transactions, conducted or attempted by, at, or through a financial institution, that have been reported because the institution knows, suspects, or has reason to suspect that: (a) The transaction involves funds derived from illegal activities, the transaction is intended or conducted to hide or disguise funds or assets derived from illegal activities as part of a plan to violate or evade any law or regulation or to avoid any transaction reporting requirement under Federal law; (b) the transaction is designed to evade any regulations promulgated under the Bank Secrecy Act, Pub. L. 91-508, as amended, codified at 12 U.S.C. 1829b, 12 U.S.C. 1951-1959, and 31 U.S.C. 5311, et seq.; or (c) the transaction has no business or apparent lawful purpose or is not the sort in which the particular customer would normally be expected to engage, and the financial institution knows of no reasonable explanation for the transaction after examining the available facts, including the background and possible purpose of the transaction;

(3) Individuals who are directors, officers, employees, agents, or otherwise affiliated with a financial institution;

(4) Individuals or entities that are actual or potential victims of a criminal violation or series of violations;

(5) Individuals who are named as possible witnesses in connection with matters arising from any such report;

(6) Individuals or entities named as preparers of any such report;

(7) Individuals or entities named as persons to be contacted for assistance by government agencies in connection with any such report;

(8) Individuals or entities who have or might have information about individuals or criminal violations described above; and

(9) Individuals or entities involved in evaluating or investigating any matters arising from any such report.

Categories of records in the system:

The SAR System contains information reported to FinCEN by financial institutions on a Suspicious Activity Report (“SAR”) required under the authority of FinCEN or one or more of the Federal Supervisory Agencies, or both. SARs contain information about the categories of persons or entities specified in “Categories of Individuals Covered by the system.” The SAR System may also contain records pertaining to criminal prosecutions, civil actions, enforcement proceedings, and investigations resulting from or relating to SARs. Additionally, it will contain records pertaining to criminal prosecutions, civil actions, enforcement proceedings, and investigations relating to institutions required to file reports or under the supervision of one or more of the Federal Supervisory agencies.

Authority for maintenance of the system:

The system is established and maintained in accordance with 31 U.S.C. 5318(g); 31 CFR Part 103; 31 U.S.C. 321; and Department of the Treasury Order 105-08.

Purpose(s):

The requirements of FinCEN and the Federal Supervisory Agencies create an integrated process for reporting suspicious activity and known or suspected crimes by, at, or through depository institutions and certain of their affiliates. The process is based on a single uniform SAR filed with FinCEN.

The SAR System has been created, as a key part of this integrated reporting process, to permit coordinated and enhanced analysis and tracking of such information, and rapid dissemination of SAR information to appropriate law enforcement and supervisory agencies. The provisions of 31 U.S.C. 5318(g)(4)(B) specifically require that the agency designated as repository for SARs refer those reports to any appropriate law enforcement or supervisory agency.

Data from the SAR System will be exchanged, retrieved, and disseminated, both manually and electronically among FinCEN, the Federal Supervisory Agencies, appropriate Federal, State, and local law enforcement agencies, and State banking supervisory agencies. Agencies to which information will be referred electronically, which in certain cases may involve electronic transfers of batch information, include the Federal Supervisory Agencies, the Federal Bureau of Investigation (FBI), the Criminal Investigation Division of the Internal Revenue Service, the United States Secret Service, the United States Customs Service, the Executive Office of the United States Attorneys and the Offices of the 93 United States Attorneys, and State bank supervisory agencies and certain State law enforcement agencies, which have entered into appropriate agreements with FinCEN. (The FBI and Secret Service may receive electronic transfers of batch information as forms are filed to permit those agencies more efficiently to carry out their investigative responsibilities.) Organizations to which information is regularly disseminated are referred to as SAR System Users. It is anticipated that information from the SAR System will also be disseminated to other appropriate Federal, State, or local law enforcement organizations and regulatory agencies that enter into appropriate agreements with FinCEN. In addition, information may be disseminated to non-United States financial regulatory and law enforcement agencies.

Routine uses of records maintained in the system, Including Categories of Users and the Purposes of Such Uses:

These records may be used to:

(1) Provide information or records, electronically or manually, to SAR System Users relevant to the enforcement and supervisory programs and operations of those Users;

(2) Provide SAR System Users and their Executive Departments with reports that indicate the number, amount, individual identity, and other details concerning potential violations of the law that have been the subject of Suspicious Activity Reports;

(3) Provide information or records to any appropriate domestic or non-United States governmental agency or self-regulatory organization charged with the responsibility of administering law or investigating or prosecuting violations of law, or charged with the responsibility of enforcing or implementing a statute, rule, regulation, order, or policy, or charged with the responsibility of issuing a license, security clearance, contract, grant, or benefit, when relevant to the responsibilities of these agencies or organizations;

(4) Provide information or records, when appropriate, to international and foreign governmental authorities in accordance with law and formal or informal international agreement;

(5) Disclose on behalf of a SAR System User, the existence, but not necessarily the content, of information or records to a third party, in cases where a SAR System User is a party or has a direct interest and where the SAR System User has concluded that such disclosure is necessary;

(6) Provide information or records to the Department of Justice, or in a proceeding before a court, adjudicative body, or other administrative body before which the SAR System User is authorized to appear, when (a) the SAR System User, or any component thereof; or (b) any employee of the SAR System User in his or her official capacity; or (c) any employee of the SAR System User, where the Department of Justice or the SAR System User has agreed to represent the employee; or (d) the United States is a party to litigation or has an interest in such litigation, when the SAR System User determines that litigation is likely to affect the SAR System User or any of its components and the use of such records by the Department of Justice or the SAR System User is deemed by the SAR System User to be relevant and necessary to the litigation, provided, however, that in each case it has been determined that the disclosure is compatible with the purpose for which the records were collected;

(7) Disclose information or records to individuals or entities to the extent necessary to elicit information pertinent to the investigation, prosecution, or enforcement of civil or criminal statutes, rules, regulations, or orders;

(8) In accordance with Executive Order 12968 (August 2, 1995), provide information or records to any appropriate government authority in connection with investigations and reinvestigations to determine eligibility for access to classified information to the extent relevant for matters that are by statute permissible subjects of inquiry;

(9) Provide, when appropriate, information or records to a bar association, or other trade or professional organization performing similar functions, for possible disciplinary action;

(10) Provide information or records to the Department of State and to the United States Intelligence Community, within the meaning of Executive Order 12333 (December 4, 1981) to further those agencies' efforts with respect to national security and international narcotics trafficking;

(11) Furnish analytic and statistical reports to government agencies and the public providing information about trends and patterns derived from information contained on Suspicious Activity Reports, in a form in which individual identities are not revealed; and

(12) Disclose information or records to any person with whom FinCEN, the DCC, or a SAR System User contracts to provide consulting, data processing, clerical, or secretarial functions relating to the official programs and operations of FinCEN, DCC, or the SAR System User.

Policies and practices for storing, Retrieving, Accessing, Retaining, and Disposing of Records in the System:

Storage:

Records are maintained in magnetic media and on hard paper copy.

Retrievability:

Data in the SAR System may be retrieved by sectionalized data fields (i.e., name of financial institution or holding company, type of suspected violation, individual suspect name, witness name, and name of individual authorized to discuss the referral with government officials) or by the use of search and selection criteria.

Safeguards:

The system is located in a guarded building that has restricted access. Access to the computer facilities and any paper records is subject to additional physical safeguards that restrict access. Access to any electronic records in the system is restricted by means of passwords and non-transferable identifiers issued to authorized SAR System Users. The system complies with all applicable security requirements of the Department of the Treasury.

Retention and disposal:

Records in this system will be updated periodically to reflect changes, and will be maintained in electronic form as long as needed for the purpose for which the information was collected. Records will then be disposed of in accordance with applicable law.

System Manager and Address:

Deputy Director, Financial Crimes Enforcement Network, United States Department of the Treasury, Vienna, Virginia 22182.

Notification procedure:

This system is exempt from notification requirements, record access requirements, and requirements that an individual be permitted to contest its contents, pursuant to the provisions of 5 U.S.C. 552a(j)(2) and (k)(2).

Record access procedures:

See “Notification procedure” above.

Contesting record procedures:

See “Notification procedure” above.

Record source categories:

Records in this system may be provided by or obtained from: individuals; financial institutions and certain of their affiliates; Federal Supervisory Agencies; State financial institution supervisory agencies; domestic or foreign governmental agencies; foreign or international organizations; and commercial sources. Pursuant to the provisions of 5 U.S.C. 552a(j)(2) and (k)(2), this system is exempt from the requirement that the Record source categories be disclosed.

Exemptions claimed for the system:

This system is exempt from 5 U.S.C. 552a(c)(3), (c)(4), (d)(1), (d)(2), (d)(3), (d)(4), (e)(1), (e)(2), (e)(3), (e)(4)(G), (e)(4)(H), (e)(4)(I), (e)(5), (e)(8), (f), and (g) of the Privacy Act pursuant to 5 U.S.C. 552a(j)(2) and (k)(2).

TREASURY/DO .213

System name:

Bank Secrecy Act Reports System—Treasury/DO.

System location:

Electronic Records: Currency and Banking Retrieval System, Internal Revenue Service Detroit Computing Center, 985 Michigan Avenue, Detroit, Michigan, 48226-1129 and Treasury Enforcement Communications System, United States Customs Service Newington, 7681 Boston Boulevard, Springfield, Virginia, 22153-3140. Paper Records: Form 4790—U.S. Customs Service, Newington, VA. All other forms, including, but not limited to, Form 4789, TDF 90.22-1 and Form 8362-Internal Revenue Service, Detroit, MI.

Categories of individuals covered by the system:

Persons identified in reports required to be filed under the Bank Secrecy Act and its implementing regulations (31 CFR part 103) including, but not limited to, reports made on IRS Form 4789 (Currency Transaction Report), IRS Form 8362 (Currency Transaction Report by Casinos), Customs Form 4790 (Report of International Transportation of Currency or Monetary Instruments), Treasury Form TDF 90-22.1 (Report of Foreign Bank and Financial Accounts), and forms filed by casinos located in the State of Nevada in lieu of Form 8362. (This system of records does not cover persons identified in Suspicious Activity Reports, TDF 90-22.47. Those reports are included in another system of records, “Suspicious Activity Reporting System—Treasury/DO .212.”)

Categories of records in the system:

Reports required to be filed under the Bank Secrecy Act and its implementing regulations (31 CFR part 103) including, but not limited to, reports made on IRS Form 4789 (Currency Transaction Report), IRS Form 8362 (Currency Transaction Report by Casinos), Customs Form 4790 (Report of International Transportation of Currency or Monetary Instruments), Treasury Form TDF 90-22.1 (Report of Foreign Bank and Financial Accounts), and forms filed by casinos located in the State of Nevada in lieu of Form 8362. (This system does not include Suspicious Activity Reports, TDF 90-22.47, required under 31 CFR part 103. Those reports are included in another system of records, “Suspicious Activity Reporting System—Treasury/DO .212.”) These reports include names of individuals and other entities filing the reports, names of the owners of monetary instruments, the amounts and kinds of currency or other monetary instruments transported, reported, or in foreign banking accounts, account numbers, addresses, dates of birth, and other personal identifiers.

Authority for maintenance of the system:

12 U.S.C. 1829b and 1951-1959; 31 U.S.C. 5311-5314, 5316, et seq.; 5 U.S.C. 301; 31 CFR part 103; Treasury Department Order No. 105-08.

Purpose(s):

The Bank Secrecy Act, codified at 12 U.S.C. 1829b and 1951-1959 and 31 U.S.C. 5311-5314, 5316, et seq authorizes the Secretary of the Treasury to issue regulations requiring records and reports that are determined to have a high degree of usefulness in criminal, tax, and regulatory matters. The Secretary's authority has been implemented through regulations promulgated at 31 CFR part 103. The purpose of this system of records is to maintain the information contained on the reports required under these regulations. This information is disseminated, both electronically and manually, in accordance with strict safeguards, to appropriate Federal, State, local, and foreign criminal law enforcement and regulatory personnel in the official performance of their duties. The information is used in a wide range of criminal investigations, including, but not limited to, investigation of international and domestic money laundering, tax evasion, fraud, and other financial crimes.

Routine uses of records maintained in the system, Including Categories of Users and the Purpose of Such Uses: These records may be used to:

(1) Disclose pertinent information to appropriate Federal, State, local, or foreign agencies responsible for investigating or prosecuting the violations of, or for enforcing or implementing, a statute, rule, regulation, order, or license, where the disclosing agency becomes aware of an indication of a violation or potential violation of civil or criminal law or regulation;

(2) Disclose information to Federal, State, or local agencies, maintaining civil, criminal, or other relevant information, which has requested information relevant to or necessary to the requesting agency's hiring or retention of an individual, or issuance of a security clearance, license, contract, grant, or other benefit;

(3) Disclose to appropriate Federal, State, or local agencies engaged in the identification, investigation, and prosecution of violations or potential violations of criminal statutes, information, in a computerized format, to identify or to permit the identification of patterns of suspected criminal activity that fall within the jurisdiction of the agency requesting the information;

(4) Disclose information to Federal or State regulatory agencies or self-regulatory agencies responsible for supervising compliance with the Bank Secrecy Act, limited to information relevant to meeting supervisory or compliance responsibilities;

(5) Disclose relevant information on individuals to authorized Federal and State agencies through computer matching in order to help eliminate waste, fraud, and abuse in Government programs and identify individuals who are potentially in violation of civil law, criminal law, or regulation;

(6) Disclose information to a court, magistrate, or administrative tribunal in the course of presenting evidence, including disclosures to opposing counsel or witnesses in the course of civil discovery, litigation, or settlement negotiations, in response to a subpoena, or in connection with criminal law proceedings;

(7) Provide information to the news media, in accordance with guidelines contained in 28 CFR 50.2, that relates to an agency's functions relating to civil and criminal proceedings; and

(8) Provide information to third parties during the course of an investigation to the extent necessary to obtain information pertinent to the investigation.

Policies and practices for storing, retrieving, accessing, retaining, and disposing of records in the system:

Storage:

Records are maintained in magnetic media and on hard paper copy.

Retrievability:

By name and other unique identifier.

Safeguards:

All persons with electronic access to records in the system will have successfully completed a background investigation. All State and local agency personnel, and all Federal personnel outside the U. S. Department of the Treasury with electronic access will have successfully completed appropriate training. Passwords and access controls will be utilized. Signed agreements outlining usage and dissemination rules are required of all non-Treasury agencies before electronic access is authorized. Procedural and physical safeguards include: The logging of all queries and periodic review of such query logs; compartmentalization of information to restrict access to authorized personnel; physical protection of sensitive hard copy documents and magnetic tapes; encryption of electronic communications; intruder alarms and other security devices; and 24-hour building guards. The system complies with all applicable security requirements of the Department of the Treasury.

Retention and disposal:

Records in this system will be updated periodically to reflect changes, and will be maintained in electronic form as along as needed for the purposes for which the information was collected. Records will be disposed of in accordance with applicable law.

System manager(s) and address:

General Policy: Deputy Director, Financial Crimes Enforcement Network, Vienna, Virginia 22182-2536. Computer Systems Maintenance and Administration: Director, IRS Computing Center, 985 Michigan Avenue, Detroit, Michigan, 48226-1129 and Director, Office of Information Technology, U.S. Customs Service Newington, 7681 Boston Boulevard, Springfield, Virginia, 22153-3140.

Notification procedure:

This system is exempt from notification requirements, record access requirements, and requirements that an individual be permitted to contest its contents, pursuant to the provisions of 5 U.S.C. 552a(j)(2) and (k)(2).

Record access procedures:

See “Notification procedure” above.

Contesting record procedures:

See “Notification procedure” above.

Record source categories:

Pursuant to the provisions of 5 U.S.C. 552a(j)(2) and (k)(2), this system is exempt from the requirement that the Record source categories be disclosed.

Exemptions claimed for the system:

This system is exempt from 5 U.S.C. 552a(c)(3), (c)(4), (d)(1), (d)(2), (d)(3), (d)(4), (e)(1), (e)(2), (e)(3), (e)(4)(G), (e)(4)(H), (e)(4)(I), (e)(5), (e)(8), (f), and (g) of the Privacy Act pursuant to 5 U.S.C. 552a(j)(2) and (k)(2). See 31 CFR 1.36.

[FR Doc. 02-3417 Filed 2-15-02; 8:45 am]

BILLING CODE 4811-16-P